POSTAL SERVICE

39 CFR Part 111

Proposed Changes to the Domestic Mail Manual to Implement Docket No. R2000-1

AGENCY: Postal Service.

ACTION: Proposed rule.

SUMMARY: On January 12, 2000, the United States Postal Service, in conformance with sections 3622 and 3623 of the Postal Reorganization Act (39 U.S.C. 101 et seq.), filed a request for a recommended decision by the Postal Rate Commission (PRC) on proposed rate, fee, and classification changes. The PRC designated this filing as Docket No. R2000-1. The PRC issued a notice of filing in Order No. 1279 on January 14, 2000.

This proposed rule provides information on the implementing rules for the rate, fee, and classification changes that the Postal Service proposes to adopt if the PRC's recommended decision on R2000-1 is consistent with the Postal Service's request and if the Governors of the Postal Service, acting pursuant to 39 U.S.C. 3625, approve that recommended decision.

DATES: Comments must be received on or before October 2, 2000.

ADDRESSES: Mail or deliver written comments to the Manager, Mail Preparation and Standards, USPS Headquarters, 475 L'Enfant Plaza SW, Room 6800, Washington DC 20260-2405. Fax: 202-268-4336. Copies of all written comments will be available for inspection and photocopying between 9 a.m. and 4 p.m., Monday through Friday, at USPS Headquarters Library, 475 L'Enfant Plaza SW, 11th Floor N, Washington, DC.

FOR FURTHER INFORMATION CONTACT: Karen Magazino, 202-268-3854 (for information on Express Mail, First-Class Mail, and Priority Mail); Joel Walker, 202-268-3340 (for information on Periodicals); Lynn Martin, 202-268-6351 (for information on Standard Mail); Paul Lettman, 202-268-6261 (for information on Parcel Post, Media Mail, and Library Mail); Thomas DeVaughan, 202-268-4491, or Lynn Martin, 202-268-6351 (for information on Bound Printed Matter); Thomas DeVaughan, 202-268-4491, or Anne Emmerth, 202-268-2363 (for information on special services); Anne Emmerth, 202-268-2363 (for information on post office boxes); Carrie Bornitz, 202-268-6797 (for information on Signature Confirmation). General contact for all subjects is Lynn Martin, 202-268-6351.

SUPPLEMENTARY INFORMATION: The Postal Service's request in Docket No. R2000-1 includes major classification and rate structure changes and increases in most existing rate and fee categories. The proposed major classification changes and rate structure changes are as follows:

(1) For Priority Mail, a separate price for pieces weighing 1 pound or less would be added.

(2) For First-Class Mail automation flats, the current 3/5-digit presort rate would be replaced with a separate 5-digit rate and a separate 3-digit rate.

(3) For Periodicals, based on an anticipated legislative change, the Regular, Nonprofit, and Classroom subclasses will be merged into a new “Outside-County” subclass. The preferred nature of Nonprofit and Classroom publications would be recognized by applying a 5% discount off of the total computation of Outside-County postage, except that the discount would not apply to postage for advertising pounds. Furthermore, the 5% discount would not apply to commingled nonsubscriber, nonrequester, complimentary, and sample copies in excess of the 10% allowance under Domestic Mail Classification Schedule (DMCS) sections 412.34 and 413.42, or to Science-of-Agriculture mail.

(4) For Periodicals, physical restrictions would be added to specify that a mailpiece may not weigh more than 70 pounds or measure more than 108 inches in length and girth combined, and that additional size limitations may apply to pieces mailed at individual rate categories.

(5) For Standard Mail (A), which would be renamed Standard Mail, a new barcoded discount would be available for machinable parcels that are subject to the residual shape surcharge and that are entered as Regular or Nonprofit subclass mail. (Mail entered at carrier route rates would not be eligible.)

(6) For Standard Mail (A), which would be renamed Standard Mail, a separate residual shape surcharge would be added for Enhanced Carrier Route and Nonprofit Enhanced Carrier route pieces. This surcharge would be lower than the residual shape surcharge for Regular and Nonprofit mail.

(7) For Standard Mail (A), which would be renamed Standard Mail, all automation letters would have a weight limit of 3.5 ounces. All other Standard Mail letters would be subject to a maximum weight limit of 3.3 ounces for minimum per-piece rates.

(8) Standard Mail (B) would be renamed Package Services. Package Services would include Parcel Post, Bound Printed Matter, Media Mail (formerly Special Standard Mail), and Library Mail.

(9) For Parcel Post, the minimum 16-ounce weight requirement would be removed. Pieces weighing less than 1 pound would be subject to the full, applicable rate for a piece weighing 2 pounds.

(10) For Parcel Post, a nonmachinable surcharge would be added for intra-BMC/ASF rate mail and a separate nonmachinable surcharge would be added for destination bulk mail center (DBMC) rate mail.

(11) For Bound Printed Matter (BPM), the minimum 16-ounce weight requirement would be removed. Presorted and Carrier Route rate pieces weighing less than 1 pound would be subject to the full, applicable rate for a piece weighing 1 pound and single-piece rate BPM pieces weighing less than 1 pound would be subject to the full, applicable rate for a piece weighing 1.5 pounds.

(12) For all Bound Printed Matter, the separate local zone rate category would be removed. Mail for local zones would be subject to the same rates as mail for zones 1 and 2.

(13) For Bound Printed Matter, three destination entry discounts would be added for mail entered at the destination bulk mail center (DBMC), destination sectional center facility (DSCF), and destination delivery unit (DDU).

(14) Special Standard Mail would be renamed Media Mail.

(15) For Bulk Parcel Return Service, mailers would be required to pay an annual accounting fee.

(16) For Collect on Delivery (COD), the limit for collection would increase from $600 to $1,000.

(17) For Delivery Confirmation, electronic option Delivery Confirmation would be extended to Standard Mail (formerly Standard Mail (A)) pieces that are subject to the residual shape surcharge.

(18) For insurance, bulk insurance service would be extended to Standard Mail (formerly Standard Mail (A)) pieces that are subject to the residual shape surcharge.

(19) For merchandise return service, the per-piece (transaction) fee for pieces returned to the permit holder would be removed, and permit holders would be required to pay an annual accounting fee. Senders (those who use MRS labels to return a parcel to the permit holder) would be permitted to add insurance to a MRS piece at their own discretion and expense. No other special services could be added by the sender.

(20) For meter service, the name of the service “on-site meter settings” would be changed to “on-site meter service.” The “additional meters” fee category would be replaced with a “meter reset and/or examined” fee category that would be applicable to each meter reset or examined, including the first meter. Secured postage meters would be exempt from the checking in/out fee.

(21) For post office boxes, the box fee groups would be realigned to better match fees with the costs of providing post office box service. A nonrefundable fee would be added for replacing or duplicating post office box keys. A nonrefundable fee would be added for changing a post office box lock.

(22) For business reply mail, a new “high-volume” fee category is added for Qualified Business Reply Mail (QBRM). The high-volume fee category would give permit holders the option of paying a quarterly fee (in addition to the annual accounting fee) and thereby qualify for a lower per piece charge.

(23) For return receipt for merchandise, service would be extended to Standard Mail (formerly Standard Mail (A)) pieces that are subject to the residual shape surcharge. Return receipt for merchandise service also would be extended to unnumbered insured items.

(24) For Shipper Paid Forwarding, an annual accounting fee would be added for mailers who choose to pay forwarding charges through an advance deposit account.

(25) A new classification for Signature Confirmation service has been proposed.

(26) For stamped envelopes, the current three categories of stamped envelopes would be realigned into two categories: household (basic) and special.

Part A of this proposed rule summarizes the proposed revisions to the Domestic Mail Manual (DMM) necessary to implement R2000-1 by class of mail and special service category. Part B summarizes the proposed changes by DMM module and section. The actual proposed changes to the DMM follow at the end of this proposed rule.

Comments are solicited on the implementing DMM standards that appear at the end of this proposed rule. As information, the DMM language in this proposed rule incorporates revisions to the DMM from four previously published Federal Register final rules that also will take effect on the date that coincides with implementation of the rates resulting from the R2000-1 rate case. These final rules are:

1. “Sack Preparation Changes for Periodicals Nonletter-Size Pieces and Periodicals Prepared on Pallets” published on July 28, 2000 (65 FR 46361).

2. “Line-of-Travel Sequencing for Basic Carrier Route Periodicals” published on July 28, 2000 (65 FR 46363).

3. “Preparation Changes for Palletized Standard Mail (A) and Bound Printed Matter and for Standard Mail (A) and Standard Mail (B) Claimed at DBMC Rates” published on August 8, 2000 (65 FR 48385).

4. “Domestic Mail Manual Changes for Sacking and Palletizing Periodicals Nonletters and Standard Mail (A) Flats, for Traying First-Class Flats, and for Labeling Pallets” published on August 16, 2000 (65 FR 50054).

Accordingly, the numbering and the language of the DMM sections in this proposed rule have been synchronized with these final rules and may not match the numbering and language in current DMM Issue 55.

Although proposed rates, rate categories, and rate structures are included in this language, they are outside the scope of this rulemaking process because they are still under review by the Postal Rate Commission. For example, comments on whether destination entry rates for Bound Printed Matter should be offered, or offered at a different rate, would not be appropriate. However, comments suggesting changes to the way the Postal Service implements standards for destination entry Bound Printed Matter would, however, be appropriate.

Similarly, comments on the provisions contained in the four Federal Register notices listed above are outside the scope of this rulemaking because they have already been subject to the comment process and published as final rules.

A. Summary of Proposed Changes by Class of Mail

1. Express Mail

a. Express Mail Rate Highlights

Overall, Express Mail rates are proposed to increase by an average of 3.8%. Moderate increases are proposed for all Express Mail rates, except for a $0.30 decrease in the 1/2-pound rates for Custom Designed Service and for Next Day and Second Day Post Office to Post Office Service. The fee for pickup service is proposed to increase from $8.25 to $10.25 per occurrence. The fee for delivery stops (Custom Designed Service only) is proposed to increase from $8.25 to $10.25. The fee for every $100 increment of additional insurance desired above the standard $500 of coverage would increase from $0.95 to $1.00.

b. Express Mail Rate Structure

There are no proposed changes to the rate structure of Express Mail.

c. Express Mail Preparation Changes

There are no proposed changes to mail preparation requirements for Express Mail.

2. Priority Mail

a. Priority Mail Rate Highlights

Overall, Priority Mail rates are proposed to increase by an average of 15%. The fee for pickup service is proposed to increase from $8.25 to $10.25 per occurrence.

b. Priority Mail Rate Structure

(1) One Pound or Less Priority Mail Rate

A unique Priority Mail rate is proposed for pieces weighing 1 pound or less. Currently all Priority Mail pieces weighing 2 pounds or less pay the same rate. The proposed 1-pound Priority Mail rate is $0.35 more than the proposed First-Class Mail rate ($3.10) for a 13-ounce piece. Mail that is placed in a Priority Mail flat-rate envelope will continue to be charged the 2-pound rate even if the actual weight is 1 pound or less.

(2) Keys and Identification Devices

It is proposed that keys and identification devices that weigh more than 13 ounces but not more than 1 pound will be eligible for the new 1-pound Priority Mail rate plus the fee. The fee for keys and identification devices is proposed to increase from $0.30 to $0.35.

c. Priority Mail Preparation Changes

There are no proposed changes to mail preparation requirements for Priority Mail.

3. First-Class Mail

a. First-Class Mail Rate Highlights

Overall, First-Class Mail rates are proposed to increase by an average of 3.6%. It is proposed that the single-piece first-ounce letter rate be increased by only one cent, from $0.33 to $0.34, and that the rate for additional ounces increases by only one cent from $0.22 to $0.23. The Postal Service also is proposing a $0.01 increase in the single-piece card rate from $0.20 to $0.21.

It is proposed that the first-ounce letter rate for Qualified Business Reply Mail (QBRM) increase from $0.30 to $0.31, and that the card rate for QBRM remain the same at $0.18.

The nonstandard surcharge for single-piece rate mail weighing one ounce or less would remain the same at $0.11. The nonstandard surcharge for Presorted rate and Automation rate pieces would remain the same at $0.05.

Small increases are proposed for Automation and Presorted rates. The Postal Service proposes a $0.01 increase in the basic automation flat rate, from $0.30 to $0.31. The combined 3/5-digit rate category for automation flats would be eliminated. It is proposed that new and separate automated rate categories for 3-digit automation flats and for 5-digit automation flats be implemented. The annual presort mailing fee is proposed to increase from $100 to $125.

b. First-Class Mail Rate Structure

It is proposed to split the current automation flats 3/5-digit rate into two separate rates: a 5-digit automation rate and a 3-digit automation rate.

c. First-Class Mail Preparation Changes

(1) Automation Flats (DMM M011, M030, M033, M820, M910)

The Postal Service is proposing to change the standards for preparation of 5-digit packages and 5-digit trays of automation flats under DMM 820 from required levels of sortation to optional levels of sortation. This is supported by the new rate structure that provides separate 5-digit and 3-digit rates for automation flats. All other current mail preparation requirements would remain the same.

It is also proposed to add a new tray-based presort option for automation flats. When using this option, mailers would not need to prepare automation flats in 5-digit, 3-digit, ADC and mixed ADC packages. Instead, mailers would prepare flat trays to 5-digit (optional), 3-digit, ADC, and mixed ADC destinations whenever there were 90 or more pieces to a presort destination. Ninety is the average number of pieces that fills a flat tray up to the bottom of the handholds when at least a single stack of mail is lying flat on the bottom of the tray. When there are 90 or more pieces for a presort destination, mailers would be required to physically fill flat tray(s) for that destination and would be allowed one less-than-full tray or one overflow tray per presort destination. Preparation of 5-digit trays also would be optional under this tray-based preparation option. Rates would be based on the sortation level of the tray to which a piece is sorted. If this proposal is adopted, mailers choosing to prepare their mail using this option would not be eligible to prepare their mail as outlined in new M910 which will also go into effect when the rates resulting from the R2000-1 rate case are implemented. (M910 will permit co-traying of packages from automation rate mailings and packages from Presorted rate mailings that are part of the same mailing job and meet other criteria.)

(2) Tray Containers (DMM M033)

For clarification, it is proposed to add information to M033.1.2 to show that the lids required to be placed on First-Class Mail flat trays must be placed on the tray green side up prior to strapping under M033.1.5b.

4. Periodicals

a. Periodicals Rate Highlights

The average increase for Periodicals in the current proposal is 12.6%. Outside-County Periodicals would have an average increase of 12.7% while Within-County Periodicals would have an average increase of 8.6%. However, as the result of a joint effort by the Postal Service and the Periodicals industry, further cost savings were identified that have the potential to reduce the proposed increases. The proposed rates assume that the Revenue Forgone Reform Act (RFRA) is amended.

It is proposed to combine two of the preferred subclasses (Nonprofit and Classroom) with the Regular subclass to form an Outside-County subclass with one set of rates. Nonprofit and Classroom publications would receive a 5% discount on total Outside-County postage, excluding the postage for advertising pounds. The Within-County subclass would remain a separate subclass with a separate set of rates.

It is proposed that the nonadvertising percentage per-piece discount, the delivery unit (Outside-County and In-county) per-piece discounts, and the SCF per-piece discount will increase. The Outside-County, Science-of-Agriculture, and In-County pound rates will increase along with all per-piece rates for both subclasses (Outside-County and Within County). See DMM R200 for individual proposed rates and discounts.

It is proposed that the fee for original entry would increase from $305 to $350. The re-entry and newsagents fees will decrease from $50 to $40.

b. Periodicals Rate Structure

Regular, Nonprofit, and Classroom publications would use the same rate schedule. Nonprofit and Classroom publications would receive a 5% discount on total Outside-County postage, excluding the postage for advertising pounds. The 5% discount does not apply to commingled nonsubscriber copies in excess of the 10% allowance provided under DMM E215. In-County rates would remain a separate rate schedule.

c. Periodicals Mail Preparation Changes

(1) Bundles on Pallets

The current DMM describes a “bundle” as a group of packages secured together as a unit that equates to a sack. The current DMM provides both for preparation of packages on pallets under DMM M045.2.0 and for preparation of bundles on pallets under DMM M045.3.0. The Postal Service is not aware of any mailers that currently opt to prepare bundles on pallets. Accordingly, the Postal Service is proposing to delete the option to prepare bundles on pallets under current DMM M045.3.0. The provisions for preparing packages on pallets would remain in DMM M045.2.0.

(2) Previous Rulemakings

Mailers are reminded that three final rule Federal Register notices have previously been published that set forth required and optional preparation requirements for Periodicals that also will be effective on the date that the rates resulting from the R2000-1 rate case are implemented. These are: (1) “Sack Preparation Changes for Periodicals Nonletter-Size Pieces and Periodicals Prepared on Pallets” published on July 28, 2000 (65 FR 46361), (2) “Line-of-Travel Sequencing for Basic Carrier Route Periodicals” published on July 28, 2000 (65 FR 46363), and (3) “Domestic Mail Manual Changes for Sacking and Palletizing Periodicals Nonletters and Standard Mail (A) Flats, for Traying First-Class Flats, and for Labeling Pallets” published August 16, 2000 (65 FR 50054).

5. Standard Mail (Formerly Standard Mail (A))

a. Standard Mail Rate Highlights

The overall average proposed rate increase is 7.7%. Regular rates are proposed to increase by an average of 9.4%. Rates for commercial Enhanced Carrier Route (ECR) mail are proposed to increase by an average of 4.9%. Rates for Nonprofit mail are proposed to increase by an average of 14.8%. Rates for Nonprofit Enhanced Carrier Route are proposed to increase by an average of 5.6%. The proposed rates for Nonprofit and Nonprofit Enhanced Carrier Route are based on anticipated changes to the Revenue Forgone Reform Act (RFRA). However, subsequent to the filing of the Request (for rate increases), mailer associations and the Postal Service engaged in further discussions concerning nonprofit rates. Responsible committees in Congress have since drafted legislation that would change the RFRA. This legislation would provide that nonprofit rates be set so that the estimated average revenue per piece received by the Postal Service from each subclass of nonprofit Standard Mail would be equal, as nearly as practicable, to 60% of the estimated average revenue per piece to be received from the most closely corresponding commercial subclass of mail. If the Postal Service had followed the mechanism in the legislation introduced in Congress in developing its proposal, the Postal Service would have proposed an average rate increase of 4.8% for Nonprofit and 17.3% for Nonprofit Enhanced Carrier Route.

Increased discounts are proposed for destination entry rate mail (DBMC, DSCF, and DDU). The annual presort mailing fee would increase from $100 to $125.

b. Standard Mail Rate Structure

It is proposed that automation letter mail would be subject to a weight limit of 3.5 ounces (.2188 pound). All other Standard Mail letters and non-letters would be subject to a weight limit of 3.3 ounces (.2063 pound) for the minimum per-piece charge.

A new barcoded discount of $0.03 is proposed for Standard Mail machinable parcels that are subject to the residual shape surcharge and that meet other preparation requirements. This discount would be available only for the Regular and Nonprofit Standard Mail subclasses (it would not be available for pieces mailed at the Enhanced Carrier Route and Nonprofit Enhanced Carrier Route subclasses).

Two different residual shape surcharges are proposed. Enhanced Carrier Route and Nonprofit Enhanced Carrier Route mail would have a residual shape surcharge of $0.15, and Regular and Nonprofit mail would have a residual shape surcharge of $0.18.

It is proposed to allow use of return receipt for merchandise, bulk insurance, and electronic option Delivery Confirmation with Standard Mail parcels that are subject to the residual shape surcharge.

c. Standard Mail Preparation Changes

(1) Name Change and DMM Restructuring

The Postal Service proposes to change the name of this mail class from “Standard Mail (A)” to “Standard Mail.” Throughout this proposed rule, “Standard Mail” is used consistently in the DMM text to indicate the class formerly known as “Standard Mail (A).” For brevity, not all sections that had only name changes were reproduced in this final rule. This change will, however, be implemented throughout all of DMM Issue 56, which will transmit the final implementing rules for R2000-1.

DMM sections C600, D600, E600, P600, and R600 would contain standards for only Standard Mail. Matter in these sections that contain standards for Package Services mail would be moved into new sections under C700, D700, E700, P700, and R700, respectively. (Former P700, that contains information on special postage payment systems, would be renumbered as P900.)

Matter pertaining only to Standard Mail in former E611 and E612 has been consolidated and reorganized into new E610. E620 and E630 have been reorganized so that E620 pertains to Presorted rate Standard Mail and E630 pertains to Enhanced Carrier Route Standard Mail.

(2) Sack and Pallet Labels (DMM M031, M032, M045, M600)

Currently, the contents line of sack and pallet labels for irregular parcel and machinable parcel mailings must show “STD A” or “STD B” as applicable for the class being mailed. Because of the name changes of “Standard Mail (A)” to “Standard Mail” and of “Standard Mail (B)” to “Package Services,” the use of “STD A” on “Standard Mail” sack and pallet labels for irregular parcel and machinable parcel mailings would be changed to “STD” (Package Services labels would use “PSVC”).

(3) Weight Limit for Automation Letters (DMM C810)

The maximum weight for heavy letters that may qualify for automation letter rates would be increased to 3.5 ounces (.2188 pound). Pieces of automation heavy letters weighing over 3 ounces up to 3.5 ounces would be required to meet the additional preparation requirements currently in effect for heavy letters in DMM C810 and C840.

Because it is proposed that automation letters have a weight limit of 3.5 ounces (.2188 pound) and other mail be subject to a maximum of 3.3 ounces (.2063 pound) for the minimum per-piece rates, some mailers could enter a mailing job that consists of an automation letters mailing weighing over 3.3 ounces (.2063 pound) for which the pieces would be subject to the automation minimum per-piece rates and a mailing(s) of Enhanced Carrier Route and/or Presorted rate mail for which the pieces would be subject to the piece/pound rates. Such mailing jobs may continue to be reported on the same postage statement.

(4) Dimensions for Machinable Parcels (DMM C050)

The minimum dimensions for a machinable parcel in DMM C050.4.1a would change to not less than 6 inches long, 3 inches high, ¼ inch thick, and 6 ounces in weight. (A mailpiece exactly ¼ inch thick would be subject to the 3½-inch height minimum under C010.) The current minimum weight is 8 ounces unless certain other conditions are met. Some parcels may be successfully processed on BMC parcel sorters although they do not conform to the machinability standards in DMM C050.4.1. If this is the case, a BMC plant manager may authorize a mailer to enter such parcels as machinable parcels if the parcels are tested on BMC parcel sorters and prove to be machinable. Such an authorization will only apply to mail that is both entered at a post office within the service area of the authorizing BMC area and is for delivery to an address within the service area of that BMC. These changes also would apply to Package Services mail.

(5) Preparation of Bundles

The current DMM describes a “bundle” as a group of packages secured together as a unit that equates to a sack. The current DMM provides both for preparation of packages on pallets under DMM M045.2.0 and for preparation of bundles on pallets under DMM M045.3.0. The Postal Service is not aware of any mailers that currently opt to prepare bundles on pallets. Accordingly, the Postal Service is proposing to delete the option to prepare bundles on pallets under current DMM M045.3.0. The provisions for preparing packages on pallets would remain in DMM M045.2.0.

The current DMM also provides for preparation of bedloaded bundles of Presorted and carrier route rate mail under DMM M610.6.0 and M620.6.0, respectively. Such preparation requires Rates and Classification Service Center (RCSC) authorization. The records of the Postal Service currently indicate that there are no mailers authorized to prepare bedloaded bundles in the manner described in the DMM. Because of this, and because bedloaded bundles are generally not cost-efficient for the Postal Service to handle and process, the Postal Service is proposing to delete the options to prepare bedloaded bundles under DMM M610.6.0 and M620.6.0.

(6) Machinable Parcel Barcoded Discount (DMM C850, E610, E620, P600)

The new machinable parcel barcoded discount of $0.03 would apply to machinable parcels (as defined in DMM C050) for which the residual shape surcharge (RSS) is paid and that bear a correct, readable 5-digit barcode under C850 for the ZIP Code shown in the delivery address and are prepared as machinable parcels under M045 or M610. Machinable parcels prepared in 5-digit sacks or on 5-digit pallets entered at DSCF rates may qualify for the barcoded discount even though such pieces will not be processed using BMC barcode scanning equipment. Otherwise, rates for 5-digit sorted machinable parcels entered at DSCF rates could be higher than for BMC sorted machinable parcels that were entered at DBMC rates and which also qualified for the barcoded discount. Machinable parcels entered at DBMC rates may claim the machinable parcel barcoded discount only if they are not entered at an ASF. An exception is that properly prepared machinable pieces of DBMC rate mail entered at the Phoenix, Arizona, ASF may claim the barcoded discount because that facility uses barcode scanning equipment. The machinable parcel barcoded discount is not available for pieces mailed at the Enhanced Carrier Route or Nonprofit Enhanced Carrier Route subclasses.

If all pieces in a mailing are eligible for the machinable parcel barcoded discount under E610 and E620, then the mailing may be paid with meter stamps, permit imprint, or precanceled stamps under the applicable standards. If fewer than 100 percent of the pieces in the mailing are eligible for the machinable parcel barcoded discount, then payment with precanceled stamps would not be permitted; metered postage would be permissible for use only if exact postage was affixed to each piece in the mailing; and use of permit imprints would be permitted only under a manifest mailing system (P910).

(7) Special Services with Standard Mail (DMM E610, P600)

It is proposed that Standard Mail that is subject to the residual shape surcharge (pieces prepared as parcels or that are not letter-size or flat-size as defined in DMM C050) may receive the following additional special services upon payment of the appropriate fees: bulk insurance, return receipt for merchandise, and electronic option Delivery Confirmation. Other Standard Mail would not be eligible for any special services. Mail prepared with detached address labels under A060 and mail using Bulk Parcel Return Service (BPRS) also would not be eligible for any special services.

Mailpieces for which one or more of these special services are requested would be required to bear a return address under A010 and would be required to bear an ancillary service endorsement that results in return of the mailpiece to the sender if undeliverable as addressed (Address Service Requested, Forwarding Service Requested, or Return Service Requested).

Mailings for which bulk insurance is requested would be required to pay postage and fees through a manifest mailing system (P910).

For electronic option Delivery Confirmation, the following postage payment requirements would apply. If electronic option Delivery Confirmation is requested for all the pieces in the mailing and the mailing consists of pieces of identical weight, then postage may be paid with metered postage or permit imprints under the existing standards in P600.2.0 and P600.3.0 (as restructured in this proposed rule). However, if Delivery Confirmation is not requested for all pieces in the mailing, or if the pieces are not identical weight, then either the exact metered postage must be affixed to each piece or a manifest mailing system must be used for permit imprint mail under P910. Precanceled stamps may not be used for postage payment on pieces with Delivery Confirmation (see current DMM S918.1.5).

It is proposed that, if return receipt for merchandise is requested for all the pieces in the mailing and the mailing consists of pieces of identical weight, then postage must be paid with metered postage or permit imprints under the applicable standards in DMM P600.2.0 and P600.3.0. If return receipt for merchandise is not requested for all of the pieces in the mailing, or if the pieces are not identical weight, then either the exact metered postage must be affixed to each piece, or a manifest mailing system must be used for permit imprint mail under P910. Precanceled stamps would not be permitted for use with return receipt for merchandise.

6. Package Services (formerly Standard Mail (B))—General

a. Name Change and DMM Restructuring

The Postal Service proposes to change the name of this mail class from “Standard Mail (B)” to “Package Services.” Package Services would include Parcel Post, Bound Printed Matter, Media Mail (formerly Special Standard Mail) and Library Mail.

The standards in current DMM sections C600, D600, E600, P600, and R600 that pertain to Package Services mail would be moved into new sections under DMM C700, D700, E700, P700, and R700. Former P700, which contains information on special postage payment systems would be renumbered as P900.

The standards for Package Services mail contained in current DMM E611 and E613 have been consolidated and reorganized into new E710. Current DMM E630 and E650, which contain eligibility standards for Package Services would be moved into new DMM E700. The four subclasses of Package Services mail would each have their own eligibility sections: DMM E711 for Parcel Post; DMM E712 for Bound Printed Matter; DMM E713 for Media Mail (formerly Special Standard Mail); and DMM E714 for Library Mail. Information pertaining to eligibility of Package Services for destination entry rates would be moved to DMM E750. Current DMM M630 would be moved and reorganized into new DMM M710 for Parcel Post, DMM M720 for Bound Printed Matter, DMM M730 for Media Mail, and DMM M740 for Library Mail.

b. Combining Different Subclasses of Package Services to Qualify for DSCF and DDU Rates

New provisions are added in DMM E753 that allow mailers to combine different subclasses of Package Services machinable and irregular parcels in the same 5-digit sack or on the same 5-digit pallet to qualify for DSCF and DDU rates. For sack preparation, 10 or more parcels of any combination of Package Services subclasses, except for mail at Carrier Route Bound Printed Matter rates, would be allowed to be placed in the same 5-digit sack and entered at destination SCFs or at destination delivery units. For pallet preparation, 5-digit pallets that contain either 50 pieces and 250 pounds or that contain at least 36 inches of Package Services parcels (any combination of subclasses, except mail at Carrier Route Bound Printed Matter rates) may be prepared and entered at destination SCFs or at destination delivery units. Any Parcel Post pieces and any Presorted Bound Printed Matter in such sacks or on such pallets would be eligible for the appropriate DSCF or DDU rate provided all other eligibility requirements for the applicable destination entry rate are met. Media Mail and Library Mail pieces would be subject to their respective single-piece or 5-digit rates depending upon whether the 500-piece minimum quantity requirement for the 5-digit rates was met for each subclass. See E753 for a full description of the requirements and rate applicability.

7. Parcel Post

a. Parcel Post Rate Highlights

Parcel Post rates are proposed to increase by an average of 1.3%. It is proposed to increase the nonmachinable surcharge for Inter-BMC Parcel Post from $1.65 to $1.79 per parcel. The Parcel Post Origin BMC Presort and BMC Presort discounts would increase from $0.57 to $0.93 per piece and from $0.22 to $0.23 per piece, respectively. The barcoded discount for qualifying Parcel Post machinable parcels would remain at $0.03 per piece. The annual destination entry fee for Parcel Select is proposed to increase from $100 to $125.

b. Parcel Post Rate Structure

It is proposed that pieces weighing less than 16 ounces would be eligible for Parcel Post rates; however, there are no proposed rates for pieces less than 2 pounds. Therefore, if a piece weighs less than 2 pounds, it will be charged the rate that would apply to a 2-pound parcel.

It is proposed to add a $0.40 nonmachinable surcharge for Intra-BMC Parcel Post and to add a $0.45 nonmachinable surcharge to DBMC Parcel Select.

c. Parcel Post Mail Preparation Changes

(1) Rate Markings (DMM M012 and M710)

There are no proposed changes to the marking requirements for Parcel Post and Parcel Select.

(2) Sack and Pallet Labels (DMM M031, M032, M045, M710)

It is proposed to change the abbreviation “STD” or “STD B” on the contents line of sack and pallet labels for Parcel Post to “PSVC” (an abbreviation for Package Services). Labels for 5-digit sacks and pallets prepared to qualify for DSCF and DDU rates are further revised to add the processing category “PARCELS” to the contents line to read “PSVC PARCELS 5D.” For containers of combined Package Services parcels, line 2 also would read “PSVC PARCELS 5D.”

(3) Dimensions for Machinable Parcels (DMM C050)

The minimum dimensions for a machinable parcel in DMM C050.4.1a would change to not less than 6 inches long, 3 inches high, ¼ inch thick, and 6 ounces in weight. (A mailpiece exactly ¼ inch thick would be subject to the 3½-inch height minimum under C010.) The current minimum weight is 8 ounces unless certain other conditions are met. Some parcels may be successfully processed on BMC parcel sorters although they do not conform to the machinability standards in DMM C050.4.1. If this is the case, a BMC plant manager may authorize a mailer to enter such parcels as machinable parcels if the parcels are tested on BMC parcel sorters and prove to be machinable. Such an authorization only applies to mail that is both entered at a post office within the authorizing BMC's service area and is for delivery to an address within that BMC's service area. These changes also would apply to Standard mail.

(4) Machinable Parcel Preparation Requirements (DMM M045 and M710)

The rules for sacking and palletizing Parcel Post machinable parcels are clarified to point out that they are optional preparation methods for Parcel Post. In addition, the sacking rules are modified to delete the 1,000 cubic inch option for preparing sacks of machinable parcels. If Parcel Post mailers choose to sack under the machinable parcel preparation standards, sacks for a 5-digit, ASF, or BMC destination would have a minimum volume requirement of 10 pieces or 20 pounds.

(5) Postage Payment (P700)

P700 would be clarified to indicate that precanceled stamps must not be used for payment of any Parcel Post mail, including matter at single-piece rates.

8. Bound Printed Matter

a. Bound Printed Matter Rate Highlights

Bound Printed Matter (BPM) rates are proposed to increase by an average of 18.1%. New destination entry discounts for Presorted rate and Carrier Route rate mailings of Bound Printed Matter are being offered to encourage the deposit of mail at the destination BMC, SCF, or delivery unit. An annual destination entry mailing fee for mail entered at destination entry rates of $125 is proposed. The barcoded discount for qualifying Presorted Bound Printed Matter machinable parcels would remain at $0.03 per piece.

b. Bound Printed Matter Rate Structure

The local zone rate category would be eliminated for Bound Printed Matter. Destination entry rates are proposed for Presorted and Carrier Route Bound Printed Matter entered at destination BMCs, SCFs, and delivery units. To qualify for destination entry rates mailers would need to pay the annual destination entry mailing fee described above and meet the preparation requirements in DMM E752 that are summarized below. There are no destination entry rates for single-piece Bound Printed Matter.

Another major change is that pieces weighing less than 16 ounces would be eligible for Bound Printed Matter rates; however, there are no proposed rates for pieces less than 1.5 pounds (for single piece) and 1 pound (for Presorted and Carrier Route). Therefore, single-piece Bound Printed Matter that weighs less than 1 pound will be charged the 1.5-pound rate and Presorted and Carrier Route Bound Printed Matter that weighs less than 1 pound will be charged the full 1-pound rate, plus the applicable per-piece charge.

c. Bound Printed Matter Mail Preparation Changes

(1) Rate Markings (DMM M012 and M720)

Two changes are proposed to the current marking requirements for Bound Printed Matter. The first would give mailers the option to use the abbreviation “BPM” as the basic (sub-class) marking that must appear in the postage area on each piece. The second would be to prohibit use of the “Presorted Standard” (or “PRSRT STD”) marking on Presorted and Carrier Route Bound Printed Matter after a 1-year grace period. Because of the renaming of Standard Mail (B) to Package Services, “Standard” and “STD” would no longer be applicable as a class of mail description for Bound Printed Matter. Mailers would have until January 1, 2002 to discontinue use of the “Presorted Standard” (or “PRSRT STD”) marking.

(2) Sack and Pallet Labels (DMM M031, M032, M045, M700)

It is proposed to change the abbreviation “STD” or “STD B” on the contents line of sack and pallet labels for Bound Printed Matter to “PSVC” (an abbreviation for Package Services).

(3) Address Matching Requirements for Presorted Bound Printed Matter (DMM E712)

The Postal Service is proposing that all 5-digit ZIP Codes included in addresses on pieces claimed at Presorted Bound Printed Matter rates must be verified and corrected within 12 months before the mailing date using a USPS-approved method. The mailer must certify that this standard has been met when the mail is presented to the USPS. This standard applies to each address individually, not to a specific list or mailing. See E712.3.1.

(4) Dimensions for Machinable Parcels (DMM M050)

The minimum dimensions for a machinable parcel in DMM C050.4.1a would change to not less than 6 inches long, 3 inches high, ¼ inch thick, and 6 ounces in weight. (A mailpiece exactly ¼ inch thick would be subject to the 3½-inch height minimum under C010.) The current minimum weight is 8 ounces unless certain other conditions are met. Some parcels may be successfully processed on BMC parcel sorters although they do not conform to the machinability standards in DMM C050.4.1. If this is the case, a BMC plant manager may authorize a mailer to enter such parcels as machinable parcels if the parcels are tested on BMC parcel sorters and prove to be machinable. Such an authorization only applies to mail that is both entered at a post office within the authorizing BMC's service area and is for delivery to an address within that BMC's service area. These changes also would apply to Standard mail.

(5) Sortation for Sacked Presorted Bound Printed Matter (DMM M722)

It is proposed to require all flats and all irregular parcels that weigh 10 pounds or less to be prepared in packages prior to sacking. Machinable parcels would still be placed directly in sacks without packaging, and irregular parcels weighing more than 10 pounds would be placed into sacks without packaging. The provision for preparing sacks to a particular presort destination based on a 1,000 cubic inch minimum criteria would be deleted.

For flats prepared in sacks, mailers would be required to prepare packages whenever there are at least 10 pieces or 10 pounds of mail, whichever occurs first, for a presort destination (5-digit, 3-digit, ADC), with remaining pieces placed in mixed ADC packages. The maximum weight of any package would be 20 pounds, except that 5-digit packages placed in 5-digit sacks could weigh up to 40 pounds. This will allow packages prepared in other than 5-digit sacks to be processed on small parcel and bundle sorters (SPBSs). Each physical package would be required to contain at least 2 addressed pieces except for mixed ADC packages. These packages would be required to be placed in sacks whenever there were at least 20 pieces or 20 pounds, whichever occurs first, for a sack destination (5-digit, 3-digit, optional SCF, ADC), with remaining packages placed in mixed ADC sacks.

For Presorted irregular parcels, mailers would be required to prepare the mail in packages if the individual pieces weighed 10 pounds or less. Packages would be prepared whenever there were at least 10 pieces or 10 pounds to a presort destination, whichever occurs first. The package destinations would be the same as for flat-size pieces (5-digit, 3-digit, ADC, and mixed ADC). Mixed ADC packages could contain fewer than 10 pieces or 10 pounds of mail. Sortation to ADCs would be made using DMM L004 instead of L603 and mixed ADC sacks would be labeled using DMM L004 instead of L604. The maximum weight of any package would be 20 pounds, except that 5-digit packages placed in 5-digit sacks could weigh up to 40 pounds. Each physical package would be required to contain at least 2 addressed pieces except for mixed ADC packages. These packages would be required to be placed in sacks whenever there were at least 10 pieces or 20 pounds, whichever occurs first, for a sack destination (5-digit, 3-digit, optional SCF, ADC), with remaining packages placed in mixed ADC sacks.

Presorted irregular parcels that weigh over 10 pounds would not be packaged, but would be placed in 5-digit, 3-digit, optional SCF and ADC sacks whenever there were 10 or more pieces or 20 or more pounds, whichever occurs first, for a sack destination. Remaining pieces would be placed in mixed ADC sacks. Sortation to ADCs would be made using DMM L004 instead of L603 and mixed ADC sacks would be labeled using DMM L004 instead of L604. Irregular parcel-size pieces that weigh over 10 pounds would be required to be individually enveloped, placed in a full-length sleeve or wrapper, or be polywrapped.

For machinable parcels, there would be no change in sortation other than eliminating the option to use 1,000 cubic inches as a minimum sacking criteria as described above.

(6) Sortation for Sacked Carrier Route Bound Printed Matter (DMM M020, M723)

For flat-size mail the basic eligibility requirement to qualify for carrier route rates of a minimum of 10 pieces/20 pounds/1,000 cubic inches of mail for the same carrier route would be changed to require a minimum of 10 pieces or 20 pounds of mail prepared in a package or packages for the same carrier route. In addition, the maximum weight of any flat-size package will be 40 pounds. Each physical package would be required to contain a minimum of two addressed pieces. The only exception to a minimum two-piece package is that the last physical package to an individual carrier route destination could contain less than the minimum package size and could consist of a single addressed piece provided that all other packages to that carrier route destination meet the minimum package size and contain at least two addressed pieces, and that the total group of pieces to that carrier route meets the Carrier Route rate eligibility minimum in E712. Packages of flat-sized mail would be sacked for an individual carrier route whenever there were at least 20 pieces or 20 pounds of mail for a carrier route. Remaining carrier route packages would be sacked in 5-digit carrier routes sacks or, at the mailer's option, be sacked to 5-digit scheme carrier routes sacks using L001.

For irregular parcel-size mail the basic eligibility requirement of at least 10 pieces or 20 pounds of mail for the same carrier route would be retained.

For Carrier Route irregular parcels, mailers would be required to prepare the mail in packages if the individual pieces weighed 10 pounds or less. Packages would be prepared whenever there were at least 10 pieces or 20 pounds of mail to an individual carrier route. The maximum weight of any package would be 40 pounds. Each physical package would be required to contain a minimum of two addressed pieces. The only exception to a minimum two-piece package is that the last physical package to an individual carrier route destination could contain less than the minimum package size and could consist of a single addressed piece provided that all other packages to that carrier route destination meet the minimum package size and contain at least two addressed pieces, and that the total group of pieces to that carrier route meets the Carrier Route rate eligibility minimum in E712.

Carrier route packages of irregular parcels would be required to be placed in direct carrier route sacks when there were 10 or more pieces or 20 or more pounds to a carrier route. Carrier route packages that could not be placed in direct carrier route sacks would be placed in 5-digit carrier routes sacks. Preparation of 5-digit scheme carrier routes sacks for irregular parcels would not be permitted.

For irregular parcels weighing over 10 pounds, the mail would not be prepared in packages, but would be placed only in direct carrier route sacks that each contained a minimum of 20 pounds of mail.

Machinable parcels would be permitted to qualify for Carrier Route Bound Printed Matter rates if placed in direct carrier route sacks that each contained a minimum of 10 pieces or 20 pounds of mail. (Machinable parcels prepared on pallets under M045 would not be eligible for Carrier Route Bound Printed Matter rates.)

The provisions for marking and sortation of residual pieces that do not qualify for the Carrier Route Bound Printed Matter rates would change. Such pieces would no longer be sorted to carrier route and would no longer be permitted to bear the “Carrier Route Presort” marking. Such residual pieces would be required to be marked and sorted in accordance with the requirements for Presorted rate mailings and would continue to qualify for the Presorted rates (M723.1.5).

(7) Preparation of Packages on Pallets (DMM M040 and M045)

Flats prepared as packages on pallets would be permitted to be palletized using scheme sort (DMM L001). For flat-size pieces prepared in a copalletized mailing job that contains both a Presorted rate mailing and a Carrier Route rate mailing, it is proposed that separate 5-digit pallets must be prepared for carrier route mail (optional 5-digit scheme carrier routes and required 5-digit carrier routes pallets) and separate 5-digit pallets must be prepared for Presorted rate mail (optional 5-digit scheme and required 5-digit pallets).

For irregular parcels prepared as packages on pallets, mailers would continue to co-palletized Carrier Route and Presorted mail on the same 5-digit pallet. Scheme sortation would not be permitted for packages of irregular parcels on pallets.

For flats and irregular parcels, packages would be required to be made to a required package destination (carrier route, 5-digit, 3-digit, ADC) whenever there were 10 or more pieces or 10 or more pounds for a presort destination. ADC packages would be prepared using DMM L004 instead of L603. The maximum physical package size would be 20 pounds except as follows. For Presorted rate mail, 5-digit packages could weigh up to 40 pounds if placed on a 5-digit scheme (flats only) or 5-digit pallet. For Carrier Route rate mail, flat-size carrier route packages could weigh up to 40 pounds if they were placed on 5-digit scheme carrier routes, or 5-digit carrier routes pallets, and irregular parcel-size carrier route packages could weigh up to 40 pounds if they are placed on a 5-digit pallet. Each physical package would be required to contain at least 2 pieces. If individual pieces weigh more than 10 pounds and therefore could not meet both the 2-piece package minimum and the 20-pound package maximum, they could not be prepared as packages on pallets (except in those instances where 40-pound packages are permitted as described above). Such pieces that weigh over 10 pounds would be required to be prepared either as machinable parcels on pallets (eligible only for Presorted rates) or in sacks under M722 (Presorted rates) and/or M723 (Carrier Route rates). The new 20-pound package weight limit for flats and irregular parcels will allow the packages to be processed on small parcel and bundle sorters (SPBSs).

(8) PAVE Certification and Package Reallocation

This proposal does not include a requirement for the use of standardized documentation or PAVE-certified software for Bound Printed Matter. The Postal Service plans to develop PAVE tests for Bound Printed Matter subsequent to implementation of the R2000-1 rate case. At that time, standardized documentation requirements will be developed and a Federal Register proposed rule to require either standardized documentation or use of PAVE-certified software for Presorted and Carrier Route Bound Printed Matter will be published for comment. Because use of optional package reallocation to protect SCF and BMC pallets requires use of PAVE-certified software, use of package reallocation for Bound Printed Matter will not be offered as an option at the time the rates from the R2000-1 rate case are implemented. Use of package reallocation will be offered for Bound Printed Matter once use of PAVE-certified software becomes available.

(9) Bedloaded Bundles (DMM M722, M723)

The provisions for preparing bedloaded bundles in current DMM M630.7.0 would be removed. A “bundle” is described as a group of packages secured together as a unit that equates to a sack. The Postal Service does not believe that any mailers are currently preparing true bedloaded “bundles,” although some mailers do prepare bedloaded “packages.” The Postal Service is proposing preparation rules for Bound Printed Matter that are designed to reduce handling and processing costs. Bedloaded packages or bundles are generally not cost-efficient for the Postal Service to handle and process. Therefore the proposed sortation rules would eliminate preparation of bedloaded bundles, and would allow mailers to prepare bedloaded packages only for mail that is prepared for and entered at the DDU rates. Such bedloaded packages may weigh up to 40 pounds each. See M722 and M723.

(10) Destination Bulk Mail Center (DBMC) Rates (DMM E752)

Destination Bulk Mail Center (DBMC) rates apply to Presorted and Carrier Route Bound Printed Matter mailings that are prepared in any permissible sack or pallet level and that are deposited at a BMC or ASF, are addressed for delivery to one of the 3-digit ZIP Codes served by the BMC or ASF where deposited that are listed in Exhibit E751.5.0, and are placed in a sack or pallet that is labeled to the BMC or ASF where deposited, or labeled to a postal facility within the service area of that BMC or ASF under Exhibit E751.5.0.

Flats or irregular parcels in an ADC sack or in a palletized ADC package would be eligible for the DBMC rates if the ADC facility ZIP Code (as shown in Line 1 of the corresponding sack label or the ADC facility that is the destination of the palletized ADC package as would be shown on an ADC sack label for that facility using DMM L004, Column B) is within the service area of the BMC or ASF at which the sack is deposited.

Flats or irregular parcels in mixed ADC sacks would qualify for the DBMC rates only if all the pieces in the sack are for the service area of the DBMC or DASF as shown in Exhibit E751.5.0. Mailers who opt to claim the DBMC rates for mail in mixed ADC sacks would be required to prepare separate mixed ADC sacks for pieces eligible for and claimed at the DBMC rate and for pieces not claimed at the DBMC rate.

Machinable parcels palletized under M045 or sacked under M722 could be sorted to destination BMCs under L601 or to destination BMCs and ASFs under L601 and L602. Sortation of machinable parcels to ASFs would be optional but would be required for mail with a 3-digit ZIP Code prefix within the ASF service area in Exhibit E751.5.0 to be eligible for DBMC rates. Mailers may opt to sort some or all machinable parcels for ASF service area ZIP Codes to ASFs only when the mail will be deposited at the respective ASFs where the DBMC rates are claimed, under applicable volume standards, using L602. Mailers may also opt to sort machinable parcels only to destination BMCs under L601. If machinable parcels are sorted to only destination BMCs under L601, then only mail for 3-digit ZIP Codes served by a BMC as listed in Exhibit E751.5.0 would be eligible for DBMC rates (mail for 3-digit ZIP Codes served by an ASF in Exhibit E751.5.0 sorted to the BMC pallet would not eligible for DBMC rates, nor would mail for 3-digit ZIP Codes that do not appear in Exhibit E751.5.0).

Machinable parcels in mixed BMC sacks or on mixed BMC pallets that are sorted to the origin BMC under M045 or M722 would be eligible for the DBMC rates if both of the following conditions are met: 1) the mixed BMC sack or pallet is entered at the origin BMC facility to which it is labeled, and 2) the pieces are for 3-digit ZIP Codes listed as eligible destination ZIP Codes for that BMC in Exhibit 5.1.

(11) Destination Sectional Center Facility (DSCF) rates (DMM E752)

Destination Sectional Center Facility (DSCF) rates would apply to Presorted and Carrier Route Bound Printed Matter mailings that meet all of the following conditions:

(a) Are eligible for and prepared to qualify for Presorted, or Carrier Route rates.

(b) Are deposited at an SCF listed in L005, except that machinable parcels prepared on pallets for the 5-digit ZIP Codes listed in Exhibit E751.6.0 must be entered at the corresponding BMC facility shown in that Exhibit (not at the SCF) unless an exception is requested and granted. An exception to Exhibit 751.6.0 must be requested at least 15 days in advance of the mailing in writing from the area manager of operations support who has jurisdiction over the BMC and SCF. Exceptions, if granted, will be for a limited time.

(c) Are addressed for delivery to one of the 3-digit ZIP Codes served by the SCF where deposited under L005.

(d) Are placed in a sack or on a pallet (subject to the standards for the rate claimed) that is labeled to the DSCF where deposited, or labeled to a postal facility within the service area of that SCF (see L005).

Flats in sacks for the carrier route, 5-digit carrier routes scheme, 5-digit carrier routes, 5-digit, 3-digit, and optional SCF sort levels would be able to claim DSCF rates under the conditions described above. Flats on 5-digit scheme carrier routes, 5-digit carrier routes, 5-digit scheme, 5-digit, 3-digit, SCF, and ASF pallets would be able to claim DSCF rates under the conditions described above.

Irregular parcels in sacks for the carrier route, 5-digit carrier routes, 5-digit, 3-digit, and optional SCF sort levels would be able to claim DSCF rates under the conditions described above. Irregular parcels on 5-digit, 3-digit, SCF, and ASF pallets would be able to claim DSCF rates under the conditions described above.

Machinable parcels in direct carrier route sacks, in 5-digit sacks, or on 5-digit pallets would be able to claim DSCF rates under the conditions described above. Machinable parcels prepared to claim Carrier Route rates would be eligible for DSCF rates only when prepared in direct carrier route sacks (machinable parcels would qualify for Carrier Route rates only when prepared in direct carrier route sacks). Machinable parcels on 5-digit pallets would be able to claim DSCF rates under the conditions described above. Note that machinable parcels for the 5-digit ZIP Codes listed in Exhibit E751.6.0 would be required to be entered at the BMC to claim DSCF rates.

(12) Destination Delivery Unit (DDU) Rates (DMM E752)

Destination Delivery Unit (DDU) rates apply to Presorted and Carrier Route rate Bound Printed Matter mailings that are addressed for delivery within the ZIP Code(s) served by the destination delivery unit and are deposited at the appropriate destination delivery unit facility.

For flat-size mail, DDU rates would be available only for mail prepared to qualify for Carrier Route Bound Printed Matter rates that is prepared in carrier route, optional 5-digit carrier routes scheme, and 5-digit carrier routes sacks; on 5-digit scheme carrier routes scheme and 5-digit carrier routes pallets; or in bedloaded carrier route packages. Flat-size mail must be entered at the facility where the carrier cases flat-size mail as shown in the Drop Ship Product.

For irregular parcels, DDU rates would be available for carrier route packages and 5-digit packages prepared in direct carrier route, 5-digit carrier routes, and 5-digit sacks, or on 5-digit pallets. Irregular parcels prepared as bedloaded carrier route packages or bedloaded 5-digit packages also would be eligible for DDU rates.

For machinable parcels, DDU rates would be available for Carrier Route rate parcels prepared in direct carrier route sacks and for Presorted rate parcels prepared in 5-digit sacks or on 5-digit pallets.

To claim the DDU rates, both irregular and machinable parcels would be required to be entered at the facility that delivers parcels to the addresses appearing on the deposited pieces. Mailers would use the Drop Ship Product to determine the location of the 5-digit delivery facility and whether it can handle pallets. When the Drop Ship Product shows that parcels for a single 5-digit ZIP Code area is delivered out of more than one postal facility, then the facility from which the majority of city carrier routes are delivered would be used as the facility at which the DDU mail must be entered and to determine whether that facility can handle pallets, unless the 5-digit ZIP Code is listed in Exhibit E751.7.0 or Exhibit E751.8.0. For ZIP Codes in E751.7.0 and Exhibit E751.8.0, mailers would use the name of the facility associated with the 5-digit ZIP Code on the respective exhibit as the facility at which DDU mail for that 5-digit ZIP Code mail must be entered.

(13) Destination Entry Mail Preparation—Plant-Verified Drop Shipment (PVDS) (DMM E752)

Pieces would be required to be part of a mailing of at least 300 pieces of Presorted Bound Printed Matter or part of a mailing of at least 300 pieces of Carrier Route Bound Printed Matter to qualify for DBMC, DSCF, and DDU rates. When Presorted Bound Printed Matter or Carrier Route Bound Printed Matter mailings are submitted under PVDS procedures, mailers would be able to use the total of all line items for all destinations on a PVDS register or PVDS postage statement to meet the respective 300-piece minimum volume requirements. This means that a mailer may enter fewer than 300 pieces per Presorted or Carrier Route mailing at an individual destination, provided there is a total of at least 300 Presorted rate pieces and/or 300 Carrier Route rate pieces for all of the entry points for that single mailing job listed on the PVDS register or PVDS postage statement.

(14) Detached Address Label Mailings (DMM A060)

Currently, Bound Printed Matter may be prepared with detached address labels (DALs) only when for delivery in the local zone of the post office of mailing. The local zone rates are removed under this rate proposal. Accordingly, revised preparation requirements for use of DALs with Bound Printed Matter mailings are included in this proposal. Under the proposal, mailers would prepare Bound Printed Matter with DALs under either a pallet preparation option or a sacking preparation option.

When prepared on pallets, mailers would be permitted to enter mail prepared with DALs at any post office where mail is verified provided only 5-digit pallets are prepared and if the following additional requirements and restrictions are met. The 5-digit pallets would be required to meet the minimum volume and other requirements for pallet preparation under M040 and M045, except that for flat-size mail, separate 5-digit pallets for Carrier Route rate and for Presorted rate mail would not be required. The mail would not be permitted to be prepared on pallets when the Drop Ship Product indicates that the delivery unit that serves the 5-digit pallet destination cannot handle pallets. The destination delivery unit is determined using the Drop Ship Product under the provisions for the DDU rate in E752. (For delivery units that cannot handle pallets mail with DALs would be required to be prepared in sacks.) The trays or cartons of DALs would be required to be prepared under A060.3.0 and placed on the same pallet as the pieces and trays of DALs and the items would be required to be stretch-wrapped together as one unit.

For mail prepared with DALs in sacks, the matter would be required to be prepared in 5-digit sacks and entered at the destination delivery unit. The destination delivery unit would be determined using the Drop Ship Product under the provisions for the DDU rate in DMM E752. The DALs would be required to be packaged under A060.3.0 and presented to the destination delivery unit with the accompanying items to be distributed with the DALs.

(15) Ancillary Service Endorsements

It is proposed that undeliverable-as-addressed (UAA) Bound Printed Matter pieces mailed with no special service (e.g., Delivery Confirmation, insured), and with no ancillary service endorsement, would be disposed of by the USPS as waste at the delivery unit. This would make the handling of undeliverable-as-addressed Bound Printed Matter pieces that are not mailed with a special service or an ancillary service endorsement the same as for Standard Mail. Mailers of Bound Printed Matter who want to have their undeliverable-as-addressed pieces forwarded and returned could continue to choose the appropriate ancillary service endorsement to obtain such service. No other changes to the treatment of undeliverable-as-addressed Package Services mail are proposed.

(16) Postage Payment

DMM P700 would be amended to clarify that precanceled stamps may not be used for payment of Bound Printed Matter.

9. Media Mail (Formerly Special Standard Mail)

a. Media Mail Rate Highlights

Media Mail (formerly Special Standard Mail) rates would increase by an average of 4.9%. The barcoded discount for qualifying Media Mail would remain at $0.03 per piece. Separate rate schedules would be implemented for Media Mail and Library Mail as the shared rate structure would be discontinued. It is proposed to increase the annual presort mailing fee for Media Mail to $125.

b. Media Mail Rate Structure

It is proposed to implement separate rate schedules for Media Mail and Library Mail.

c. Media Mail (Formerly Special Standard Mail) Preparation Changes

(1) Rate Marking (DMM M012 and M730)

Special Standard Mail is being renamed “Media Mail,” and the marking that is required to appear on each piece would be changed from “Special Standard” to “Media Mail.” A phase-in period through January 1, 2002, is proposed in order to give mailers time to adjust to this change and deplete any existing stocks of permit imprints that may bear the “ Special Standard” marking.

(2) Sack and Pallet Labels (DMM M031, M045, and M730)

The abbreviation “STD” or “STD B” that currently appears on sack and pallet labels for Package Services mailings would be changed to “PSVC” (an abbreviation for Package Services).

(3) Clarification of Preparation Requirements

Current M630.4.0 provides for preparing Media Mail as bedloaded bundles under current M630.7.0. However, current M630.7.0 provides only for preparation of Bound Printed Matter as bedloaded bundles, and the eligibility requirements for the Media Mail rates in current E630.4.0 provide only for preparation in sacks, on pallets, or as outside parcels prepared as prescribed by the postmaster of the mailing office. Accordingly, the provisions for preparing bedloaded bundles of Media Mail have been deleted from proposed new M730 that contains the requirements for presorted Media Mail. Current E630.4.0 (renumbered as E713) provides for preparing 5-digit and BMC bundles of Media Mail on pallets. The terminology in this section would be changed to provide for “packages” of Media Mail on pallets. Furthermore, the reference in current M630.4.0 (new M730) that refers to preparing mail according to the machinable parcel preparation rules has been deleted from proposed DMM M730. There are no provisions for such preparation to qualify for presorted Media Mail rates in proposed E713. The option to prepare sacks and qualify for presorted 5-digit or BMC rates based on a minimum of 1,000 cubic inches of mail would be deleted; however, the eight-piece or 20-pound minimum per 5-digit sortation level and the four-piece or 20 pound minimum per BMC sortation level would be retained.

(4) Postage Payment (DMM P700)

DMM P700 would be amended to clarify that precanceled stamps may not be used for payment of Media Mail.

10. Library Mail

a. Library Mail Rate Highlights

Library Mail rates would increase by an average of 4.5%. The barcoded discount for qualifying Library Mail would remain at $0.03 per piece. Separate rate schedules would be implemented for Media Mail and Library Mail as the shared rate structure would be discontinued. It is proposed to increase the annual presort mailing fee for Library Mail to $125.

b. Library Mail Rate Structure

It is proposed to implement separate rate schedules for Library Mail and Media Mail.

c. Library Mail Preparation Changes

(1) Rate Markings (DMM M012 and M740)

The optional use of “Library Rate” as a rate marking for Library Mail would be discontinued. Matter mailed at Library Mail rates would be required to use only the marking “Library Mail.” A phase-in period through January 1, 2002, is proposed in order to give mailers time to adjust to this change and deplete any existing stocks of permit imprints that may bear the “Library Rate” marking.

(2) Sack and Pallet Labels (DMM M031, M045, and M740)

The abbreviation “STD” or “STD B” that currently appears on sack and pallet labels for Package Services mailings would be changed to “PSVC” (an abbreviation for Package Services).

(3) Sack Preparation Minimums (DMM M740)

The option to prepare sacks and qualify for presorted 5-digit or BMC rates based on a minimum of 1,000 cubic inches of mail would be deleted (see M740).

(4) Postage Payment (DMM P700)

DMM P700 would be amended to clarify that precanceled stamps may not be used for payment of Library Mail.

11. Special Services and Other Services

a. Address Changes for Election Boards (DMM A910)

The fee is proposed to increase from $0.17 to $0.24 for each address card. There are no classification changes proposed for this service. See DMM R900.12.3.

b. Address Correction Notifications (DMM F030)

The manual (hard-copy) fee is proposed to increase from $0.50 to $0.60 for each notification. There is no proposed change to the automated (electronic) fee notification (currently $0.20 each). There are no classification changes proposed for this service. See DMM R900.1.0.

c. Bulk Parcel Return Service (DMM S924)

The per-piece charge is proposed to decrease from $1.75 to $1.65 for each piece returned under Bulk Parcel Return Service (BPRS). It is proposed that the annual BPRS permit fee increase from $100 to $125. It is proposed to establish a new annual accounting fee of $375 for BPRS. This fee covers the costs of providing account maintenance services to mailers and is consistent with accounting fees charged for other special services. Current BPRS permit holders would have 30 days from the date of implementation of this classification change to pay their initial annual accounting fee. See DMM R900.3.0.

No special services would be available for pieces returned through BPRS.

d. Business Reply Mail

(1) Business Reply Mail (BRM) (DMM S922)

It is proposed to increase the annual business reply mail (BRM) permit fee from $100 to $125.

The per-piece charge for low-volume BRM (BRM without an annual accounting fee) is proposed to increase from $0.30 to $0.35. This per-piece charge is in addition to single-piece First-Class Mail (or Priority Mail) postage. The per-piece charge for high-volume BRM (BRM with an annual accounting fee) is proposed to increase from $0.08 to $0.10. This per-piece charge is in addition to single-piece First-Class Mail (or Priority Mail) postage. It is proposed to increase the annual accounting fee, required for high-volume BRM, from $300 to $375.

(2) Qualified Business Reply Mail (QBRM) (DMM E150, S922)

The discounted automation rate for qualified business reply mail (QBRM) is proposed to increase from $0.30 to $0.31 as described under the First-Class Mail Summary. The annual accounting fee (required to participate in QBRM) is proposed to increase from $300 to $375.

It also is proposed to split QBRM into two categories with different per-piece charges to mirror the current fee structure of BRM. The first category is the existing classification and will be called “low-volume” QBRM. The per-piece charge for low-volume QBRM is proposed to increase from $0.05 to $0.06. This per-piece charge is in addition to the lower QBRM First-Class Mail postage listed in R100.

The proposed new classification, called “high-volume QBRM,” recognizes that, for large volume users, some costs are relatively fixed, rather than varying with marginal volume. The high-volume QBRM category includes a lower per-piece charge and requires payment of a new (separate) quarterly fee in addition to the annual accounting fee. It is proposed to charge $0.03 per piece returned under high-volume QBRM service. This per-piece charge is in addition to the lower QBRM First-Class Mail postage listed in R100. It is proposed to charge an $850.00 quarterly fee (in addition to the $375.00 annual accounting fee). Mailers may “opt in” to high-volume QBRM by paying the quarterly fee at any time as their volume warrants, thereby paying lower per-piece charges when they expect a larger volume of returned pieces. Quarterly fees would apply to any three consecutive calendar months, beginning with the first calendar day of the first month and ending on the last calendar day of the third month. If the quarterly fee is paid on or before the 15th of the month, then the quarterly fee is counted as if it was paid on the first day of that calendar month, but the lower per-piece charges begin on the day the fee is paid. If the quarterly fee is paid after the 15th of the month, then the lower per-piece charges begin immediately, but the quarterly fee is credited as if it was paid on the first day of the following calendar month and continues through three calendar months. Mailers may not apply for “retroactive” refunds of per-piece charges. See DMM R900.4.0

(3) Nonletter-Size Business Reply Mail (DMM S922)

Clarifying language would be added to ensure that the maintenance fee applies to the bulk weight-averaging method only. No changes are proposed to the per-piece charge or to the monthly maintenance fee. The annual business reply mail permit fee is proposed to increase from $100 to $125. The annual accounting fee is proposed to increase from $300 to $375. See DMM R900.4.0.

e. Carrier Sequencing of Address Cards (DMM A920)

The fee is proposed to increase from $0.20 to $0.25 for each card removed due to an incorrect or undeliverable address and for each card added with a new address. There are no classification changes proposed for this service. See DMM R900.2.0.

f. Certificate of Mailing (DMM S914)

For individual pieces, the fee for the original certificate of mailing is proposed to increase from $0.60 to $0.75. While no change is proposed to the firm mailing book fee, the fee for an additional copy of a certificate of mailing is proposed to increase from $0.60 to $0.75.

For bulk quantities, the fee for one certificate of mailing (for the first 1,000 pieces) is proposed to increase from $3.00 to $3.50. There is no proposed change to the fee for a certificate for each additional group of 1,000 pieces. The fee for an additional copy of a bulk certificate of mailing is proposed to increase from $0.60 to $0.75.

There are no classification changes proposed for this service. See DMM R900.6.0.

g. Certified Mail (DMM S912)

The fee is proposed to increase from $1.40 to $2.10 in order to cover newly estimated costs for this service. See DMM R900.7.0.

h. Collect on Delivery (COD) (DMM S921)

Fees are proposed to increase by $.50 for every $100 value level. It is proposed to increase the maximum COD value level from $600 to $1,000. No change is proposed to the fees for registered COD, the notice of nondelivery, or the alteration of COD charges (Form 3849-D). The money order limit is proposed to remain at $700; therefore, if the recipient pays in cash for COD amounts over $700, then the USPS will send two postal money orders to the mailer (and collect two money order fees from the recipient). See DMM R900.8.0.

i. Correction of Mailing Lists (DMM A910)

The charge per correction is proposed to increase from $0.20 to $0.25. In conjunction, the minimum charge per list is proposed to increase from $7.00 to $7.50. There are no classification changes proposed for this service. See DMM R900.12.0.

j. Delivery Confirmation (DMM S918)

The fee for retail option Priority Mail Delivery Confirmation (i.e., purchased by a customer over a retail counter) is proposed to increase from $0.35 to $0.40. The fee for retail option Package Services Delivery Confirmation is proposed to increase from $0.60 to $0.65. No change is proposed to the fees for electronic option Delivery Confirmation for Priority Mail and Package Services.

It is proposed to extend electronic option Delivery Confirmation service to Standard Mail (both Regular and Nonprofit subclasses). Delivery Confirmation service would be limited to Standard Mail parcels that are subject to the residual shape surcharge. No retail option is proposed for Standard Mail. The proposed fee for electronic option Delivery Confirmation for Standard Mail is $0.25 per piece, which mirrors the current fee for Package Services. See DMM R900.9.0.

k. Express Mail Insurance (DMM S500)

Fees for Express Mail insurance are proposed to increase. There are no classification changes proposed for this service. See DMM R900.10.0.

l. Insurance (DMM S913)

Fees for insurance are proposed to increase for all value levels. It is proposed to offer separate bulk discounts for unnumbered and numbered insurance. In addition, it is proposed to extend bulk insurance to Standard Mail (both regular and nonprofit). Bulk insurance would be limited to Standard Mail parcels that are subject to the residual shape surcharge. No regular insurance is proposed for Standard Mail. See DMM R900.11.0.

It is proposed to remove the requirement that insured pieces sent at First-Class Mail and Priority Mail rates be marked “Standard Mail Enclosed.”

m. Mailing Fees

Presort mailing fees and destination entry mailing fees for all classes of mail are proposed to increase. Specific fees and classification changes are included under the separate summary for each class of mail.

n. Merchandise Return Service (DMM S923)

It is proposed to eliminate the per-piece (transaction) fee for parcels returned to the permit holder via merchandise return service (MRS). It is proposed to establish a new annual accounting fee of $375 for MRS. This fee covers the costs of accounting services provided to mailers and is consistent with accounting fees charged for other special services. Current MRS permit holders would have 30 days from the date of implementation of this classification change to pay their initial annual accounting fee. See DMM R900.13.0.

It is proposed to allow customers (those who use merchandise return service labels to return a parcel to the permit holder) to add insurance to a MRS parcel at their own discretion and expense. No other special services could be added by the sender. Previously, insurance could be added to a parcel only if specified by the permit holder. It is proposed to remove the requirement that MRS parcels sent at First-Class Mail and Priority Mail rates be marked “Standard Mail Enclosed.”

It is proposed that parcels that do not bear a class or rate marking, regardless of weight, would be treated as Parcel Post and would be charged Parcel Post Inter-BMC/ASF rates.

These same changes are proposed to apply to penalty merchandise return service.

o. Money Orders (DMM S020)

It is proposed to increase the fee for domestic money orders from $0.80 to $0.90 per money order. It is proposed to increase the fee for APO/FPO money orders from $0.30 to $0.35 per money order. It is proposed to increase the inquiry fee from $2.75 to $3.00. There are no classification changes proposed for this service and the maximum amount would remain at $700. See DMM R900.15.0.

p. Parcel Airlift Service (PAL) (DMM S930)

There are no proposed fee or classification changes for this service. See DMM R900.16.0.

q. Permit Imprint Application Fee (DMM P040)

The application fee for permit imprints is proposed to increase from $100 to $125. Other kinds of permit fees (e.g., business reply mail) are covered under separate summary sections. See DMM R900.17.0.

r. Pickup Service (DMM D010)

The pickup service fee is proposed to increase from $8.25 to $10.25 per pickup. There are no classification changes proposed for this service. See DMM R900.18.0.

s. Post Office Boxes, Caller Service, and Reserve Call Numbers (DMM D910 and D920)

The Postal Service is proposing to restructure post office box fee groups and to establish fees in each of the new groups. Compared to equivalent current post office box fees, the proposed fees represent both increases and decreases. It is proposed to charge a nonrefundable $4.00 fee for each key, over two, requested by a customer. In addition, the Postal Service is proposing a $10.00 lock replacement fee.

In an attempt to better align fees with the actual cost of providing post office box service, the Postal Service is proposing to change the classification structure for post office boxes. The current classification (and therefore fees) of post office boxes are based primarily on the type of carrier delivery at a particular postal facility.

The Postal Service has undertaken a major project to align post office box fees with actual costs by 5-digit ZIP Codes. In other words, post office boxes that have similar costs would be grouped together and have the same fee. These “actual costs” include estimated rental value of the space used to provide post office boxes.

For this proposal, each 5-digit ZIP Code was assigned to one of six cost-based groups based on the estimated cost per square foot of the postal facilities within that ZIP Code. All facilities with post office boxes in the same 5-digit ZIP Code are in the same cost group and will charge the same fees for post office boxes. Therefore, facilities (stations and branches) within the same geographic area that are in different ZIP Codes may charge different fees for the same size post office box. Movement of ZIP Codes from old fee groups to new groups has been constrained to mitigate “fee shock” for customers whose post office box fees would have changed significantly.

There are no proposed changes to free (Group E) box service. Therefore, customers qualifying for free box service would continue to receive free service.

The Postal Service is developing a new data system to track post office box costs by 5-digit ZIP Code. At this time, the Postal Service is still adding data to this system and checking existing data for accuracy. A draft list of 5-digit ZIP Codes and fee group assignments will be made available to the public at a future date; the fee group assignments are not open for comment as part of this proposed rule. If this proposal is adopted, a final list will be published before implementation of new post office box fees.

The Postal Service believes that this post office box reclassification will result in fairer, more equitable post office box fees for all customers because the fees will more accurately reflect the true costs of providing that service.

Current post office box customers would not pay the proposed fees until their current box rental period ends. See DMM R900.19.0.

Under the same reclassification effort, the caller service fee is proposed to increase to $375 for all customers at all postal facilities. Caller service fees would no longer be broken out according to post office fee groups. The annual call number reservation fee is proposed to decrease from $36 per semi-annual period to $30 per semi-annual period. See R900.5.0.

t. Registered Mail (DMM S911)

All registered mail fees are proposed to increase. The incremental fee for registered mail per value level is proposed to increase from $0.55 to $0.75. The handling charge per $1,000 in value, or fraction thereof, for items valued over $25,000 also is proposed to increase from $0.55 to $0.75. There are no classification changes proposed for this service. See DMM R900.20.0.

u. Restricted Delivery (DMM S916)

The restricted delivery fee is proposed to increase from $2.75 to $3.20. There are no classification changes proposed for this service. See DMM R900.21.0.

v. Return Receipt (DMM S915)

The regular return receipt fee is proposed to increase from $1.25 to $1.50. The return receipt for merchandise fee is proposed to increase from $1.40 to $2.35. The fee for a return receipt after mailing is proposed to decrease from $7.00 to $3.50. These changes reflect improved cost estimates and the impact of electronic signature capture. See DMM R900.22.0.

The Postal Service is proposing two classification changes. The first change would allow return receipt for merchandise to be combined with unnumbered insurance. The second change would extend return receipt for merchandise service to Standard Mail (Regular and Nonprofit subclasses); this service would be limited to Standard Mail parcels that are subject to the residual shape surcharge. Enhanced Carrier Route and Nonprofit Enhanced Carrier Route subclasses would not be eligible for return receipt for merchandise.

w. Shipper Paid Forwarding (DMM F010)

The Postal Service is proposing to establish an annual accounting fee of $375 for shipper paid forwarding for customers who choose to pay forwarding charges through a postage due account. This fee is consistent with accounting fees charged for other special services. See DMM R900.24.0.

x. Signature Confirmation (DMM S919)

The Postal Service proposes to establish a new classification and fee schedule for Signature Confirmation. Signature Confirmation will capture and provide access to all Delivery Confirmation data and an image of recipient signatures. Signature Confirmation will be available only at the time of mailing for Priority Mail and all subclasses of Package Services. For Priority Mail Signature Confirmation, the proposed fees are $1.25 for electronic option and $1.75 for retail option. For Package Services Signature Confirmation, the proposed fees are $1.25 for electronic option and $1.75 for retail option. See DMM R900.25.0.

Before the implementation of R2000-1, it is possible that an equivalent service will be implemented as electronic return receipt service with Delivery Confirmation, based on the PRC's recommendation on Docket No. R97-1.

y. Special Handling (DMM S930)

There are no proposed fee or classification changes for this service. See DMM R900.26.0.

z. ZIP Code Sortation of Mailing Lists (DMM A910)

Fees for sorting mailing lists by 5-digit ZIP Code for post offices with multiple ZIP Codes are proposed to increase from $70.00 to $73.00 per 1,000 addresses. There are no classification changes proposed for this service. See DMM R900.12.0.

12. On-Site Meter Service (DMM P030)

It is proposed to change the name of the service from “on-site meter settings” to “on-site meter service.” It is proposed to replace the “single meter” and “unscheduled appointment” categories with a new “meter service” category. It is proposed to replace the “additional meters” category with a “meter reset and/or examined” category. These categories are proposed in order to consolidate similar fees and make the service simpler.

New fees have been proposed for these realigned categories. The proposed fee for meter service is $31.00. The proposed fee for getting a meter reset and/or examined is $4.00 per meter. The proposed fee for checking a meter in or out of service is proposed to decrease from $8.00 to $4.00 per meter. See DMM R900.14.0.

The Postal Service proposes that these fees for checking a meter in and out would not apply to “secured postage” meters. To qualify as a “secured postage” meter, a meter must: (1) Include a USPS-approved postal security device; (2) print information-based indicia; and (3) be remotely set. Because of the enhanced security that these meters provide, they do not require labor intensive activities during installation or withdrawal. Therefore, these meters do not have significant check-in/out costs.

13. Stamps and Stationery (DMM P021)

a. Stamped Cards

The fee for a single stamped card is proposed to increase from $0.01 to $0.02. The fee for double stamped cards is proposed to increase from $0.02 to $0.04, and the fee for a sheet of 40 stamped cards is proposed to increase from $0.40 to $0.80. These fees are in addition to the postage that is pre-printed on the cards and covers the cost of printing and manufacturing stamped cards. See DMM R000.3.0.

b. Stamped Envelopes

The fees for all categories of stamped envelopes are proposed to increase. This fee is paid in addition to the postage pre-printed on the envelopes. The following classification changes are proposed for stamped envelopes:

(1) Merge the printed household 6 ¾ inch and 10 inch categories into a single category called printed household (basic).

(2) Eliminate the banded categories for 6 ¾ inch and 10 inch envelopes.

(3) Expand the hologram category to include all envelopes that have a patched-in stamp and rename that category “special” stamped envelopes.

See DMM R000.1.0 and R000.2.0.

B. Summary of Changes to the Domestic Mail Manual

The following are proposed changes organized by DMM module. They are intended as an overview only and should not be viewed by commenters as defining every proposed revision.

Global Name Changes

Throughout the DMM sections included in this document, the following name changes have been made:

1. “Special Standard Mail” has been changed to “Media Mail.”

2. “Standard Mail (A)” has been changed to “Standard Mail.”

3. “Standard Mail (B)” has been changed to “Package Services.” Package Services includes all of the Standard Mail (B) subclasses: Parcel Post (including Parcel Select), Bound Printed Matter, Media Mail, and Library Mail.

In addition, the current DMM 600 series, which contains combined rules for Standard Mail (A) and Standard Mail (B), has been split into a 600 series for Standard Mail and a 700 series for Package Services. Within these new series, individual units and sections have been split up and reorganized for clarity. Current DMM P700, which contains standards for special postage payment systems, is renumbered as P900. Throughout the language in the DMM, references to “Standard Mail” have been retained as “Standard Mail” or changed to “Package Services” or “Standard Mail and Package Services,” as appropriate.

A Addressing

A010 is amended to change DMM references to reflect new DMM module numbering. A060 1.4 is amended to incorporate new requirements for preparation of Bound Printed Matter mailings with DALs because of the elimination of local zone rates. Also, it is clarified that mailings made with DALs may not contain any special services or an ancillary service endorsement. A new A060.1.7 is added to exclude DALs on special services mail.

C Characteristics and Content

C010 and C020 are revised to reflect new DMM module numbering. C050 is revised to decrease the machinable parcel minimum piece weight from 8 ounces to 6 ounces, to clarify that packaging requirements for soft goods may be found in C010, and to clarify that a destinating BMC manager may authorize the entry of parcels as machinable rather than as irregular if they are tested for machinability and are delivered within the service area of the authorizing facility. C200.5.0 is added to specify size and weight limitations for Periodicals. C600 is revised to delete sections 1.3 and 2.0, which pertain to Package Services and have been moved to new C700. C700 is added to include characteristics and content standards for Package Services (former C600.1.3 and 2.0 are included in this new section). C700.2.0 is amended to provide for the addition of new nonmachinable surcharges for intra-BMC and Parcel Select DBMC parcels. C810.2.3 is added to include instructions for determining the length and height for automation letters. C810.2.4 (former C810.2.3) is amended to provide for the new maximum weight of 3.5 ounces for heavy letters. C850 is amended to add Standard Mail machinable parcels as items eligible for barcoded discounts.

D Deposit, Collection, and Delivery

D600 is revised to remove information pertaining to Package Services, to add information about deposit of mail under plant-verified drop shipment procedures, and to clarify language. D700 is added to include deposit information for Package Services (formerly contained in D600).

D910.1.5 is amended to clarify that post office box customers must pay the correct fee for the box service they receive. D910.1.7 is added to clarify that post office box service is provided in 6-month increments. D910.1.8 (formerly D910.1.7) is amended to add information about the new key duplication fee and the new lock resetting fee. D910.3.1 is amended for clarity. D910.3.7 is amended to clarify that a post office box may not be used when the primary purpose is to have the Postal Service redirect or transfer mail to another address. D910.4.1 is amended to change the basis of post office box fees. D910.4.3 is deleted to remove references to fee groups; subsequent sections are renumbered. Renumbered D910.4.3 is amended to specify the conditions under which post office box fees can change. D910.4.4 is amended to clarify when post office box fees must be paid. D910.4.7 is amended to show that the exception for payment periods is applicable to all offices with fewer than 500 post office boxes, regardless of fee group. D910.5.1 is amended to explain the new system for grouping ZIP Codes into fee groups. D910.5.2 and 5.3 are amended to clarify the conditions under which a customer could qualify for fee (Group E) post office box service. Exhibits D910.5.3a and 5.3b are deleted because of the change to a new fee system. D910.6.1 is amended to clarify how refunds for post office box fees are calculated. D910.7.0 is revised to include the new fee for replacement or duplicate keys and the new fee for replacing post office box locks.

D920.1.4 is amended to move information about reserved caller numbers into new D920.1.5. D920.3.4 amended to clarify that caller service may not be used when the primary purpose is to have the Postal Service redirect or transfer mail to another address. D920.4.0 is amended and Exhibit 4.1 is deleted to remove references to caller service fee groups. D920.4.2 is amended to clarify that reserved number fees are not refundable. D920.4.3 is amended to remove references to deleted sections. D920.4.5 is amended to clarify the payment periods for caller service. D920.4.8 is amended to show that the exception for payment periods is applicable to all offices with fewer than 500 post office boxes. D920.5.1 is amended to clarify how refunds for caller service fees are calculated. D920.5.3 is added to show that the reserve number fee is not refundable.

E Eligibility

Throughout the E module, references to “Regular” are changed to “Outside-County,” as appropriate.

E010.1.4 is amended to change references from “C600” to “C700.” E010.1.6 is amended to add clarity to the first sentence. The first sentence of E020.1.4 is added to clarify that Express Mail cannot be sent through the Department of State. E020.2.3 is amended to show that Signature Confirmation is not available for mail sent through the Department of State. E040.4.1 is amended to change references from “C600” to “C700.” E060 5.3 is amended to reflect the current requirement for a “Parcel Post” rate marking for single-piece rate Parcel Post. E060.10.1 is amended to clarify standards for penalty reply mail. E060.11.1 is amended to add QBRM as an option for penalty business reply mail and to clarify when the annual accounting fee is paid. E060.12.1 is amended by adding a reference to S923. A new E060.12.2 is added to clarify how penalty merchandise return service (MRS) parcels are charged postage and fees. A new E060.12.3 is added to require MRS permit holders to pay an annual accounting fee. E060.12.7c is added to indicate where the recommended rate marking should appear on the MRS label. E060.12.8 is amended to clarify standards for permit holders who choose to add insurance to MRS parcels. E060.12.9 is renumbered as E060.12.10 and new E060.12.9 is added to allow senders to add insurance to MRS parcels at their own discretion and expense. E070.4.2 is amended to change the reference from “E600” to “E700.” E070.6.2 is revised to specify Presorted rate mail must be prepared under Bound printed Matter standards. E120.2.4 is revised to add provisions for a new minimum Priority Mail rate for pieces weighing 1 pound or less, and to add information on rates applicable to keys and identification devices. E130.2.2 is revised to clarify the fee for keys and identification devices. E130.2.3 is relocated to M110.1.0. E140.2.2 and E140.2.3 is revised to add separate 5-digit (optional) and 3-digit (required) rate eligibility requirements for automation flats. E150.2.0 is amended by removing the last sentence. E150.3.2 is amended by adding a quarterly QBRM fee under E150.3.2d. E211.13.1 is amended by revising 13.1d(3). E211.13.2 is amended for clarity, no fee is charged if reentry is only to change eligibility to preferred rates or the preferred rate discount. E211.14.0 has been revised and renumbered as E220.1.0. E212.2.4 has been revised and renumbered as E220.4.0. E215.2.3 is amended by adding references to Preferred rate discount and clarifying qualification categories. New E215.2.4 is added for Publications of Institutions and Societies. E215.2.7 is amended by replacing the second sentence and deleting the third sentence. A new E220 is created that describes and clarifies basic rate eligibility standards for Periodicals including the new preferred rate discount for Nonprofit and Classroom publications which provides a 5% discount on total Outside-County postage, excluding the postage for advertising pounds. E270 is amended by removing 1.0 and 6.0 and renumbering 2.0 through 9.0 as 1.0 through 7.0 and replacing the word in 1.0 “RATES” with the word “ELIGIBILITY.” Removing the word “rates” and replacing the reference 3.0 and 4.0 as 2.0 and 3.0 amends renumbered E270.1.1. Removing the word “regular” amends renumbered E270.1.3. E270.1.4 is removed. Removing the word “RATES” with the word “ELIGIBILITY” amends renumbered E270.2.0. E270.2.1 and E270.2.2 are amended by replacing the reference “3.3 through 3.10” with “2.3 through 2.10.” Removing the word “RATES” with the word “ELIGIBILITY” amends renumbered E270.3.0. Removing the word “regular” in the last sentence amends renumbered E270.4.0. E270.5.1 is amended by adding a new first sentence requiring the Preferred rate discount is available only after USPS authorization. E270.5.5, Rate Anomaly, renumbered as E270.4.5 is removed. In renumbered E270.5.0, 5.1 is removed and E270 5.2 and 5.3 are renumbered as 5.1 and 5.2. Renumbered E270.5.1 is amended by adding a new first sentence describing the Preferred rate discount and revising the second sentence applicable to authorization procedures for Nonprofit and Classroom publications. Adding reference to preferred rate and replacing “Regular Periodicals” with “Outside-County” amends renumbered E270.6.1 and E270.6.2. Renumbered E270.7.4 is amended by replacing “Regular” with “Outside-County,” and the reference “9.5” with “7.5.” E611 is amended to provide basic eligibility requirements for only Standard Mail and is renumbered as E610. E610.1.0 is amended to show that Standard Mail no longer includes matter previously referred to as Standard Mail (B) or fourth-class mail, and add the weight limit from former E612.1.0. E610.4.6 is removed because this section is no longer needed since all Package Services mail may now weigh less than 16 ounces. E610.5.0 is amended for clarity and incorporates new maximum limits for minimum per-piece rates. E610.5.4 is added for machinable parcels prepared with barcodes to be eligible for a barcoded discount. E610.5.5 is added for mail that is prepared as a parcel or is not a letter-size or flat-size mailpiece defined in C050 is subject to a residual shape surcharge. E612.4.9 is renumbered as E612.8.0. E612.8.0 is amended for clarity and provides use of detached address labels. E610.5.6 is amended to provide for the residual shape surcharge. Renumbered E610.5.7 is amended to remove the reference to 4.6 and to delete “bulk” and to change “pound rates” to “piece/pound rate.” E612 is removed and its information added to new E610. E620 is amended to remove information pertaining to Enhanced Carrier Route Mail, and to add new 4.0, which contains standards for the barcoded discount. Information in current E630 has been moved to new E700. E630 now contains eligibility for Standard Mail Enhanced Carrier Route mail. E640 is amended to change references replacing “Standard Mail (A)” with “Standard Mail” and amended current “E611 and E612” to a consolidated and reorganized “E610.” E650 has been revised by renumbering E651 to E650 and amended current “E611 and E612” to a reorganized “E610.” E670 is amended to add a reference replacing “P750,” which has been moved to “P950.” A new E700 is created for Package Services as part of the restructuring to establish separate modules for Standard Mail and Package Services mail. A new description has been added above E710 to match the description in the new E610 section. Existing E611 and E613 are renumbered to be part of the basic standards in E710 and sections of existing E630 are renumbered as new E711, E712, E713, E714, and E715. Existing E613.1.0 is renumbered as E710.1.2 and amended to reflect that minimum weights for subclasses of Package Services mail have been eliminated. E630.1.3 is renumbered as E711.2.2 and amended to add the new Intra-BMC and Parcel Select-DBMC nonmachinable surcharges, and E711.2.3 is revised to clarify that certain parcels mailed at a balloon rate may be subject to a nonmachinable surcharge. E630.2.0 is renumbered as E712 and revised in its entirety. The definition of a full sack is revised in E713 and in all other sections by eliminating the 1,000 cubic inch volume requirement and retaining only the piece and sack weight criteria. E630.5.1 is renumbered as E714 and amended to change the class name from Library Mail to Package Services. E652 is renumbered as E750 for destination entry Package Services mail. E751.4.4 and 4.5 are revised to clarify that an exception to the appointment requirement exists for destination entry shipments containing 100 percent Periodicals or shipments of perishables. E752 is created for new destination entry discounts for Presorted rate and Carrier Route rate mailings of BPM encouraging the deposit of mail at a destinating BMC, SCF, or delivery unit. An annual destination entry fee for mail entered at destination entry rates is proposed. This new section also explains Destination Entry Mail Preparation when mailing under plant-verified drop shipment (PVDS). E753 has been added to provide for the combining of Package Services parcels in 5-digit sacks (E753.2.0) and on 5-digit pallets (E753.3.0) for destination entry at the SCF and DDU levels if also presented with an approved manifest. Sacks containing at least 10 combined pieces or a combined weight of 20 pounds and pallets having at least 50 combined pieces and a combined weight of 250 pounds of mail, or 36 inches of mail, will be allowed. BPM parcels claimed at a Carrier Route rate may not be combined with the other Package Services parcels.

F Forwarding and Related Services

F010.4.5 is amended to add that Standard Mail with insurance is forwarded and returned. F010.4.6 is added to make the standards for undeliverable metered mail in this module consistent with standards elsewhere in the DMM. F010.5.3g is added and the chart in F010.5.3 is amended to prohibit the use of the “Change Service Requested” endorsement on Standard Mail with special services. F010.5.4c is added and the chart F010.5.4 is amended to allow BPM with no ancillary service endorsement and no special service to be disposed of by the Postal Service. F010.7.4 is amended to specify that combination parcels are returned at Parcel Post Inter-BMC/ASF rates.

F030.2.5 is amended to give mailers participating in Shipper Paid Forwarding the option of paying forwarding charges through a postage due account. If mailers choose this option, then they must pay the annual accounting fee. F030.4.2 is amended to include information about forwarding and return of Standard Mail.

L Labeling Lists

L001 is amended to change the introductory paragraph to show that this labeling list may be used with Bound Printed Matter flats. L002 is amended to add “and per-piece” to the rate description for Periodicals SCF rates. L004 is amended to show that it may be used with Bound Printed Matter. L601 is amended to show that packages of Bound Printed Matter irregular parcels on pallets may use this list and to show the instructions for labeling mixed BMC containers that were inadvertently omitted from the Federal Register published August 8, 2000 (65 FR 48385). L602 is amended to remove the term “bundles,” and to provide for use of this list by Bound Printed Matter machinable parcels when DBMC rates are claimed.

M Mail Preparation and Sortation

M011.1.3 is amended to add preparation instructions for less-than-full and overflow flat trays and to revise the preparation instructions for 5-digit/scheme carrier routes sort and 5-digit/scheme sort to provide for use of these levels of sortation with BPM flats. M012.3.1 is amended to eliminate the use of “Library Rate” marking effective January 1, 2002 (after which date only “Library Mail” may be used as the marking), to change the marking “Special Standard” to “Media Mail” (“Special Standard” or “SPEC STD” may be used only until January 1, 2002). M012.3.2 is amended to add the marking “Parcel Select.” M012.3.3 is amended to eliminate use of the marking “Presorted Standard” instead of “Presorted” with Presorted BPM effective January 1, 2002 (after which date only “Presorted” and “Bound Printed Matter” may be used), and to add use of the abbreviation “BPM” as an optional marking for “Bound Printed Matter.” M013.1.1 is updated to include a carrier route package optional endorsement line information for Carrier Route BPM. M013.2.5 is amended for clarity and to change the labeling list used for ADC sortation of BPM irregular parcels from L603 to L004, to change the labeling list used for mixed ADC sortation from L604 to L004. M020.1.4 is amended to delete references to bundles. Current M020.1.5 and 1.6 are renumbered 1.6 and 1.7 and a new M020.1.5 is added to describe new physical preparation of BPM packages. M020.2.2 is amended to show that First-Class Mail automation flats prepared under the new tray-based preparation rules are not prepared in packages and to show that the exception in renumbered M020.1.7 also applies to First-Class flats in trays. M020.3.0 is amended to show that the requirements for facing slips used to label carrier route packages applies to all classes of mail. M031.4.7 is amended to specify that the words “CARRIER ROUTES” must appear on 5-digit pallets of BPM only when the pallet consists entirely of irregular parcels eligible for the carrier route rate and that the words “CARRIER ROUTES” must appear after the “5D” pallet level description. M031.4.12 is amended to delete the term “bundle.” M031.5.0 is amended to add new abbreviations for First-Class Mail and Package Services mail. Exhibit M032.1.3a is amended to reflect changes in the content line and CIN numbers of Package Services sack labels. M033.1.2 is amended to clarify that lids on First-Class flat trays must be placed on the trays green side up. M033 is amended to provide for less-than-full and overflow trays for First-Class Mail automation rate mailings prepared under the new tray-based option.

M041.5.6 is amended to require for flat-size BPM that Presorted rate mail be placed on separate 5-digit pallets (5-digit scheme and 5-digit pallets) than Carrier Route rate mail (5-digit carrier routes or 5-digit scheme carrier routes pallets), and to remove references to palletized bundles. M045.2.0 is revised to clarify requirements and for BPM to revise the package minimums, maximums, and physical packaging requirements. Current M045.3.0, which provides for optional preparation of bundles on pallets for Periodicals and Standard Mail is deleted. M045.4 (as set forth in the final rules published in 65 FR 50054 (August 16, 2000)) is renumbered as M045.3. M045.3 is amended to provide for separate pallet preparation requirements for BPM flats in M045.3.3 and for irregular parcels in M045.3.4, to renumber the remainder of that section, and to revise the class abbreviation on the contents lines for Package Services mail from “STD” or “STD B” to “PSVC.” M045.5 through M045.15 (as set forth in the final rule published in 65 FR 50054 (August 16, 2000)) is renumbered as M045.4 through M045.14. Renumbered M045.6.4 and M045.9.2 will be amended by changing the reference “M630” to “M710 or M720.” Renumbered 10.0 and 11.0 are amended by changing “STD” or “STD B” to “PSVC.” Renumbered 12.1 is amended to change “M630” to M710,” to change the pallet label contents lines class abbreviation from “STD B” to “PSVC,” and to add “PARCELS” after the class abbreviation. Renumbered 12.2 is amended to change “M630” to “M710,” to change the pallet label contents lines class abbreviation from “STD B” to “PSVC,” and to add “PARCELS” after the class abbreviation. M045.12.3 is amended to change “Exhibits E652.7.0 and E652.8.0” to “Exhibits E751.7.0 and E751.8.0.” M045.12.4 is amended to change “E652.6.0” to “E751.6.0.” M045.13.0 is amended to change “M630” to “M710” and to change the class abbreviation on the contents line of the pallet label from “STD B” to “PSVC.” M045.14.0 is amended to change the pallet label contents lines class abbreviation from “STD B” to “PSVC,” and to add “PARCELS” after the class abbreviation. M072.2.4 is amended by changing “P710, P720, or P730” to “P910, P920, or P930,” and by changing “E652” to “E751.” M073.2.3 is amended to change “P710” to “P910.”

M110 is added to show the preparation requirements for single-piece First-Class Mail formerly located in E130.2.3. M610.6.0, which provided for preparation of Standard Mail bedloaded bundles, is deleted. M620.1.1a is amended by changing “E620” to “E630.” M630.1 pertaining to Parcel Post is renumbered in new M710.

M710.1.1 is added to describe general requirements for Parcel Post. Renumbered M710.1.3 (formerly M630.1.2) is revised to show that DSCF and DDU rate mail need not be separated by zone and to change “P710, P720, or P730” to “P910, P920, or P930.” M710.1.4 is added to contain standard for commingled zones (formerly M630.8.0). M710.1.5 contains the documentation information formerly in M630.1.3 and is amended to clarify the standards and to change “P710, P720, or P730” to “P910, P920, or P930.” M710.2.1 contains standards, formerly in M630.1.4, that are amended by changing the reference “1.5” to “2.2,” by changing “Exhibit E652.6.0” to “Exhibit E751.6.0,” and by changing the reference “Exhibit E652.6.0 and Exhibit E652.8.0” to “Exhibit E751.7.0 and Exhibit E751.8.0.” M710.2.2 (formerly M630.1.5) contains standards that are amended to replace “STD B 5D” on the contents line of DSCF 5-digit sacks with “PSVC PARCELS 5D.” M710.4.0 (formerly M630.6.0) is added to contain provisions for preparation of machinable parcels and is amended to show that this preparation is optional for Parcel Post. M720 (formerly M630.2.0 and 3.0) is added to contain standards for BPM. M721 contains the preparation standards for single-piece rate BPM. M722 contains the preparation standards for Presorted BPM. M722.2.1 contains new packaging requirements for Presorted flats. M722.2.2 contains new sacking requirements for Presorted flats. M722.3.0 contains new line 2 sack labeling requirements that change the abbreviation “STD” to “PSVC.” M722.3.1 contains new packaging requirements for Presorted BPM irregular parcels that weigh 10 pounds or less. M722.3.2 contains new sack preparation requirements for Presorted BPM irregular parcels weighing 10 pounds or less, including a requirement to use L004 instead of L603 for preparation of ADC sacks and to use L004 instead of L604 for mixed ADC sacks. M722.3.3 contains new line 2 sack labeling requirements for Presorted BPM irregular parcels weighing 10 pounds or less that change the abbreviation “STD B” to “PSVC.” M722.3.4 contains a provision to allow preparation of bedloaded 5-digit packages of Presorted BPM irregular parcels weighing up to 40 pounds when prepared for and entered at DDU rates. M722.4.0 contains preparation requirements for Presorted BPM irregular parcels weighing over 10 pounds. M722.4.1 prohibits packaging of such pieces and requires that each individual piece must be enclosed in an envelope, full-length sleeve, full-length wrapper, or polywrap before being placed in sacks. M722.4.2 contains sacking requirements for Presorted BPM irregular parcels weighing over 10 pounds including a requirement to use L004 instead of L603 for preparation of ADC sacks and to use L004 instead of L604 for mixed ADC sacks. M722.4.3 contains new line 2 sack labeling requirements for BPM irregular parcels weighing over 10 pounds that change the abbreviation “STD B” to “PSVC.” M722.4.4 contains a provision to allow preparation of bedloaded 5-digit packages of Presorted BPM irregular parcels weighing up to 40 pounds when prepared for and entered at DDU rates. M722.5.0 contains provisions for preparing Presorted machinable parcels that contains the provisions of former M630.6.0 that are amended to clarify preparation when DBMC rates are claimed and when they are not and to change the line 2 sack labeling class abbreviation from “STD B” to “PSVC.” M723 is added that contains the provisions for preparing Carrier Route BPM. M723.2.0 contains the preparation requirements for Carrier Route BPM flats. M723.2.1 contains new packaging requirements. M723.2.2 contains new sacking minimums, requires preparation of carrier route sacks, and provides for optional preparation of 5-digit scheme carrier routes sacks for Carrier Route BPM flats. M723.2.3 contains line 2 sack labels that are amended to change the class abbreviation from “STD B” to “PSVC.” M724.2.4 contains a provision to allow preparation of bedloaded carrier route packages of BPM flats weighing up to 40 pounds when prepared for and entered at DDU rates. M723.3.0 contains preparation requirement for Carrier Route BPM weighing 10 pounds or less. M723.3.1 sets forth new packaging requirements for Carrier Route BPM irregular parcels weighing 10 pounds or less. M723.3.2 contains sack preparation requirements that change the carrier route sack minimum and make it a required level of sack. M723.3.3 contains line 2 sack labels that are amended to change the class abbreviation from “STD B” to “PSVC.” M723.3.4 contains a provision to allow preparation of bedloaded carrier route packages of BPM irregular parcels weighing up to 40 pounds when prepared for and entered at DDU rates. M723.4.1 requires Carrier Route BPM irregular parcels weighing over 10 pounds to be prepared only in direct carrier route sacks containing a minimum of 20 pounds of mail. M723.5.1 permits machinable parcels to qualify for Carrier Route BPM rates only if prepared in a direct carrier route sack that contains a minimum of 10 addressed pieces or 20 pounds. M730 is added to contain standards for Media Mail (formerly in M630.4.0) and is amended to reflect the subclass name change to “Media Mail.” M730.1.0 contains basic standards. M730.2.1 contains sack and package on pallet preparation for 5-digit Media Mail rates from former M630.4.4 amended to change “bundles” to “packages” and to remove ­“/1,000 cubic inches.” M730.2.2 (formerly M630.4.5) contains sack preparation for BMC Media Mail rates and is amended to remove “/1,000 cubic inches.” M730.2.3 contains Line 2 sack label information for Media Mail (formerly in M630.4.6) amended to change “STD” and “STD B” to “PSVC.” M740 is added that contains the standards for Library Mail in former M630.5.0. M740.1.0 contains basic standards for Library Mail in former M630.5.1 through 5.3, amended to discontinue use of the “Library Rate” marking beginning January 1, 2002. M740.2.1 contains sack preparation requirements for the 5-digit Library Mail rates from former M630.5.4 amended to remove “/1,000 cubic inches.” M740.2.2 contains sack preparation requirements for the BMC Library Mail rates from former M630.5.5 amended to remove “1,000 cubic inches.” M740.2.3 contains Line 2 sack label information for Library Mail from former M630.5.6 amended to change “STD” and “STD B” to “PSVC.”

M820.1.2 is amended to incorporate the proposed separate rates for 5-digit and 3-digit First-Class automation flats. M820.1.5 is amended to exclude First-Class automation flats prepared under the new tray-based preparation rules from package preparation standards. M820.1.11 is added to prohibit combining FSM 881 and FSM 1,000 mailpieces in the same tray when the new tray-based preparation option for First-Class Mail automation flats is used. M820.2.1 is amended to make preparation of 5-digit packages for First-Class automation flats optional. M820.2.2 is amended to make preparation of 5-digit trays for First-Class automation flats optional. M820.3.0 is added to provide for an optional tray-based preparation for First-Class automation flats. M910.1.2 is amended to change the reference “M820” to the more specific reference “M820.2.1” so that it is clear the mail must be packaged and must not be prepared under the new option for First-Class Mail automation flats in M820.3.0 for tray-based preparation.

P Postage and Payment Methods

P011.1.1b is amended by renumbering 1.1b through 1.1e as 1.1c through 1.1f and add new 1.1b to include prepayment conditions for merchandise return service. P011.3.3 and 3.4 are added to clarify standards for advance deposit accounts and annual accounting fees. A separate annual accounting fee must be paid for each special service deducted from the same account. P012.2.2 is amended to include in the body elements of the standardized documentation tray levels and tray destinations when choosing the new tray-based preparation option for Automation First-Class flat mailings. P013.1.4 and P013.1.5 is amended to reflect the proper affixing of postage to other than single-piece rate mailings and affixing postage to single-piece rate mailings. P012.2.3 is amended to add a new table to include the proposed rate level and abbreviations for Automation First-Class Mail when opting to prepare tray-based presorts. P013.2.4 is revised to reflect the new proposed one-pound minimum Priority Mail rate. P013.2.6 is amended to reflect keys and identification devices weighing more than 13 ounces but no more than one-pound would be charged the new one-pound rate. Computing and affixing postage on Package Services mail is clarified and the minimum postage rate computation for Presorted and Carrier route Bound Printed Matter is clarified. P014.2.4I is amended to include when the destination entry mailing fee is eligible for a full (100%) refund. P022.1.2 is amended by removing payment with postage due stamps from the second sentence. P070.5.4 is amended by replacing “Special Standard Mail” with “Media Mail” and to include the inter-BMC/ASF rates to the rating of unmarked parcels. P600.4.0 and 5.0 are added to clarify eligibility for barcoded discounts and payment methods with special services. Current P700, Special Postage Payment Systems, is redesignated as P900. Current P710, P720, P730, P750, and P760 are redesignated as P910, P920, P930, P950, and P960, respectively. A new P700 is created from P600 for Package Services with the only change in content being the name change from Standard Mail (B) to Package Services.

R Rates and Fees

The entire module is revised to reflect new rates and fees for all classes of mail.

S Special Services

S010.2.1 is amended to show that the sender of a merchandise return service parcel may file a claim for loss if the sender has purchased the insurance.

S911.1.5 is amended to add Signature Confirmation as an additional service that may be combined with registered mail. S912.1.4 is amended to specify the additional services that may be combined with certified mail and S912.1.5 is amended to clarify the standards for a delivery record. S912.2.5a is amended to specify the form number used by customers. S913.1.2 and 1.3 are amended to show that bulk insurance may be added to Standard Mail pieces that are subject to the residual shape surcharge and to remove the required “Standard Mail Enclosed” marking. S913.1.5 is amended to add Signature Confirmation as an additional service that may be combined with insurance. S913.1.6 is added to clarify that customers may request a delivery record after mailing. S913.4.0 is amended to change “parcel” to “item.”

S914.1.1 is amended to show that certificate of mailing is evidence that mail has been presented for mailing but does not provide a record of delivery. S914.1.2, 1.3, and 1.4 are rewritten for clarity; there are no changes to these standards for bulk certificate of mailing. S914.1.7 is added to specify the additional services that may be combined with certificate of mailing.

S915.1.1 is amended to show that the return receipt is mailed back to the sender. S915.1.2 is amended to show the classes of mail that are eligible for return receipt service and the prerequisite services. S915.1.7 is added to specify the additional services that may be combined with return receipt. S915.2.2 is amended to clarify how to apply for a delivery record after mailing. S915.2.3 is added to specify the time limit for requesting a delivery record after mailing. S916.1.2 is amended to clarify that restricted delivery cannot be used with Standard Mail. S916.1.7 is added to specify the additional services that may be combined with restricted delivery, including new Signature Confirmation service. S917.1.1 is amended to show that the return receipt is mailed back to the sender. S917.1.2 is amended to show that return receipt for merchandise service is available for Standard Mail pieces that are subject to the residual shape surcharge. S917.1.3 is amended to specify the special services that may be combined with return receipt for merchandise. S917.2.7 is added to clarify how mailers may request a delivery record if return receipt service was not provided. S917.3.0 is amended to remove information about the delivery record.

S918.1.2 is amended to show that electronic option Delivery Confirmation is available for Standard Mail pieces that are subject to the residual shape surcharge. S918.1.3 is amended to show that Delivery Confirmation service is not available for Standard Mail cards, letters, and flats (i.e., pieces that are not subject to the residual shape surcharge). The last sentence of S918.5.0a is deleted to eliminate redundancy.

New unit S919 is added for Signature Confirmation service.

S921.1.1 is amended to show the new $1,000 limit for COD and to clarify that recipients who pay CODs with cash will be charged the applicable money order fee(s). S921.1.4 is amended to specify the additional services that may be combined with COD.

S922.3.4 and 3.5 are added to add a new classification of high-volume qualified business reply mail (QBRM) that includes a quarterly fee and a lower per-piece charge. Renumbered S922.3.6 is revised to clarify that the maintenance fee applies only to nonletter-size weight averaged BRM.

S923.1.1, 1.3, and 2.7 are amended to remove references to the per-piece fee for pieces returned through merchandise return service (MRS). S923.1.11 is amended and 1.12 is removed to show that unmarked MRS pieces will be treated as Parcel Post. S923.2.3 is amended to clarify references to the annual accounting fee. S923.3.0 is amended in its entirety to clarify how postage is paid on returned pieces, to remove references to the per-piece charge, and to add the annual accounting fee for the required advance deposit account. S923.4.1 and 4.2 are amended to show that the sender (the person using the merchandise return service label to return a parcel to the permit holder) may add insurance to a MRS parcel at their own discretion and expense. S923.5.6c is amended to clarify that rate markings are optional on MRS pieces. All of the exhibits in S923 are amended to remove references to the per-piece fee.

S924.1.1 is amended to add a sentence about payment information for Bulk Parcel Return Service (BPRS). S924.1.4 is added to show that no special services can be added to pieces sent through BPRS. S924.3.2, 3.3, and 3.4 are added to clarify the per-piece charges and to describe the new annual accounting fee. S924.3.5 is added to specify that the permit holder is responsible for payment of all applicable fees. Exhibit S924.5.0 is amended to change the class marking to “Standard Mail.” S930.1.3 is amended to specify that Signature Confirmation service can be combined with special handling. S930.1.7 is added to clarify that the Parcel Post nonmachinable surcharge is not added to parcels sent special handling. S930.2.3 is amended to specify the additional services that may be combined with parcel airlift service (PAL).

Although exempt from the notice and comment requirements of the Administrative Procedure Act (5 U.S.C. 553(b), (c)) regarding proposed rulemaking by 39 U.S.C. 410(a), the Postal Service invites comments on the following revisions of the Domestic Mail Manual (DMM), incorporated by reference in the Code of Federal Regulations. See 39 CFR part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) to read as follows:

A ADDRESSING

A000 Basic Addressing

A010 General Addressing Standards

1.0 ADDRESS CONTENT AND PLACEMENT

* * * * *

[Amend 1.2 by replacing “Standard Mail (A), Standard Mail (B),” with “Standard Mail, Package Services,” no other changes to text.]

* * * * *

[Amend 1.6 by replacing “Standard Mail” with “Standard Mail, and Package Services”; and by replacing “E600” with “E600, and E700”; no other changes to text.]

* * * * *

4.0 RETURN ADDRESS

* * * * *

[Amend 4.3g by replacing “Standard Mail (B)” with “Package Services”; no other changes to text.]

* * * * *

A060 Detached Address Labels (DALs)

1.0 USE

[Amend 1.2 and 1.3 by changing “Standard Mail (A)” to “Standard Mail”; no other changes to text.]

[Revise 1.4 to reflect the elimination of the local zone and to add new 5-digit preparation and entry standards to read as follows:]

1.4 Bound Printed Matter

Mailings of unaddressed pieces of Bound Printed Matter may be mailed with DALs when:

a. The mail is prepared on 5-digit pallets meeting the standards in M040 and M045, except that for flat-size mail, separate 5-digit pallets of Carrier Route and Presorted rate mail are not required. The mail may not be prepared on pallets when the Drop Ship Product indicates that the delivery unit that serves the 5-digit pallet destination cannot handle pallets. The destination delivery unit is determined using the Drop Ship Product under the provisions for the DDU rate in E752. (For such delivery units, mail with DALs must be prepared in sacks.) The trays or cartons of DALs must be prepared under 3.0 and placed on the same pallet as the pieces and must be stretch-wrapped together as one unit.

b. The mail is prepared in 5-digit sacks and entered at the destination delivery unit. The destination delivery unit is determined using the Drop Ship Product under the provisions for the DDU rate in E752. DALs must be packaged under 3.0 and presented to the destination delivery unit with the accompanying items to be distributed with the DALs.

* * * * *

[Add a new 1.7 to read as follows:]

1.7 Special Services

Items mailed with DALs may not be combined with any special services.

* * * * *

3.0 MAIL PREPARATION

* * * * *

[Remove 3.7 and 3.8.]

* * * * *

4.0 DISPOSITION OF EXCESS OR UNDELIVERABLE MATERIAL

* * * * *

[Amend 4.2 by adding additional restrictions to undeliverable Bound Printed Matter to read as follows:]

4.2 Undeliverable DAL

A DAL that is undeliverable-as-addressed (UAA) is handled under F010. An UAA Standard Mail or Bound Printed Matter DAL is disposed of as waste. The accompanying item is treated as specified by the mailer under 4.1.

5.0 POSTAGE

* * * * *

[Amend 5.2b by changing “Standard Mail (A)” to “Standard Mail”; no other changes to text.]

[Amend 5.3 by replacing “Standard Mail (B)” with “Package Services mail”; no other changes to text.]

C CHARACTERISTICS AND CONTENT

C000 General Information

C010 General Mailability Standards

1.0 MINIMUM AND MAXIMUM DIMENSIONS

* * * * *

[Amend 1.3 by changing “(see C600)” to “(see C700)”.]

* * * * *

C020 Restricted or Nonmailable Articles and Substances

* * * * *

C023 Hazardous Materials

1.0 GENERAL

[Amend 1.1f by replacing “Standard Mail” with “Standard Mail or Package Services”; no other changes to text.]

* * * * *

C050 Mail Processing Categories

1.0 BASIC INFORMATION

[Amend the second sentence of 1.0 to reflect changes in class names to read as follows:]

* * * Unless permitted by standard, any mailing at other than the single-piece Express Mail, Priority Mail, First-Class Mail, or Package Services rates may not contain pieces from more than one processing category.

* * * * *

[Amend Exhibit 2.0 to show new weight limit for machinable parcels.]

* * * * *

4.0 MACHINABLE PARCEL

4.1 Criteria

[Amend 4.1a to decrease the minimum piece weight from 8 ounces to 6 ounces to read as follows:]

A machinable parcel (see Exhibit 2.0) is any piece that is:

a. Not less than 6 inches long, 3 inches high, ¼ inch thick, and 6 ounces in weight. (A mailpiece exactly ¼ inch thick is subject to the 3½-inch height minimum under C010.)

* * * * *

[Remove 4.1c.]

4.2 Soft Goods

[Amend 4.2 to include reference to C010 for packaging standards to read as follows:]

Soft goods wrapped in paper or plastic bags and enveloped printed matter weighing up to 5 pounds are machinable only if all applicable packaging standards in C010 are met.

4.3 Exception

[Amend 4.3 to clarify the exception authority for machinable parcels to read as follows:]

Some parcels may be successfully processed on BMC parcel sorters although they do not conform to the general machinability criteria in 4.1. A destinating BMC plant manager may authorize a mailer to enter such parcels as machinable parcels rather than as irregular parcels if the parcels are tested on BMC parcel sorters and prove to be machinable. In addition, the following requirements must be met: all mailed pieces must be machinable, properly labeled, bear delivery addresses located within the service area of the authorizing BMC, and be entered at a post office within the service area of the authorizing BMC.

* * * * *

C200 Periodicals

* * * * *

2.0 IMPERMISSIBLE MAILPIECE COMPONENTS

* * * * *

2.2 Prohibited Matter

[Amend 2.2c to replace “Standard Mail” with “Standard Mail, or Package Services”; no other changes to text.]

* * * * *

[Amend heading and text of 2.4 by replacing “Standard Mail (B)” with “Package Services”; no other changes to text.]

* * * * *

[Add new section 5.0 to read as follows:]

5.0 PHYSICAL LIMITATIONS

Periodicals mail may not weigh more than 70 pounds or measure more than 108 inches in length and girth combined. Additional size limitations apply to individual Periodicals rate categories.

* * * * *

C600 Standard Mail

1.0 DIMENSIONS

[Revise the heading of 1.1 to read as follows:]

1.1 Basic Standards

[Amend 1.1 and Exhibit 1.1d by changing “Standard Mail (A)” to “Standard Mail.”]

* * * * *

[Redesignate 1.3 as C700.1.0.]

[Redesignate current 2.0 as C700.2.0.]

[Add new 2.0 to read as follows:]

2.0 RESIDUAL SHAPE SURCHARGE

Mail that is prepared as a parcel or is not letter-size or flat-size as defined in C050 is subject to a residual shape surcharge. There is one surcharge for mail entered at Regular and Nonprofit Presorted rates and a different surcharge for mail entered at Enhanced Carrier Route and Nonprofit Enhanced Carrier Route rates. See E610 and R600.

* * * * *

[Add new C700 as follows:]

C700 Package Services

[Redesignate C600.1.3 as C700.1.0 and amend the heading by replacing “Standard Mail (B)” with “Package Services”; no other changes to text.]

[Redesignate C600.2.0 as C700.2.0 and amend to extend the nonmachinable surcharge to intra-BMC and Parcel Select-DBMC pieces to read as follows:]

2.0 NONMACHINABLE SURCHARGE

Items described in E711 that are mailed at the inter-BMC/ASF, intra-BMC, or Parcel Select-DBMC Parcel Post rates are subject to a nonmachinable surcharge unless the applicable special handling fee is paid. An oversized parcel as described in 1.0c is not subject to the surcharge.

[Add new 3.0 to read as follows:]

3.0 POSTAL INSPECTION

Package Services mail is not sealed against postal inspection. Package Services mail may be prepared for automated processing but must allow easy examination.

C800 Automation-Compatible Mail

C810 Letters and Cards

* * * * *

2.0 DIMENSIONS

* * * * *

[Redesignate 2.3 as 2.4; amend redesignated 2.4 to provide for new maximum weight limits and by deleting 2.4d through f; and add new 2.3 to read as follows:]

2.3 Determining Height and Length

The length of an automation letter piece is the dimension parallel to the address when the address is read. The height is the dimension perpendicular to the length.

2.4 Maximum Weight

Maximum weight limits are as follows:

a. Upgradable Presorted First-Class Mail and Upgradable Presorted Standard Mail: 2.5 ounces (0.1563 pound).

b. Automation First-Class Mail, automation Periodicals, and automation Standard Mail: 3 ounces (0.1875 pound).

c. Automation First-Class Mail, automation Periodicals, and automation Standard Mail heavy letters: 3.5 ounces (0.2188 pound).

* * * * *

7.0 ADDITIONAL STANDARDS FOR SPECIFIC TYPES OF PIECES

* * * * *

7.5 Heavy Letter Mail

[Amend 7.5 by changing the reference “2.3” to “2.4”; no other changes to text.]

* * * * *

C820 Flats

* * * * *

3.0 DIMENSIONS FOR FSM 1000 PROCESSING

* * * * *

3.4 Maximum Weight

[Amend 3.4 by replacing “Standard Mail (A)” with “Standard Mail”; no other changes to text.]

* * * * *

C840 Barcoding Standards for Letters and Flats

* * * * *

2.0 BARCODE LOCATION—LETTER-SIZE PIECE

2.1 Barcode Clear Zone

[Amend 2.1 by replacing “Standard Mail (A)” with “Standard Mail”; no other changes to text.]

* * * * *

[Amend title of 850 by replacing “Standard Mail (B)” with “Standard Mail and Package Services” to read as follows:]

C850 Barcoding Standards for Standard Mail and Package Services Machinable Parcels

1.0 GENERAL

[Amend 1.1 by replacing “Standard Mail (B)” with “Standard Mail and Package Services mail,” and replace “E630” with “E620, E720, E730, or E740”; no other changes to text.]

* * * * *

[Amend 1.4 by replacing “Standard Mail (B)” with “Standard Mail and Package Services mail” and replace “E630” with “E620, E720, E730, or E740”; no other changes to text.]

* * * * *

D DEPOSIT, COLLECTION, AND DELIVERY

D000 Basic Information

D010 Pickup Service

* * * * *

2.0 POSTAGE AND FEES

* * * * *

[Amend 2.2 by changing “R600” to “R700”.]

* * * * *

D200 Periodicals

D210 Basic Information

* * * * *

2.0 MAIL DEPOSIT

[Amend 2.0 by replacing “Standard Mail” with “Standard Mail and Package Services mail”; no other changes to text.]

* * * * *

D600 Standard Mail

* * * * *

2.0 MAIL DEPOSIT

[Amend 2.0 by removing 2.1 and 2.3; redesignating 2.2 and 2.4 as 2.1 and 2.2, respectively; revising the heading and amending the contents of redesignated 2.1 to remove the term “bulk rates,” provide for mail entered under plant-verified drop shipment procedures, and amending the text of redesignated 2.2 for clarity to read as follows:]

2.1 General

Standard Mail must be presented at the post office where the permit or license is held and the presort mailing fee is paid. Mailings must be presented at the locations and times specified by the postmaster. Plant-verified drop shipment (PVDS) mailings must be presented for verification, acceptance, and entry under P750. Plant-loaded mailings must be presented, verified, accepted, and entered as specified by the plant load agreement and applicable standards. Metered Standard Mail may be deposited at other than the licensing post office only as permitted under D072. Nonprofit Standard Mail must be presented only at post offices where the organization producing the mailing has an approved nonprofit authorization (E670).

2.2 Separation of Mailings

Pieces at different rates (e.g., 3/5 and basic) may be combined in the same mailing as provided in M011. Separate mailings may be reported on the same postage statement if the pieces in the mailings are in the same processing category (C050), are part of the same mailing job, and are presented for verification at the same time.

[Add new D700 to read as follows:]

D700 Package Services

1.0 SERVICE OBJECTIVES

The USPS does not guarantee the delivery of Package Services mail (Parcel Post, Bound Printed Matter, Media Mail, and Library Mail) within a specified time. Package Services mail might receive deferred service. The local post office can provide more information concerning delivery times within its area.

2.0 MAIL DEPOSIT

2.1 Single-Piece Rate Mailings

Single-piece rate Package Services mail must be deposited at a time and place specified by the postmaster or designee at the office of mailing. Metered mail may be deposited at other than the licensing post office only as permitted under D072. Permit imprint mail must be presented at the post office under P040 or P700.

2.2 Presorted, Carrier Route, Destination Entry, and Barcoded Discount Mailings

All presorted, carrier route, destination entry, barcoded discount mailings must be presented for verification and acceptance at the post office where the permit or license is held and, if applicable, where the presort mailing fee or destination entry mailing fee is paid. All such mailings must be deposited at locations and times specified by the postmaster or designee at the office that verifies and accepts the mailing. Plant-verified drop shipment (PVDS) mailings must be presented for verification, acceptance, and entry under P750. Plant-loaded mailings must be presented as specified by the applicable standards and the plant load agreement. Metered mail may be deposited at other than the licensing post office only as permitted under D072.

2.3 Zoned Rates

Pieces paid at zoned rates must be entered at the post office from which the applicable zoned rate postage is computed unless an exception is permitted under E710.

2.4 Drop Shipment Information

Essential information for entering drop shipment Package Services mailings at specific postal facilities can be found in the Drop Ship Product maintained by the National Customer Support Center (NCSC) (see G043). There is a charge for the Drop Ship Product (E750).

D900 Other Delivery Services

D910 Post Office Box Service

1.0 BASIC INFORMATION

* * * * *

1.5 Box Availability

[Amend 1.5 by adding the following sentence at the end of the paragraph:]

* * * Regardless of the box size applied for, customers must pay the correct fee for the service they receive.

[Redesignate current 1.7 as 1.8. Add new 1.7 to read as follows:]

1.7 Service Period

Post office box service is provided in six-month increments.

[Amend redesignated 1.8 to add the new key duplication fee and the lock resetting fee read as follows:]

1.8 Fees

Post office box fees for each six-month period are listed in R900. Each box customer is charged a refundable deposit for post office box keys. Customers also are charged fees for duplicate and replacement post office box keys and for changing locks on post office boxes.

* * * * *

3.0 CONDITIONS OF USE

[Amend 3.1 by clarifying text to read as follows:]

3.1 Receiving Mail

A box customer may receive through the box any mail that is properly addressed to that box number.

* * * * *

[Amend 3.7 by clarifying to read as follows:]

3.7 Forwarding

A post office box may not be used when the primary purpose is to have the USPS forward or transfer mail to another address free of charge.

* * * * *

4.0 BASIS OF FEES AND PAYMENT

[Amend 4.1 to change the basis of post office box fees to read as follows:]

4.1 General

Post office box fees are based on the size of box provided and the fee group to which the box's 5-digit ZIP Code is assigned.

* * * * *

[Remove 4.3. Redesignate 4.4 through 4.11 as 4.3 through 4.10, respectively. Amend redesignated 4.3 to read as follows:]

4.3 Fee Changes

A change in post office box service fees applicable to a given 5-digit ZIP Code can arise from a general fee change. In addition, the Manager, Special Services, may authorize the reassignment of one or more 5-digit ZIP Codes to the next higher or lower fee group if the past history of fee group assignments was in error. The Postal Service also may regroup 5-digit ZIP Codes. No ZIP Code may be moved more than once a calendar year and may be moved only into the next higher or lower fee group. Any change in post office box service fees takes effect on the date of the action that caused the change unless an official announcement specifies another date. The post office box service fee charged is that in effect on the date of payment.

4.4 Payment

[Amend 4.4 to specify when post office box fees must be paid to read as follows:]

All fees for post office box service are for a 6-month period. Except under 4.6, 4.7, and 4.10, fees must be paid in advance for each 6-month period. The fee may be paid for two periods at a time (i.e., up to one year in advance), but not more. The fee that must be paid is the one that is in effect on the day that the fee is paid. Fees may be paid using cash, credit or debit card, or check or money order payable to the postmaster. A mailed payment must be received by the postmaster on or before the due date.

* * * * *

[Amend the heading of 4.7 by removing “for Group D Offices” to read as follows:]

4.7 Exception

[Amend the first sentence of 4.8 by removing reference to “Group D” to read as follows:]

Postmasters at offices with fewer than 500 post office boxes may set April 1 and October 1 as the beginning of payment periods for box customers in their offices. * * *

* * * * *

[Amend 5.0 by revising 5.1 through 5.3 to show the new fee group assignments:]

5.0 FEE GROUP ASSIGNMENTS

5.1 Regular Fee Groups

Post office boxes are assigned to fee groups listed in R900 based upon estimates of the market-based cost of the space occupied by post office boxes in each 5-digit ZIP Code. Local post offices can provide information about fees for a particular ZIP Code.

5.2 Free Box Service (Group E)

Customers may qualify for a free (Group E) post office box if their physical address or business location meets all of the following criteria:

a. The physical address or business location is within the geographic delivery ZIP Code boundaries administered by a post office.

b. The physical address or business location constitutes a potential carrier delivery point of service.

c. The USPS chooses not to provide carrier delivery to the physical address or business location.

d. The customer does not receive carrier delivery via an out-of-bounds delivery receptacle.

5.3 Additional Standards for Free Box Service

Only one free (Group E) box may be obtained for each potential carrier delivery point of service. Eligibility for Group E boxes does not extend to individual tenants, contractors, employees, or other individuals receiving or eligible to receive single-point delivery such as delivery to a hotel, college, military installation, or transient trailer park. A customer must pay the applicable fee for each additional box requested beyond the initial box obtained at the Group E fee.

[Remove Exhibits 5.3a and 5.3b.]

6.0 FEE REFUND

6.1 Calculation

[Amend 6.1 to clarify fee calculations to read as follows:]

When post office box service is terminated or surrendered by the customer, the unused portion of the fee may be refunded as follows:

a. If service is discontinued any time within the first 3 months of the service period, then one-half of the fee is refunded.

b. If service is discontinued after the beginning of the fourth month of the service period, then none of the fee is refunded.

c. If service is discontinued and the customer has prepaid for the next semi-annual service period, then the entire fee for that period is refunded.

* * * * *

[Amend the heading of 7.0 by adding reference to “Locks” to read as follows:]

7.0 KEYS AND LOCKS

7.1 Key Deposit

[Amend 7.1 to clarify that customers must pay the refundable key deposit for all keys:]

Two post office box keys are initially issued to each new box customer. Box customers must pay a refundable key deposit on each of these keys. The refundable key deposit also must be paid on each additional key requested under 6.2. When box service is terminated, the key deposit is refunded to the customer for each key that is returned to the post office where the box was issued.

7.2 Key Fee

[Revise 7.2 to add a reference to the key fee to read as follows:]

A box customer may obtain additional or replacement keys by submitting Form 1094 and paying the refundable key deposit and the key fee in R900. The fee for replacement or duplicate keys is not refundable. Worn or broken keys are replaced without charge when returned to the post office where the box was provided.

* * * * *

[Add new 7.4 to explain the lock replacement fee read as follows:]

7.4 Lock Replacement

The primary box customer (box applicant) may request that the post office box lock be changed. To change the lock, the customer must first pay the applicable lock fee in R900. Lock fees are charged for replacing keyed locks and combination locks and for re-setting combination locks. Lock fees are not refundable. Customers may turn in post office keys for the old lock and get a refund of the key deposit. Two keys are provided with the new lock, with a refundable deposit for each key charged under 7.1. Customers may obtain additional keys for the new lock under 7.2.

* * * * *

D920 Caller Service

1.0 BASIC INFORMATION

* * * * *

1.4 Caller Number Service

[Remove the last two sentences of 1.4.]

[Redesignate current 1.5 through 1.9 as 1.6 through 1.10, respectively. Add new 1.5 to read as follows:]

1.5 Reserving a Caller Number

Customers may reserve a caller number for future use by paying the caller number reserve fee in R900. The postmaster determines the reserved numbers and may restrict the availability of this service.

* * * * *

3.0 CONDITIONS OF USE

[Amend 3.4 by clarifying to read as follows:]

3.4 Forwarding

Caller service may not be used when the primary purpose is to have the USPS forward or transfer mail to another address free of charge.

* * * * *

4.0 BASIS OF FEES AND PAYMENT

4.1 Caller Service Fee

[Amend 4.1 by clarifying text to read as follows:]

Customers must pay the caller service fee listed in R900. The fee must be paid for each caller number or separation used, with the following exceptions:

a. If a caller uses many caller numbers, but receives only a bulk delivery of mail not separated to those numbers either because this mail is sorted to the customer's unique 5-digit ZIP Code or because sortation is made by caller name or other identification, then the caller service fee is charged only for each separation actually made. The reserved number fee is charged for each of the caller numbers to which mail received by the caller is addressed.

b. When a post office box service applicant is provided a single caller service separation because of a shortage in available post offices boxes, then the fee charged is the fee for the largest installed post office box. In this instance, neither the caller service fee nor the reserved number fee is charged.

[Remove Exhibit 4.1, Caller Service Groups.]

4.2 Reserved Number

[Amend 4.2 to clarify that reserved number fees are not refundable to read as follows:]

The reserved call number fee in R900 is charged per calendar year or any part of such a calendar year for each number reserved by a customer. Reserved call number fees are not prorated.

4.3 Fee Changes

[Amend 4.3 by removing references to 4.1b and 4.1 to read as follows:]

A change in caller service fees (including reserved number fees) can arise from a general fee change. Any change in caller service fees takes effect on the date of the action that caused the change unless an official announcement specifies another date. If a caller service fee is increased, no customer must pay at the new rate until the end of the period already paid, and no retroactive adjustment is to be made for a payment received before the date of the change.

* * * * *

4.5 Payment

[Amend 4.5 to clarify the payment periods for caller service to read as follows:]

All fees are for a 6-month period. Fees must be paid in advance for each 6-month period. The fee may be paid for two periods at a time (i.e., up to one year in advance), but not more. The fee that must be paid is the one that is in effect on the day that the fee is paid. Fees may be paid using cash, credit or debit card, or check or money order payable to the postmaster. A mailed payment must be received by the postmaster on or before the due date.

* * * * *

[Amend the heading of 4.8 by removing “for Group D Offices” to read as follows:]

4.8 Exception

[Amend the first sentence of 4.8 by removing reference to Group D offices to read as follows:]

Postmasters at offices with fewer than 500 post office boxes may set April 1 and October 1 as the beginning of payment periods for caller service customers in their offices. * * *

* * * * *

5.0 FEE REFUND

5.1 Discontinued Number

[Amend 5.1 to clarify when refunds can be made to read as follows:]

When caller service is terminated or surrendered by the customer, the unused portion of the fee may be refunded as follows:

a. If service is discontinued any time within the first 3 months of the service period, then one-half of the fee is refunded.

b. If service is discontinued after the beginning of the fourth month of the service period, then none of the fee is refunded.

c. If service is discontinued and the customer has prepaid for the next semi-annual service period, then the entire fee for that period is refunded.

* * * * *

[Add new 5.3 to show that the reserved number fee is not refundable to read as follows:]

5.3 Reserved Number Fee

The reserved number fee is not refundable.

* * * * *

E. Eligibility

E000 Special Eligibility Standards

E010 Overseas Military Mail

1.0 BASIC STANDARDS

* * * * *

1.4 Preparation

[Amend 1.4 by changing “C600” to “C700” and by changing “Standard Mail (B)” to “Package Services” to read as follows:]

Items sent by air or surface mail are subject to the size and weight standards in C100 or C700 unless limited further by this standard. Mail must be addressed under A010. Postage at the applicable Priority Mail or Package Services rates is charged for parcels sent by air or surface transportation.

* * * * *

1.6 Restriction

[Amend the first sentence of 1.6 for added clarity and to refer to the new class and subclass names “Package Services” and “Media Mail,” respectively, to read as follows:]

Regardless of the postage payment method, the following types of mail weighing 16 ounces or more must be presented at a post office retail counter: all single-piece rate Priority Mail and all single-piece rate Package Services mail (Parcel Post, Bound Printed Matter, Media Mail, Library Mail).* * *

* * * * *

3.0 MILITARY ORDINARY MAIL (MOM)

[Amend 3.0b by changing reference to “Standard Mail (A), or Standard Mail (B)” to “Standard Mail, or Package Services mail”; no other changes to text.]

E020 Department of State Mail

1.0 AVAILABILITY

* * * * *

[Add new 1.4 to show that Express Mail is not eligible to be mailed through Department of State Mail:]

1.4 Express Mail

Express Mail may not be sent through the Department of State.

2.0 CONDITIONS FOR AUTHORIZED MAIL

* * * * *

2.3 Special Services

[Amend 2.3 by removing references to Express Mail, which has been moved to new 1.4, and by adding Signature Confirmation:]

The following special services are not available for mail transmitted through the Department of State: certified, COD, Delivery Confirmation, insured, registered, return receipt for merchandise, Signature Confirmation, and special handling. If one of those services is requested on this mail, it is returned to the sender endorsed “Service Not Available.”

* * * * *

E040 Free Matter for the Blind and Other Handicapped Persons

* * * * *

4.0 PREPARATION

4.1 Basic Standards

[Amend 4.1b by changing “C600” to “C700.”]

* * * * *

E060 Official Mail (Penalty)

* * * * *

5.0 SERVICES, CLASSES, RATES, PREPARATION, AND DETENTION

* * * * *

5.3 Basic Preparation

[Amend 5.3d to require the Parcel Post marking to read as follows:]

Penalty mail must:

* * * * *

d. For all methods of payment, be endorsed for class or rate except for single-piece rate First-Class Mail not exceeding 13 ounces.

* * * * *

7.0 PENALTY METER

* * * * *

[Amend 7.7 by changing title and references from “On-Site Setting” to “Meter Service” to read as follows:]

7.7 Meter Service

An agency wanting on-site meter service must pay the required fee in cash or with a check when the meter is set.

* * * * *

10.0 GENERAL STANDARDS FOR PENALTY REPLY MAIL

[Amend 10.1 by deleting the last phrase in the last sentence to read as follows:]

10.1 Restriction to Approved Formats

An agency may distribute penalty envelopes, cards, cartons, or labels to any person, concern, or organization. To distribute penalty reply mail, agencies must use the penalty business reply mail format; the penalty metered reply format; penalty mail adhesive stamps or penalty mail stamped stationery; or the penalty merchandise return service label.

* * * * *

11.0 PENALTY BUSINESS REPLY MAIL (BRM)

11.1 General

[Amend 11.1 to add QBRM as an option for penalty mailers and to clarify payment of the annual accounting fee to read as follows:]

An agency may participate in business reply mail service (including Qualified Business Reply Mail). Standards for business reply mail are in S922. Agencies can choose to pay postage and per piece charges for low-volume BRM with cash upon delivery or through an advance deposit account. If an agency chooses to pay through an advance deposit account, they must pay an annual accounting fee, which is billed through their OMAS account. The postage, fees, and per piece charges are the same as those for private-sector customers (R900).

* * * * *

12.0 PENALTY MERCHANDISE RETURN SERVICE

12.1 Description

[Amend 12.1 by replacing “Standard Mail (B)” with “Package Services mail” and replacing “Special Standard Mail” with “Media Mail” and adding a reference to S923 to read as follows:]

Merchandise return service allows an authorized permit holder to pay the postage and special service fees on single-piece rate First-Class Mail, Priority Mail, and Package Services (Parcel Post, Bound Printed Matter, and Media Mail) that is returned by the permit holder's customers via a special label produced by the permit holder as specified by S923.

[Redesignate current 12.2 through 12.12 as 12.4 through 12.14, respectively, add new 12.2 to show rate and fee application, and add new 12.3 to show the required accounting fee to read as follows:]

12.2 Postage and Special Service Fees

The standards for payment of postage and fees are:

a. The permit holder guarantees payment of the proper postage and special service fees on all returned merchandise return service articles distributed under the permit holder's permit number. Postage is collected for each article from an OMAS postage due account.

b. Returned parcels are charged single-piece rate postage and special service fees based on the class or subclass marking on the label. If a piece is unmarked, it is charged Parcel Post rates. If the postage for the returned piece is zoned and there is no way to determine where it was sent from (i.e., no postmark or return address), then postage is calculated at zone 4 (for Priority Mail) and zone 4 inter-BMC rates (for Parcel Post).

c. There is no per-piece charge per parcel returned.

12.3 Annual Accounting Fee

All MRS permit holders are required to pay the annual accounting fee in R900. This is assessed automatically through OMAS.

* * * * *

12.7 Label Format

[Amend redesignated 12.7 by changing exhibit numbers from “Exhibit 12.5a” to “Exhibit 12.7a” and “Exhibit 12.5b” to “Exhibit 12.7b” and to add new item c to indicate the location of the optional rate marking.]

* * * * *

c. Permit holders are encouraged, but are not required, to put the rate marking in the space to the right and above the “Merchandise Return Label” legend. The marking must be at least 3/16 inch high and be printed or rubber-stamped. Only the permit holder may apply this marking.

[Revise heading and amend content of redesignated 12.8 by clarifying to read as follows:]

12.8 Insured Mail Indicated by Permit Holder

The permit holder may obtain insured mail service with MRS. Indemnity under penalty mail merchandise return is limited to $100. Items requiring insurance greater than $100 may not be mailed under penalty merchandise return service. Only Package Services matter (i.e., matter not required to be mailed at First-Class Mail rates under E110) may be insured. Insured mail may be combined with Delivery Confirmation and special handling, or both. To request insured mail service, the permit holder must preprint or rubber-stamp “Insurance Desired by Permit Holder for $___ (value)” to the left of and above the “Merchandise Return Label” legend and below the “Total Postage and Fees Due” statement on the merchandise return label. The value part of the endorsement, showing the dollar amount of insurance for the article, may be handwritten by the permit holder. If insurance is paid for by the MRS permit holder, then only the MRS permit holder may file a claim (S010).

[Redesignate 12.9 through 12.14 as 12.10 through 12.15, respectively. Add new 12.9 to show that MRS senders may add insurance at their discretion to read as follows:]

12.9 Insured Mail Added by Sender

If the permit holder has not indicated insured mail service on the MRS label, then the sender has the option of adding insurance at their own cost. There is no limit on the indemnity coverage paid for by the sender. If insurance is paid by the sender, then only the sender may file a claim (S010).

[Amend redesignated 12.10, Registered Mail, by changing “Exhibit 12.5b” to “Exhibit 12.7b”; no other changes to text.]

[Amend redesignated 12.11, Special Handling, by changing “Exhibit 12.5a” to “Exhibit 12.7a” and by replacing “Standard Mail” with “Package Services”; no other changes to text.]

[Remove redesignated 12.12 and 12.13. Redesignate 12.14 and 12.15 as 12.12 and 12.13, respectively.]

* * * * *

15.0 CONTRACTORS

* * * * *

15.2 Preparation

[Amend 15.2a to add the term “Package Services” to read as follows:]

Preparation standards for a contractor's penalty mailings include:

a. First-Class Mail, Standard Mail, and Package Services penalty mailings must be prepared with penalty permit imprints or penalty meters. Single-piece rate mailings may also be prepared with penalty mail stamps.

* * * * *

E070 Mixed Classes

* * * * *

2.0 ATTACHMENTS OF DIFFERENT CLASSES

[Amend the heading and contents of 2.1 to change “Standard Mail (A)” to “Standard Mail” and “Standard Mail” to “Standard Mail, or Package Services” to read as follows:]

2.1 First-Class Mail or Standard Mail

Letters or other pieces of First-Class Mail or Standard Mail may be placed in an envelope and attached to the address side of a Periodicals, Standard Mail, or Package Services piece. Combination envelopes or containers with separate parts for the two classes of mail may be used.

2.2 Rate Qualification

[Amend the introductory sentence of 2.2 by adding “Package Services” to read as follows:]

If a Periodicals, Standard Mail, or Package Services host piece qualifies for:

[Amend 2.2a through 2.2d by replacing “Standard Mail (A)” with “Standard Mail”; no other changes to text.]

* * * * *

[Amend 3.2b by replacing “Standard Mail (A)” with “Standard Mail”; no other changes to text.]

* * * * *

[Amend 3.3a through 3.3d by replacing “Standard Mail (A)” with “Standard Mail”; no other changes to text.]

* * * * *

[Amend title of 4.0 by replacing “Standard Mail” with “Standard Mail and Package Services” to read as follows:]

4.0 ENCLOSURE IN STANDARD MAIL AND PACKAGE SERVICES PARCEL

[Amend 4.1 by replacing “Standard Mail” with “Standard Mail and Package Services mail”; no other changes to text.]

[Amend 4.2 by replacing “Standard Mail (A)” with “Standard Mail”; by replacing “Standard Mail (B) with “Package Services mail”; and by replacing “E600” with “E700”; no other changes to text.]

5.0 INCIDENTAL FIRST-CLASS MAIL ATTACHMENT OR ENCLOSURE

[Amend 5.0 by replacing “Standard Mail (A)” with “Standard Mail” and by replacing “Standard Mail (B)” with “Package Services mail”; no other changes to text.]

[Amend the heading of 6.0 by replacing “Special Standard Mail” with “Media Mail” to read as follows:]

6.0 COMBINED MAILING OF MEDIA MAIL AND BOUND PRINTED MATTER

[Amend 6.1 by replacing “Special Standard Mail” with “Media Mail”; no other changes to text.]

[Revise 6.2 to specify Presorted rate mail must be prepared under Bound Printed Matter standards to read as follows:]

6.2 Presorted Rates

Presorted rates may be claimed, subject to the applicable preparation standards for Bound Printed Matter (M700).

* * * * *

E100 First-Class Mail

E110 Basic Standards

* * * * *

[Amend 1.2 by replacing “Standard Mail” with “Standard Mail and Package Services mail” and by replacing “Special Standard Mail” with “Media Mail”; no other changes to text.]

* * * * *

E120 Priority Mail

* * * * *

2.0 RATES

2.4 Keys and Identification Devices

[Amend 2.4 by adding reference to the 1-pound rate to read as follows:]

Keys and identification devices (identification cards or uncovered identification tags) that weigh more than 13 ounces but not more than 2 pounds are returned at the applicable 1- or 2-pound Priority Mail rate plus the fee as shown in R100 if they bear, contain, or have securely attached the name and complete address of a person, organization, or concern, with instructions to return the piece to that address and a statement guaranteeing payment of postage due on delivery.

* * * * *

E130 Nonautomation Rates

* * * * *

2.0 SINGLE-PIECE RATE

* * * * *

2.2 Keys and Identification Devices

[Amend the first sentence of 2.2 by replacing “$0.30” with a reference to R100 to read as follows:]

Keys and identification devices (identification cards or uncovered identification tags) that weigh 13 ounces or less are mailed at the applicable single-piece letter rate plus the fee as shown in R100 and, if applicable, the nonstandard surcharge.

[Redesignate current E130.2.3 as M110.1.0. Add new 2.3 to read as follows:]

2.3 Preparation

Single-piece rate mail must be prepared under M110.

* * * * *

E140 Automation Rates

* * * * *

2.0 RATE APPLICATION

* * * * *

[Revise heading of 2.2 to read as follows:]

2.2 Flats-Package-Based Preparation

[Amend 2.2 by revising the introductory text, 2.2a, and 2.2b to read as follows:]

First-Class Mail automation rates apply to each piece that is sorted under M820.2.0 or under M910.2.0 into the corresponding qualifying groups:

a. Pieces in 5-digit packages of 10 or more pieces qualify for the 5-digit automation rate. (Preparation to qualify for that rate is optional and need not be done for all 5-digit destinations.)

b. Pieces in 3-digit packages of 10 or more pieces qualify for the 3-digit automation rate.

c. Pieces in ADC or mixed ADC packages qualify for the basic automation rate.

[Add new 2.3 to read as follows:]

2.3 Flats—Optional Tray-Based Preparation

First-Class Mail automation rates apply to each piece that is sorted under M820.3.0 into the corresponding qualifying groups:

a. Groups of 90 or more pieces in 5-digit trays qualify for the 5-digit automation rate.

b. Groups of 90 or more pieces in 3-digit trays qualify for the 3-digit automation rates.

c. Groups of fewer than 90 pieces in origin 3-digit trays qualify for the basic automation rate.

d. Groups of 90 or more pieces in ADC trays and all pieces in mixed ADC trays qualify for the basic automation rate.

* * * * *

E150 Qualified Business Reply Mail

* * * * *

2.0 AUTHORIZATION

[Amend 2.0 by removing the last sentence.]

3.0 RATES AND FEES

* * * * *

3.2 Fees

[Revise 3.2 to add the QBRM quarterly fee to read as follows:]

Mailers participating in QBRM must pay an annual permit fee, an annual accounting fee, a per piece charge for each returned piece and, at the mailer's option, a quarterly fee. See R900.4.0.

E200 Periodicals

E210 Basic Standards

E211 All Periodicals

* * * * *

6.0 ELIGIBLE FORMATS

[Amend 6.1 by replacing “First-Class Mail or Standard Mail” with “First-Class Mail, Standard Mail, or Package Services”; no other changes to text.]

* * * * *

9.0 BACK NUMBERS AND REPRINTS

[Amend 9.0 by replacing “First-Class Mail or Standard Mail” with “First-Class Mail, Standard Mail, or Package Services”; no other changes to text.]

* * * * *

13.0 FEES

13.1 Fee Required

[Amend 13.1 by revising 13.1d(3) to read as follows:]

The required fee must accompany an application for:

* * * * *

d. Reentry (unless excepted in 13.2 or 13.3) to request a:

* * * * *

(3) Change eligibility from preferred rates or the preferred rate discount to regular Outside-County rates.

* * * * *

13.2 No Fee

[Amend 13.2 for clarity to read as follows:]

No fee is charged if reentry is only to change eligibility to preferred rates or the preferred rate discount.

* * * * *

[Remove 14.0.]

E212 Qualification Categories

* * * * *

2.0 PUBLICATIONS OF INSTITUTIONS AND SOCIETIES

* * * * *

[Remove 2.4.]

* * * * *

4.0 REQUESTER PUBLICATIONS

[Amend 4.1 by replacing “Regular” with “Outside-County”; no other changes to text.]

* * * * *

6.0 NEWS AGENT REGISTRY

* * * * *

[Amend 6.4 by replacing “Regular” with “Outside-County”; no other changes to text.]

[Amend 6.5 by replacing “Standard Mail” with “Standard Mail or Package Services”; no other changes to text.]

E213 Periodicals Mailing Privileges

* * * * *

2.0 MAILING WHILE APPLICATION PENDING

[Amend 2.1 by replacing “First-Class Mail or Standard Mail” with “First-Class Mail, Standard Mail or Package Services”; no other changes to text.]

[Amend 2.2 by replacing “Standard Mail” with “Standard Mail or Package Services”; no other changes to text.]

* * * * *

E214 Reentry

* * * * *

3.0 APPLICATION FOR REENTRY

* * * * *

[Amend 3.9a and 3.9c by replacing “Standard Mail” with “Standard Mail or Package Services”; no other changes to text.]

[Amend 3.10 by replacing “Standard Mail” with “Standard Mail or Package Services”; no other changes to text.]

* * * * *

E215 Copies Not Paid or Requested by Addressee

* * * * *

2.0 NONSUBSCRIBER AND NONREQUESTER COPIES

[Amend 2.1 and 2.2 by replacing “Regular” with “Outside-County”; no other changes to text.]

[Amend heading of 2.3 by adding “and the Preferred Rate Discount” to read as follows:]

2.3 Preferred Rates and the Preferred Rate Discount

[Amend 2.3 by adding references to Preferred rate discount and clarifying qualification categories to read as follows:]

For Nonprofit, Classroom, In-County and Science-of-Agriculture publications, nonsubscriber copies, up to 10% of the total number of copies mailed to subscribers during the calendar year, may be mailed at the applicable Preferred rates or Preferred rate discount, provided the nonsubscriber copies would qualify as Preferred rate or Preferred rate discount publications if mailed to subscribers and if the copies are presorted under applicable standards. Nonsubscriber copies mailed over the 10% limit are not eligible for Preferred rates or the Preferred rate discount. To qualify for Outside-County rates, the nonsubscriber copies over the 10% allowance must be part of a presorted commingled mailing (one that includes subscriber copies). Subject to E220.4.0, nonsubscriber copies may be mailed at In-County rates up to a 10% limit of the total number of subscriber copies of the publication mailed at In-County rates during the calendar year. Once the 10% calendar year limit is exceeded on the number of nonsubscriber copies that may be mailed at Preferred rates or the Preferred rate discount, nonsubscriber copies may not then be mailed at In-County rates even if the 10% limit separately applied to those rates (under E220.4.0) is not exceeded.

[Redesignate 2.4 through 2.7 as 2.5 through 2.8, respectively; add new section 2.4 to read as follows:]

2.4 Publications of Institutions and Societies

For publications of institutions and societies that are not authorized to contain general advertising under E212.2.3, all circulated copies are considered subscriber copies and the total number of such copies is the total paid circulation.

[Amend redesignated 2.5 and 2.6 by replacing “Regular” with “Outside-County”; no other changes to text.]

[Amend the heading of redesignated 2.7 by adding “noncommingled” to read as follows:]

2.7 Excess Noncommingled Mailing

[Amend redesignated 2.7 by replacing the second sentence and deleting the third sentence to read as follows:]

A mailing is not eligible for Periodicals rates if it consists entirely of nonsubscriber or nonrequester copies over the 10% limit of the total number of copies mailed to subscribers or requesters during the calendar year. These copies are subject to the appropriate Express Mail, First-Class Mail, Standard Mail, or Package Services rate.

[Amend redesignated 2.8 by replacing “Express Mail, First-Class Mail, or Standard Mail” with “Express Mail, First-Class Mail, Standard Mail, or Package Services”; no other changes to text.]

* * * * *

[Add new DMM section E220.]

E220 Basic Rate Eligibility

1.0 OUTSIDE-COUNTY RATES

1.1 Basic Eligibility

Outside-County rates apply to all copies of an authorized Periodicals publication mailed by a publisher or news agent that are not eligible for In-County rates, except nonrequester and nonsubscriber copies under E215 for excess noncommingled mailings, unless the publication is authorized under E212.2.0 and is not authorized to contain general advertising. Nonrequester and nonsubscriber copies in excess of the 10% allowance under E215 are subject to Outside-County rates when commingled with requester or subscriber copies as appropriate. Publications authorized for Science-of-Agriculture rates under 3.0 are subject to separate Delivery Unit, SCF, and Outside-County Zones 1 & 2 rates. Nonprofit and Classroom publications are subject to the Preferred rate discount under 2.0. Outside-County rates consist of a per-piece charge, a zoned charge for the weight of the advertising portion of the publication, and a charge for the weight of the nonadvertising portion. Each piece rate requires specific preparation.

2.0 OUTSIDE-COUNTY PREFERRED RATE DISCOUNT

Periodicals publications qualifying as Nonprofit or Classroom Periodicals under E270 receive a 5% discount off the total Outside-County postage, excluding the postage for advertising pounds. Requester publications are not eligible for the Preferred rate discount. Nonsubscriber copies claiming the Preferred rate discount are subject to the standards in E215.

3.0 OUTSIDE-COUNTY SCIENCE-OF-AGRICULTURE RATES

3.1 Authorization

To be mailed at the Science-of-Agriculture Periodicals rates, a publication must be granted Periodicals entry in other than the requester category and granted a Science-of-Agriculture rate authorization.

3.2 Eligibility

Science-of-Agriculture rates apply to Outside-County copies of authorized Periodicals publications mailed by publishers or news agents when the total copies provided during any 12-month period to subscribers residing in rural areas are at least 70% of the total number of copies distributed by any means for any purpose.

3.3 Other Rates

All Outside-County rates and discounts apply except for separate rates for Delivery Unit, DSCF, and zones 1 & 2. Each piece must meet the standards for rates or discounts claimed. Nonsubscriber copies are subject to E215. Subject to E250, the DDU or DSCF piece rate applies to each piece claimed in the pound rate portion at the corresponding rate.

3.4 Nonadvertising Discount

The nonadvertising discount applies to Outside-County piece rate postage.

3.5 Application Procedures

The Science-of-Agriculture rate is available only after USPS authorization. An application or written request for Science-of-Agriculture rates must be filed at the publication's original entry post office. Application may be made by submitting a written request when applying for Periodicals mailing privileges (on Form 3501), by completing the relevant part of an application for Periodicals mailing privileges (on Form 3502), or by filing for reentry (on Form 3510) after Periodicals mailing privileges are authorized. The applicant must submit evidence to show eligibility under the corresponding standards in E220.

4.0 IN-COUNTY RATES

4.1 Subscriber Copies

In-County rates apply to subscriber copies of any issue of a Periodicals publication (except a requester publication) when they are entered within the county in which the post office of original entry is located for delivery to addresses within that county, if one of the following is met:

a. The total paid circulation of such issue is less than 10,000 copies.

b. The number of paid copies of such issue distributed within the county of publication is more than 50% of the total paid circulation of such issue.

4.2 Exceptional Conditions

The standard in 4.1 also is applied under these exceptional conditions:

a. If an entry office postmaster directs the publisher to deposit copies of the publication at a postal facility serving that office, those copies are considered as mailed at the entry office for purposes of In-County rates.

b. A copy addressed to a destination within the county of publication is eligible for In-County rates when the entry post office serving that address is outside the county.

c. Each Periodicals publication (except a requester publication or commingled nonsubscriber copies above the 10% allowance) having original entry at an incorporated city situated entirely within a county or contiguous to one or more counties in the same state, but politically independent of such county or counties, is considered within a part of the county with which it is principally contiguous. Copies mailed into that county are charged postage at the In-County rates. Where more than one county is involved, the publisher selects the principal county and notifies the postmaster.

4.3 Nonsubscriber Copies

During a calendar year, the total number of nonsubscriber copies mailed at In-County rates may not exceed 10% of the number of subscriber copies mailed at In-County rates. The number of nonsubscriber copies mailed at In-County rates must be included in the determination of the overall 10% allowance under E215. Effectively, the allowance for nonsubscriber copies mailable at the In-County rates is the 10% allowed under this standard or the overall 10% limit under E215, whichever occurs first.

4.4 Other Rates

Each piece also must meet the standards for the rates and discounts claimed. Subject to E250, the Delivery Unit piece rate applies to each piece claimed in the pound rate portion at the Delivery Unit rate.

5.0 DISCOUNTS

Postage for Periodicals is reduced by all applicable discounts. The nonadvertising discount applies to the Outside-County piece rate charges and is computed under P013. Presort and automation discounts are available under E230 and E240, respectively. Destination entry discounts are available under E250 for copies entered at specific USPS facilities.

6.0 COPIES MAILED BY PUBLIC

The applicable single-piece First-Class Mail, Priority Mail, or Package Services rate is charged on copies of publications mailed by the general public (i.e., other than publishers or registered news agents) and on copies returned to publishers or news agents.

* * * * *

E250 Destination Entry

* * * * *

2.0 DDU RATE

* * * * *

[Amend 2.4 by replacing “Standard Mail” with “Standard Mail or Package Services”; no other changes to text.]

* * * * *

E270 Preferred Periodicals

[Remove 1.0 and 6.0 and redesignate 2.0, 3.0, 4.0, 5.0, 7.0, 8.0, and 9.0 as 1.0 through 7.0, respectively.]

[Amend the heading in redesignated 1.0 by replacing the word “RATES” with the word “ELIGIBILITY” to read as follows:]

1.0 NONPROFIT ELIGIBILITY—BASIC INFORMATION

1.1 Authorization

[Amend redesignated 1.1 by removing the word “rates” and replacing the reference “3.0 or 4.0” with “2.0 or 3.0” to read as follows:]

To be mailed as a Nonprofit Periodical, a publication must be granted Periodicals entry in other than the requester category and a Nonprofit authorization for which eligibility was established under 2.0 or 3.0.

* * * * *

[Amend redesignated 1.3 by removing the word “regular” in the last sentence.]

[Remove all of 1.4.]

* * * * *

[Amend the heading in redesignated 2.0 by replacing the word “RATES” with the word “ELIGIBILITY” to read as follows:]

2.0 NONPROFIT ELIGIBILITY—QUALIFIED ORGANIZATIONS

2.1 Types of Organizations

[Replace the reference “3.3 through 3.10” with “2.3 through 2.10.”]

2.2 Primary Purpose

[Replace the reference “3.3 through 3.10” with “2.3 through 2.10.”]

* * * * *

[Amend the heading in redesignated 3.0 by replacing the word “RATES” with the word “ELIGIBILITY” to read as follows:]

3.0 NONPROFIT ELIGIBILITY—OTHER QUALIFIED ORGANIZATIONS 3.1

Basic Eligibility

3.1 Basic Eligibility

[Replace the reference “4.2” with “3.2.”]

3.2 Eligibility Limitation

[Replace the reference “4.1c or 4.1d” with “3.1c or 3.1d.”]

[Amend the heading in redesignated 4.0 by replacing the word “RATES” with the word “ELIGIBILITY” to read as follows:]

4.0 CLASSROOM ELIGIBILITY

* * * * *

[Amend redesignated 4.4 by removing the word “regular” in the last sentence.]

[Remove 4.5.]

* * * * *

5.0 APPLICATION

[In redesignated 5.0, remove 5.1 and redesignate 5.2 and 5.3 as 5.1 and 5.2.]

5.1 Procedures

[Amend redesignated 5.1 by adding a new first sentence and revising the second sentence (former first sentence) to read as follows:]

The Preferred rate discount is available only after USPS authorization. An application or written request for authorization as a Nonprofit or Classroom publication must be filed at the publication's original entry post office. Application may be made by submitting a written request when applying for Periodicals mailing privileges (on Form 3501), by completing the relevant part of an application for Periodicals mailing privileges (on Form 3502), or by filing for reentry (on Form 3510) after Periodicals mailing privileges are authorized.* * *

* * * * *

6.0 MAILING WHILE APPLICATION PENDING

[Amend redesignated 6.1 by adding reference to preferred rate and replacing “Regular Periodicals” with “Outside-County” and “Standard Mail” with “Standard Mail, or Package Services” to read as follows:]

6.1 Mailing Before Approval

A publisher or news agent may not mail at a Periodicals Preferred rate or Preferred rate discount before the RCSC manager approves the application for such privilege. Until approval is given, postage must be paid at the Outside-County rates (if the publication is authorized), or at the applicable First-Class Mail, Standard Mail, or Package Services rates (if the publication or news agent is in a pending status for Periodicals mailing privileges).

[Amend redesignated 6.2 by replacing “Standard Mail” with “Standard Mail or Package Services”; and replacing “regular” with “Outside-County”; no other changes to text.]

7.0 DECISION ON APPLICATION

* * * * *

[Amend redesignated 7.4 (formerly 9.4) by replacing “Standard Mail” with “Standard Mail or Package Services”; replacing “Regular” with “Outside-County”; and the reference “9.5” with “7.5”; no other changes to text.]

7.5 No Refund

[Amend 7.5c (formerly 9.5c) by removing the word “Regular”; no other changes to text.]

* * * * *

E600 Standard Mail

E610 Basic Standards

[Matter pertaining only to Standard Mail (formerly Standard Mail (A)) in current E611 and E612 has been consolidated and reorganized into new E610. Unless otherwise indicated by the amend/revise instructions below, there are no changes to the content of these sections]

[Remove the heading “E611, All Standard Mail.”]

1.0 BASIC INFORMATION

[Redesignate E611.1.1 as E610.1.1, amend the heading and contents to show that Standard Mail no longer includes matter previously referred to as Standard Mail (B) or fourth-class mail, and add the weight limit from former E612.1.0 to read as follows:]

1.1 Definition and Weight

Standard Mail consists of mailable matter that is neither mailed or required to be mailed as First-Class Mail nor entered as Periodicals (unless permitted or required by standard) and that weighs less than 16 ounces. Standard Mail includes matter formerly classified as Standard Mail (A) and third-class mail.

[Redesignate E611.1.2 as E610.1.2, no other changes to text:]

* * * * *

[Redesignate E612.2.0 as E610.2.0; amend redesignated 2.1 and 2.2 by changing “Standard Mail (A)” to “Standard Mail”; no other changes to text.]

[Redesignate E611.1.3 as E610.3.0, amend redesignated 3.0j by replacing “Standard Mail (A)” with “Standard Mail”; no other changes to text.]

[Redesignate the heading of E612.3.0 as E610.4.0 to read as follows:]

4.0 ENCLOSURES AND ATTACHMENTS

[Redesignate E611.1.4 as E610.4.1; no other changes in text.]

[Redesignate E611.1.5 as E610.4.2, replace “Standard Mail (A)” with “Standard Mail,” and “Standard Mail (B) with “Package Services mail”; no other changes to text.]

[Redesignate E612.3.1 as E610.4.3 and amend by changing “Standard Mail (A)” to “Standard Mail”; no other changes to text.]

[Redesignate E612.3.2 as E610.4.4 and amend by changing “Standard Mail (A)” to “Standard Mail”; no other changes to text.]

[Redesignate E612.3.3 as E610.4.5 and amend to change “Standard Mail (A)” to “Standard Mail”; no other changes to text.

[Redesignate E612.4.0 as E610.5.0 to read as follows:]

5.0 RATES

[Redesignate E612.4.1 through 4.3 as E610.5.1 through 5.3, amend for clarity, amend to incorporate new maximum limits for minimum per-piece rates, and revise references to DMM section numbers, to read as follows:]

5.1 General Information

All Standard Mail rates are presorted rates (including all nonprofit rates). These rates apply to mailings meeting the basic standards in E610 and the corresponding standards for Presorted, Enhanced Carrier Route, or automation, under E620, E630, or E640. Destination entry discounted rates are available under E650, and barcoded discounts are available for machinable parcels in E620, as appropriate for the rate claimed. A residual shape surcharge is also charged for pieces that are prepared as a parcel or that are not letter-size or flat-size. Nonprofit rates may be used only by organizations authorized by the USPS under E670. Not all processing categories qualify for every rate. Pieces are subject to either a single minimum per-piece rate or a combined piece/pound rate depending on the weight of the individual pieces in the mailing under 5.2 or 5.3.

5.2 Minimum Per-Piece Rates

The minimum per-piece rates (i.e., the minimum postage that must be paid for each piece) apply as follows.

a. Basic Requirement. Except for pieces eligible for and mailed at automation letter rates, pieces mailed at Regular, Enhanced Carrier Route, Nonprofit, and Nonprofit Enhanced Carrier Route rates are subject to minimum per-piece rates when they weigh no more than 3.3 ounces (.2063 pound). Pieces eligible for and mailed at Regular, Enhanced Carrier Route, Nonprofit, and Nonprofit Enhanced Carrier Route automation letter rates are subject to minimum per-piece rates when they weigh no more than 3.5 ounces (.2188 pound).

b. Letters and Nonletters. In applying the minimum per-piece rates, mail is categorized as either letters or nonletters, based on whether the mail meets the letter-size standard in C050, without regard to placement of the address on the mailpiece. There are two exceptions to this rule: (1) mailers that have pieces that meet both the definition of a letter in C050 and the definition of an automation flat in C820, may choose to prepare and enter mail at an automation flat (nonletter) rate; (2) address placement is used to determine the length when applying the size standards and aspect ratio requirements to qualify for automation letter rates under C810. For this purpose, the length is considered to be the dimension parallel to the address.

c. Individual Rates. There are separate minimum per-piece rates for each subclass (Regular, Enhanced Carrier Route, Nonprofit, and Nonprofit Enhanced Carrier Route) and within each subclass for the type of mailing and the level of presort within each mailing under E620, E630, and E640. Discounted per-piece rates also may be claimed for destination entry mailings (destination bulk mail center (DBMC), destination sectional center facility (DSCF), and destination delivery unit (DDU)) under E650. DDU rates are available only for mail entered at Enhanced Carrier Route or Nonprofit Enhanced Carrier Route rates. See R600 for individual per-piece rates.

5.3 Piece/Pound Rates

Except for pieces eligible for and mailed at automation letter rates, pieces that exceed 3.3 ounces (.2063 pound) are subject to a two-part piece/pound rate that includes a fixed charge per piece and a variable pound charge based on weight. There are separate per-piece rates for each subclass (Regular, Enhanced Carrier Route, Nonprofit, and Nonprofit Enhanced Carrier Route) and within each subclass for the type of mailing and the level of presort within each mailing under E620, E630, and E640. There are separate per-pound rates for each subclass (Regular, Enhanced Carrier Route, Nonprofit, and Nonprofit Enhanced Carrier Route) under E620, E630, and E640. Discounted per-pound rates also may be claimed for destination entry mailings (destination bulk mail center (DBMC), destination sectional center facility (DSCF), and destination delivery unit (DDU)) under E650.

[Add new 5.4 and 5.5 to read as follows:]

5.4 Machinable Parcel Barcoded Discount

Machinable parcels (C050) mailed at Regular or Nonprofit rates that are prepared with barcodes under C850 and meet the eligibility requirements in E620 may qualify for a barcoded discount. Pieces eligible for a barcoded discount are also subject to a residual shape surcharge under 5.5. Pieces mailed at Enhanced Carrier Route or Nonprofit Enhanced Carrier route rates are not eligible for a barcoded discount.

5.5 Residual Shape Surcharge

Mail that is prepared as a parcel or is not letter-size or flat-size as defined in C050 is subject to a residual shape surcharge. There is one surcharge for mail entered at Regular or Nonprofit rates and a different surcharge for mail entered at Enhanced Carrier Route or Nonprofit Enhanced Carrier Route rates.

[Redesignate E612.4.4 as 5.6 and amend to provide for the residual shape surcharge to read as follows:]

5.6 Net Postage

The net postage rate that must be paid is either the applicable minimum per-piece rate or the piece/pound rate, as reduced by any discounts for which the piece is eligible, and/or as increased by any surcharge to which the piece is subject. The net postage rate is commonly designated by the name of the primary rate category or discount (e.g., Enhanced Carrier Route rate, automation letter rate, automation flat rate, Presorted rate).

[Redesignate E612.4.5 as 5.7 and amend to remove the reference to 4.6, to delete “bulk,” and to change “pound rates” to “piece/pound rate,” to read as follows:]

5.7 Minimum Rate

Postage is computed at the applicable rates on the entire mailing to be mailed at one time. The total postage paid on any mailing may not be lower than the amount determined by multiplying the proper minimum per-piece rate (less applicable discounts) by the total number of pieces. If the total postage computed at piece/pound rates, after any adjustment for presort level, is less than the minimum per-piece postage charge, then postage must be computed at the minimum per-piece rate.

[Remove E612.4.6. This section is no longer needed because all Package Services mail may now weigh less than 16 ounces.]

[Add new heading 6.0 to read as follows:]

6.0 FEES

[Redesignate E612.4.7 as E610.6.1 and amend to change “Standard Mail (A)” to “Standard Mail”; no other changes in text.]

[Redesignate E611.1.6 as 6.2; and amend by adding “(R900)” at the end of the sentence; no other changes in text.]

[Remove current E611.1.7 and 1.8.]

[Redesignate E612.4.8 as E610.7.0 and amend to change “Standard Mail (A)” to “Standard Mail”; no other changes to text.]

[Redesignate E612.4.9 as E610.8.0, amend to change “Standard Mail (A)” to “Standard Mail,” amend redesignated 8.0c for clarity, amend redesignated 8.0e to provide for use of detached address labels as previously provided in E611.1.7, amend redesignated 8.0g to incorporate former E611.1.8, redesignate 8.0j as 8.0k, and add new 8.0j to read as follows:]

8.0 PREPARATION

Each Standard Mail mailing is subject to these general standards:

a. All pieces in a mailing must be of the same processing category, except that irregular and machinable parcels may be commingled in 5-digit sacks or on 5-digit pallets.

b. Each mailing must contain at least 200 pieces or 50 pounds of pieces. See E620 for volume requirement eligibility unique to Presorted Standard rate mailings. Other volume standards also can apply, based on the rate claimed.

c. For letter-size and flat-size mail, all pieces in an automation mailing must be eligible for an automation rate. Separate automation and Presorted rate mailings of flats may be co-sacked under M910. Separate automation, Presorted, and Enhanced Carrier Route mailings of flats may be co-containerized under M920, M930 or M940.

d. All pieces in a mailing must be sorted together and marked under the standards for the rate claimed.

e. Each piece must bear the addressee's name and delivery address, including the correct ZIP Code or Zip+4 code, unless an alternative address format is used subject to A040. Detached address labels may be used subject to A060. Pieces in automation rate mailings, upgradable nonautomation rate pieces, or pieces prepared with detached address labels are subject to additional standards.

f. Postage must be paid under P600 with precanceled stamps, postage meter, or permit imprint.

g. A postage statement, completed and signed by the mailer, using the correct USPS form or an approved facsimile, must be submitted with each mailing. In addition mailings must be documented under P012 and the standards for the rate claimed.

h. Each piece must meet the standards for any other rate or discount claimed.

i. Any POSTNET barcode on a mailpiece must be correct for the delivery address and must meet the standards in C840 and A950.

j. Any postal routing code barcode on a machinable parcel must be correct for the delivery address and must meet the standards in C850.

k. Mailings must be deposited at a business mail entry unit of the post office where the postage permit or license is held and the annual bulk fee paid, unless deposit elsewhere is permitted by standard.

[Redesignate E612.4.10 as E610.9.0 and revise to permit use of certain special services for matter subject to the residual shape surcharge and to specify the conditions for such use to read as follows:]

9.0 SPECIAL SERVICES

9.1 Eligible Matter

Standard Mail that is subject to the residual shape surcharge (pieces prepared as parcels or that are not letter-size or flat-size as defined in C050) may receive the following additional special services subject to the standards for the special service and upon payment of the appropriate special service fees: bulk insurance (S913), return receipt for merchandise (S917), and electronic option Delivery Confirmation (S918). No other special services may be used with Standard Mail. Standard Mail that is letter-size or flat-size (C050) and is prepared as letter-size or flat-size mail is not eligible for any special services. Machinable parcels using Bulk Parcel Return service are not eligible for any special services. Matter mailed using detached address labels under A060 is not eligible for any special services.

9.2 Additional Preparation Requirements

Mailpieces prepared using special services must bear a return address under A010 and must bear an ancillary service endorsement (F010) that results in return of the mailpiece to the sender if undeliverable as addressed (Address Service Requested, Forwarding Service Requested, or Return Service Requested).

[Revise the heading of E620 to read as follows:]

E620 Presorted Rates

[Revise the heading of 1.0 to read as follows:]

1.0 BASIC STANDARDS

[Revise the heading of 1.1 to read as follows:]

1.1 General

[Amend 1.1 by replacing in the first sentence of 1.1 and in 1.1b “Standard Mail (A)” with “Standard Mail,” and by replacing in 1.1a “E611 and E612” with “E610”; no other changes to text.]

* * * * *

[Amend 1.3 by replacing “Standard Mail (A)” with “Standard Mail”; no other changes in text.]

* * * * *

[Redesignate 1.5 as 2.0 and amend the heading by removing the word “Presorted”; no other changes to text.]

[Redesignate 1.6 as 3.0; no other changes to text.]

[Add 4.0 to read as follows:]

4.0 BARCODED DISCOUNT

The barcoded discount applies to machinable parcels (C050) that are subject to the residual shape surcharge in 3.0 when the parcels bear a correct, readable barcode under C850 for the ZIP Code shown in the delivery address; are prepared as machinable parcels under M045 or M610; are, if entered at the DSCF rates, not prepared in ASF, BMC, or mixed BMC sacks or pallets; and, if claiming the DBMC rates, are not entered at an ASF. An exception is that properly prepared machinable pieces of DBMC rate mail entered at the Phoenix, AZ, ASF may claim the barcoded discount because that facility uses barcode scanning equipment. See P600 for postage payment standards.

[Redesignate current E630.1.0 through E630.7.0 as E711 through E715, as directed later in this document.]

[Add new E630 to read as follows:]

E630 Enhanced Carrier Route Rates

1.0 BASIC STANDARDS

[Redesignate E620.2.1 as E630.1.1 and amend 1.1a by changing “E611 and E612” to “E610”; no other changes in text.]

[Redesignate E610.2.2 through 2.7 as E630.1.2 through 1.7, respectively.]

[Add new heading 2.0 to read as follows:]

2.0 RATES

[Redesignate E620.2.8 through E620.2.10 as E630.2.1 through E630.2.3, respectively and amend redesignated 2.3 by changing “2.6 and 2.7” to “1.6 and 1.7”; no other changes to text.]

* * * * *

[Amend the heading of E640 by removing “Standard Mail (A)” to read as follows:]

E640 Automation Rates

1.0 REGULAR AND NONPROFIT RATES

1.1 All Pieces

[Amend the introductory sentence by replacing “Standard Mail (A)” with “Standard Mail”; amend 1.1a by replacing “E611 and E612” with “E610,” no other changes to text.]

* * * * *

2.0 ENHANCED CARRIER ROUTE RATES

2.1 All Pieces

[Amend 2.1a by replacing “E611 and E612” with “E610,” no other changes to text.]

* * * * *

E650 Destination Entry

[Remove the heading “E651 Regular, Nonprofit, and Enhanced Carrier Route Standard Mail.']

1.0 BASIC STANDARDS

[Amend 1.1 by replacing “E611 and E612” with “E610”; no other changes to text.]

* * * * *

[Amend 1.4 by replacing “Standard Mail (A)” with “Standard Mail.”]

[Amend 1.5 by replacing “P750” with “P950.”]

* * * * *

2.0 VERIFICATION

* * * * *

[Amend 2.2 by replacing “P750” with “P950.”]

* * * * *

3.0 DEPOSIT

* * * * *

[Amend 3.3d by changing “Standard Mail (A)” to “Standard Mail” and by changing “Standard Mail (B)” to “Package Services mail.”]

* * * * *

[Amend 3.10 by changing “Standard Mail (A)” to “Standard Mail.”]

* * * * *

7.0 DDU DISCOUNT

[Amend 7.1 by changing “Standard Mail (A)” to “Standard Mail.”]

* * * * *

[Redesignate E652 as E751. Amend E751 as specified later in this document.]

E670 Nonprofit Standard Mail

1.0 BASIC STANDARDS

* * * * *

[Amend 1.2 by replacing “P750” with “P950.”]

[Amend 1.3 by replacing “E611 and E612” with “E610.”]

* * * * *

3.0 QUALIFIED POLITICAL COMMITTEES AND STATE OR LOCAL VOTING REGISTRATION OFFICIALS

* * * * *

[Amend 3.3 by replacing “Standard Mail (A)” with “Standard Mail.”]

* * * * *

5.0 ELIGIBLE AND INELIGIBLE MATTER

* * * * *

[Amend 5.4d(2) by replacing “Standard Mail (A)” with “Standard Mail.”]

* * * * *

[Amend 5.6a by replacing “Standard Mail (A)” with “Standard Mail.”]

* * * * *

[Amend 5.12 by replacing “Standard Mail (A)” with “Standard Mail.”]

* * * * *

9.0 MAILING WHILE APPLICATION PENDING

* * * * *

[Amend 9.2 by replacing “Standard Mail (A)” with “Standard Mail.”]

* * * * *

[Add new E700 as follows:]

E700 Package Services Mail

[Matter pertaining to only Package Services (formerly Standard Mail (B)) in current E611 and E613 has been consolidated, reorganized, and added as new E710. Unless otherwise indicated by the amend/revise instructions below, there are no changes to the content of these sections. They are reproduced here to assist in understanding the new organization.]

E710 Basic Standards

1.0 BASIC INFORMATION

[Redesignate E611.1.1 as E710.1.1 and amend by replacing “Standard Mail” with “Package Services mail” and including Package Services subclasses to read as follows:]

1.1 Definition

Package Services mail consists of mailable matter that is neither mailed or required to be mailed as First-Class Mail nor entered as Periodicals (unless permitted or required by standard). Package Services mail includes matter formerly classified as Standard Mail (B). There are four subclasses of Package Services mail: Parcel Post, Bound Printed Matter, Media Mail (formerly Special Standard), and Library Mail. Information on specific eligibility requirements to qualify for rates under each of the four subclasses is found in E711, E712, E713, E714, and E715.

[Redesignate E613.1.0 as E710.1.2 and amend by eliminating the minimum weight of 1 pound and replacing “Special Standard Mail” with “Media Mail” to read as follows:]

1.2 Weight

There is no minimum weight for Package Services. A single piece of Parcel Post, Media Mail, and Library Mail can weigh no more than 70 pounds. A single piece of Bound Printed Matter can weigh no more than 15 pounds.

[Redesignate existing E611.1.2 as E710.1.3 and amend by changing the class name from “Standard Mail” to “Package Services” to read as follows:]

1.3 Postal Inspection

Package Services mail is not sealed against postal inspection except that electronic documents retained by the Postal Service are sealed against postal inspection. Regardless of physical closure, the mailing of articles at Package Services rates constitutes consent by the mailer to postal inspection of the contents.

[Redesignate existing E611.1.3 as E710.1.4 and amend by changing “Standard Mail (A) to “Standard Mail” in 1.4j; no other changes.]

[Redesignate existing E611.1.4 as E710.1.5 and amend by replacing “Standard Mail” with “Package Services”; no other changes.]

[Redesignate existing E611.1.5 as E710.1.6 and remove references to “Standard Mail (A)” and “Standard Mail” to read as follows:]

1.6 Incidental First-Class Attachments and Enclosures

Incidental First-Class matter may be enclosed in or attached to any Package Services piece without payment of First-Class postage. An incidental First-Class attachment or enclosure must be matter that, if mailed separately, would require First-Class postage, is closely associated with but secondary to the host piece, and is prepared so as not to interfere with postal processing. An incidental First-Class attachment or enclosure may be a bill for the product or publication, a statement of account for past products or publications, or a personal message or greeting included with a product, publication, or parcel. Postage at the Package Services rate for the host piece is based on the combined weight of the host piece and the incidental First-Class attachment or enclosure.

[Redesignate E613.2.0 as E710.2.0.]

2.0 ZONED RATES

[Redesignate existing E613.2.1 as E710.2.1 and amend by replacing “Standard Mail” with “Package Services”; no other changes.]

[Redesignate existing E613.2.2 as E710.2.2, amend by changing “Standard Mail” to “Package Services” in the first sentence, and amend 2.2c by inserting “Parcel Post Intra-BMC” to read as follows:]

2.2 Redirected Mailings

A mailer who presents large mailings of zoned Package Services mail may be permitted or directed to deposit such mailings at another postal facility when processing or logistics make such an alternative desirable for the USPS, subject to these conditions:

a. Zoned postage need not be recomputed if both the original post office of mailing and the alternative facility use the same zone chart for computing zoned postage, based on the 3-digit prefix of their ZIP Codes.

b. Postage must be recomputed on pieces in mailings redirected to a postal facility that uses a different zone chart for computing zoned postage.

c. Postage for pieces claimed at the Parcel Post Intra-BMC local zone rates must be recomputed at the applicable zone rate for the alternative postal facility. Postage also may be recomputed for other pieces that are ineligible for the Parcel Post Intra-BMC local zone rates but could become eligible at the postal facility to which the mailing is redirected.

[Redesignate existing E613.2.3 as E710.2.3 and amend by changing “Standard Mail” to “Package Services”; no other changes.]

[Redesignate E613.3.0 as E710.3.0 and revise to read as follows:]

3.0 ADDRESSING

3.1 Delivery and Return Address

All Package Services mail must bear a delivery address. Except for single-piece rate Parcel Post, the delivery address on each piece must include the correct ZIP Code or ZIP+4 code. Alternative address formats or detached address labels may be used, subject to A040 or A060. All Package Services mail must bear the sender's return address.

[Redesignate E611.1.6 as E710.3.2 and amend title by adding “Fees” to read as follows:]

3.2 Address Correction Fees

The fee for manual or automated address correction service is charged per notice issued (R700).

[Redesignate E611.1.8 as E710.4.0 and amend for clarity to read as follows:]

4.0 DOCUMENTATION

Each mailing must be accompanied by a correct, completed USPS postage statement form, or approved facsimile, signed by the mailer. A postage statement is not required for a Package Services mailing when the correct postage at the single-piece rate is affixed to each piece. Additional supporting documentation may be required by the standards for the rate claimed or postage payment method used.

E700 Package Services Mail

E710 Basic Standards

[Add new E711 to read as follows:]

E711 Parcel Post

[Redesignate E630.1.0 as E711.1.0 and revise to read as follows:]

1.0 DEFINITION

Parcel Post is Package Services mail that is not mailed as Bound Printed Matter, Media Mail, or Library Mail. Any Package Services matter may be mailed at Parcel Post rates, subject to the basic standards in E710.

[Add new E711.2.0 to read as follows:]

2.0 BASIC STANDARDS

[Redesignate E630.1.2 as E711.2.1 and change “Standard Mail (A)” to “Standard Mail” and change reference “E611” to “E710” to read as follows:]

2.1 Enclosures

Parcel Post may contain any printed matter mailable as Standard Mail, in addition to the enclosures and additions listed in E710.

[Redesignate E630.1.3 as E711.2.2 and amend to add the Intra-BMC and Parcel Select-DBMC nonmachinable surcharges to read as follows:]

2.2 Rate Eligibility

There are five Parcel Post rate categories: Intra-BMC, Inter-BMC, destination bulk mail center (DBMC), destination sectional center facility (DSCF), and destination delivery unit (DDU). Intra-BMC, Inter-BMC, and DBMC Parcel Post rates are calculated based on the zone to which the parcel is addressed and the weight of the parcel. DSCF and DDU rates are calculated based on the weight of the parcel. Generally, Intra-BMC rates apply to parcels mailed and delivered within the same BMC service area and Inter-BMC rates apply to parcels mailed in one BMC service area and delivered in a different BMC service area. Specific standards for Inter-BMC and Intra-BMC rates and applicable discounts are described below. Generally, to qualify for the Parcel Select-DBMC, -DSCF, or -DDU rates, mailers must enter their parcels at the destination BMC, SCF, or delivery unit postal facility that will process or deliver the parcels. (See E750 for destination entry requirements.) Inter-BMC, Intra-BMC, and Parcel Select-DBMC Parcel Post is subject to a nonmachinable surcharge if the criteria specified in C050.4.1 for machinable parcels are not met. Additional requirements for Parcel Post rates and discounts are as follows:

a. Intra-BMC rates apply to all Parcel Post that originates and destinates in the service area of the same BMC or ASF. Intra-BMC rates also apply to Parcel Post that originates and destinates in the same state for Alaska and Hawaii and in the same territory for Puerto Rico. See Exhibit 2.2. Intra-BMC rates for nonmachinable Parcel Post include the nonmachinable surcharge that applies to parcels that weigh more than 35 pounds or otherwise do not meet the criteria contained in C050.4.1.

b. Inter-BMC rates for machinable parcels apply to all Parcel Post mail that weighs 35 pounds or less; is machinable; originates in the service area of a BMC/ASF or in Alaska, Hawaii, or Puerto Rico and destinates outside that area; and is not eligible for destination entry rates.

c. Inter-BMC rates for nonmachinable Parcel Post include the nonmachinable surcharge and apply to all inter-BMC/ASF Parcel Post mail that weighs more than 35 pounds or otherwise is nonmachinable as defined in C050; originates in the service area of a BMC/ASF or in Alaska, Hawaii, or Puerto Rico and destinates outside that area; and is not eligible for destination entry rates.

d. Parcel Post for which OBMC Presort, BMC Presort, and barcoded discounts are claimed and Parcel Post that is mailed at a destination entry rate (Parcel Select-DBMC, -DSCF, -DDU (E750)) must be part of a mailing of 50 or more Parcel Post rate pieces. Eligibility for one of those rates or discounts does not require a separate 50 qualifying pieces per rate or per discount. Eligibility for more than one of those rates or discounts in the same Parcel Post mailing is possible, provided there are a total of at least 50 pieces of mail qualifying for any or all Parcel Post rates in the mailing and all other preparation and eligibility requirements for the rates or discounts are met.

e. The BMC Presort per piece discount applies to pieces of inter-BMC Parcel Post sorted to BMC destinations under L601 for machinable pieces and sorted to BMC and ASF destinations for nonmachinable pieces under L605. To qualify, machinable pieces must be placed in pallet boxes on pallets, and nonmachinable pieces must be placed directly on pallets under M041 and M045. The mail must be entered at a postal facility that is not a BMC and must be part of a mailing containing 50 or more Parcel Post rate pieces.

f. The origin bulk mail center (OBMC) Presort per piece discount applies to pieces of Inter-BMC Parcel Post sorted to BMC destinations under L601 for machinable pieces and sorted to BMC and ASF destinations for nonmachinable pieces under L605. To qualify, machinable pieces must be placed in pallet boxes on pallets, and nonmachinable pieces must be placed directly on pallets under M041 and M045. The mail must be entered at a BMC listed in L601 and must be part of a mailing containing 50 or more Parcel Post rate pieces.

g. The barcoded discount applies to Parcel Post machinable parcels (C050.4.1) that bear a correct, readable barcode under C850 for the ZIP Code of the delivery address; are part of a mailing of 50 or more Parcel Post rate pieces; are not mailed at the DSCF or DDU rates; and, if claiming the DBMC rates, are not entered at an ASF. An exception is that properly prepared machinable pieces of DBMC rate mail entered at the Phoenix, AZ, ASF may claim the barcoded discount because that facility uses barcode scanning equipment.

h. The oversized rate applies to pieces that measure over 108 inches but that are not more than 130 inches in combined length and girth; they are mailable at the applicable oversized Parcel Post rate.

i. The balloon rate applies to pieces that measure over 84 inches but that are not more than 108 inches in combined length and girth and also weigh less than 15 pounds; they are subject to the rate equal to that of a 15-pound parcel for the zone to which the parcel is addressed.

Exhibit 2.2 BMC/ASF Service Areas

Service area | ZIP code areas served
BMC
New Jersey | 005, 068-079, 085-098, 100-119, 124-127, 340
Springfield | 010-067, 120-123, 128, 129
Philadelphia | 080-084, 137-139, 169-199
Pittsburgh | 150-168, 260-266, 439-447
Washington | 200-212, 214-239, 244, 254, 267, 268
Greensboro | 240-243, 245-249, 270-297, 376
Cincinnati | 250-253, 255-259, 400-418, 421, 422, 425-427, 430-433, 437, 438, 448-462, 469-474
Atlanta | 298, 300-312, 317-319, 350-352, 354-368, 373, 374, 377-379, 399
Jacksonville | 299, 313-316, 320-339, 341, 342, 344, 346, 347, 349
Memphis | 369-372, 375, 380-397, 700, 701, 703-705, 707, 708, 713, 714, 716, 717, 719-729
St. Louis | 420, 423, 424, 475-479, 614-620, 622-631, 633-639
Detroit | 434-436, 465-468, 480-497
Chicago | 463, 464, 530-532, 534, 535, 537-539, 600-611, 613
Minneapolis/St. Paul | 498, 499, 540-551, 553-564, 566
Des Moines | 500-516, 520-528, 612, 680, 681, 683-689
Kansas City | 640, 641, 644-658, 660-662, 664-679, 739
Denver | 690-693, 800-816, 820, 822-831
Dallas | 706, 710-712, 718, 733, 747, 750-799, 885
Seattle | 835, 838, 970-978, 980-986, 988-994
Los Angeles | 889-891, 900-908, 910-928, 930-935
San Francisco | 894, 895, 897, 936-966
ASF
Buffalo | 130-136, 140-149
Fargo | 565, 567, 580-588
Sioux Falls | 570-577
Billings | 590-599, 821
Oklahoma City | 730, 731, 734-738, 740, 741, 743-746, 748, 749
Salt Lake City | 832-834, 836, 837, 840-847, 893, 898, 979
Phoenix | 850, 852, 853, 855-857, 859, 860, 863, 864
Albuquerque | 865, 870-875, 877-884
Other
Puerto Rico | 006-009
Hawaii | 967-969
Alaska | 995-999

[Redesignate existing E630.1.4 as E711.2.3 and amend to reflect extension of the nonmachinable surcharge to Intra-BMC and Parcel Select-DBMC mailings and the new minimum length and weight machinability requirements to read as follows:]

2.3 Nonmachinable Surcharge

The nonmachinable surcharge applies when items are mailed at the Inter-BMC, Intra-BMC, and Parcel Select-DBMC Parcel Post rates and no special handling fee is paid. (See C050.4.1 for machinability criteria.) The nonmachinable surcharge does not apply to items mailed at the oversized rates; however, it may apply to certain parcels subject to the balloon rate. The nonmachinable surcharge applies to such parcels as the following:

a. Parcels larger than 34 inches long, 17 inches wide, or 17 inches high.

b. Parcels weighing more than 35 pounds. For books, business forms, or other printed matter the maximum weight is 25 pounds.

c. Parcels less than 6 inches long, 3 inches high, and ¼ inch thick.

d. Parcels weighing less than 6 ounces.

e. Parcels containing more than 24 ounces of liquid in glass containers or 1 gallon or more of liquid in metal or plastic containers.

f. Parcels that are insecurely wrapped or metal-banded.

g. Cans, rolls, or tubes, or wooden or metal boxes.

h. Shrubs or trees.

i. Perishables, such as eggs.

j. High-density parcels weighing more than 15 pounds and exerting more than 60 pounds per-square-foot pressure on their smallest side.

k. Film cases weighing more than 5 pounds or with strap-type closures, except any film case the USPS authorizes to be entered as a machinable parcel under C050.4.0 and to be identified by the words “Machinable in United States Postal Service Equipment” permanently attached as a nontransferable decal in the lower right corner of the case.

[Redesignate E630.1.5 as E711.2.4 and change the reference in the last sentence to R700; no other changes to text.]

* * * * *

[Redesignate E630.2.0 as E712 and revise in its entirety as follows:]

E712 Bound Printed Matter

1.0 BASIC STANDARDS

1.1 Description

Bound Printed Matter (BPM) is Package Services mail. BPM must:

a. Meet the basic standards for Package Services mail in E710.

b. Weigh no more than 15 pounds.

c. Consist of advertising, promotional, directory, or editorial material (or any combination of such material).

d. Be securely bound by permanent fastenings such as staples, spiral binding, glue, or stitching. Loose-leaf binders and similar fastenings are not considered permanent.

e. Consist of sheets of which at least 90% are imprinted by any process other than handwriting or typewriting with words, letters, characters, figures, or images (or any combination of them).

f. Not have the nature of personal correspondence.

g. Not be stationery, such as pads of blank printed forms.

1.2 Enclosures

In addition to the basic standards in E710, BPM may have the following additions and enclosures:

a. Any printed matter mailable as Standard Mail.

b. A merchandise sample attached to a bound page or to a permissible loose enclosure, if the sample represents only an incidental portion of the BPM piece and if the sample is not provided exclusively or primarily as a premium or an inducement promoting the sale of the BPM piece. The sample may be identified as a “free gift” when it is clear that the sample is offered to the addressee to market the gift product; such marketing may also promote the sale of the BPM.

1.3 Nonidentical-Weight Pieces

Mailings may contain nonidentical-weight pieces only if the correct postage is affixed to each piece or if the RCSC serving the post office of mailing has authorized payment of postage by permit imprint under P910 or P930.

1.4 POSTNET Barcodes on Flats

Addresses on BPM flats (C050.3) may include an accurate ZIP+4 or delivery point barcode that meets the standards in C840. There are no automation discounts for BPM flats. Pieces within a package must be either 100 percent barcoded or nonbarcoded.

2.0 RATES

BPM rates are based on the weight of a single addressed piece or 1 pound, whichever is higher, and the zone (where applicable) to which the piece is addressed. Rate categories are as follows:

a. Single-Piece Rate. The single-piece rate applies to BPM not mailed at the Presorted rate or Carrier Route rate.

b. Presorted Rate. The Presorted rate applies to BPM prepared in a mailing of at least 300 pieces, prepared and presorted as specified in M045 and M720.

c. Carrier Route Rate. The carrier route rate applies to BPM prepared in a mailing of at least 300 pieces presorted to carrier routes, prepared and presorted as specified in M045 and M723. For flat-size pieces there must be at least 10 pieces or 10 pounds of pieces for an individual carrier route to qualify for the rate. For irregular parcels there must be at least 10 pieces or 20 pounds of pieces for an individual carrier route to qualify for the rate. Machinable parcels are eligible for the carrier route rate only when prepared in direct carrier route sacks under M723 that each contain at least 10 pieces or 20 pounds of pieces. Machinable parcels prepared on pallets under M045 are not eligible for Carrier Route Bound Printed Matter rates.

d. Barcoded Discount. The barcoded discount applies to machinable BPM parcels (C050.4.1) that bear a correct, readable barcode under C850 for the ZIP Code of the delivery address. The barcoded discount is available for a minimum of 50 pieces mailed at single piece rates. It is also available for matter mailed at Presorted rates prepared under the machinable parcel preparation standards in M045 and M720. The barcoded discount is not available for pieces mailed at any carrier route rates, at Presorted DDU, or DSCF rates, or for DBMC rate mailings entered at an ASF other than Phoenix, AZ, ASF.

3.0 ADDITIONAL STANDARDS FOR PRESORTED RATES

3.1 ZIP Code Accuracy

All 5-digit ZIP Codes included in addresses on pieces claimed at Presorted rates must be verified and corrected within 12 months before the mailing date using a USPS-approved method. The mailer must certify that this standard has been met when the corresponding mail is presented to the USPS. This standard applies to each address individually, not a specific list or mailing. An address meeting this standard may be used in mailings at any other rates to which the standard applies during the 12-month period after its most recent update.

3.2 Preparation

Pieces claiming the Presorted rates must be prepared under the applicable standards in M722.

4.0 ADDITIONAL STANDARDS FOR CARRIER ROUTE RATES

4.1 Carrier Route Information

Except for mailings prepared with a simplified address format under A040, carrier route codes must be applied to mailings using CASS-certified software and the current USPS Carrier Route Information System (CRIS) scheme, or another AIS product containing carrier route information, subject to A930 and A950. The carrier route information must be updated within 90 days before the mailing date.

4.2 Preparation

Pieces claiming the carrier route rates must be prepared under the applicable standards in M723.

4.3 Minimum Per Carrier Route

To qualify for carrier route rates, there must be at least 10 addressed pieces or 20 pounds to a single carrier route, rural route, highway contract route, post office box section, or general delivery unit. When package preparation is required, each package prepared must consist of at least two addressed pieces with the exception for the last piece to a carrier route destination (M020).

5.0 ADDITIONAL STANDARDS FOR DESTINATION ENTRY RATES

Eligibility standards for Presorted and Carrier Route Destination Delivery Unit (DDU) rates, Destination Sectional Center Facility (DSCF) rates, and Destination Bulk Mail Center (DBMC) rates are in E752. DDU rates are not available for Presorted flats.

6.0 ADDITIONAL STANDARDS FOR BEDLOADED MAILINGS

Bedloaded packages are permitted only when prepared for and entered at DDU rates. If prepared, bedloaded packages of BPM are required to be prepared under the sortation standards for flats or irregular parcels, as applicable, and are not eligible for barcoded discounts (2.0).

* * * * *

[Add new E713 as follows:]

E713 Media Mail

[Redesignate E630.3.1 as E713.1.0 and change the heading, class, subclass names, section order, and references to read as follows:]

1.0 RATE ELIGIBILITY

Media Mail is Package Services matter that meets the standards in E700 and those below. Media Mail rates are based on the weight of the piece without regard to zone. The rate categories are as follows:

a. Single-Piece Rate. The single-piece rate applies to Media Mail not mailed at a 5-digit or BMC presort rate.

b. BMC Presort Rate. The BMC rate (Level B) applies to presorted Media Mail mailings of at least 500 pieces and meeting the other requirements of 4.0 and that are prepared and presorted to destination bulk mail centers as specified in M730 or M041 and M045.

c. 5-Digit Presort Rate. The 5-digit rate (Level A) applies to presorted Media Mail mailings of at least 500 pieces that meet the other requirements of 4.0 and that are prepared and presorted to 5-digit destination ZIP Codes as specified in M730 or M041 and M045.

d. Barcoded Discount. The barcoded discount applies to Media Mail machinable parcels (C050.4.0) that are included in a mailing of at least 50 pieces of Media Mail. The pieces must be entered either at single-piece rates or BMC presort rates and bear a correct, readable barcode for the ZIP Code shown in the delivery address as required by C850. The discount does not apply to pieces mailed at Media Mail 5-digit presort rates.

[Add new E713.2.0 to read as follows:]

2.0 QUALIFICATION

[Redesignate E630.3.2 as E713.2.1 and change the subclass name to Media Mail; no other changes to text.]

[Redesignate E630.3.3 as E713.2.2, change the class name to “Standard Mail” from “Standard Mail (A)” and subclass name to Media Mail; no other changes to text.]

[Redesignate E630.3.4 as E713.2.3 and change the subclass name and cross references to read as follows:]

2.3 Enclosures in Books

Enclosures in books mailed at Media Mail rates are subject to these additional standards:

a. Either one envelope or one addressed postcard may be bound into the pages of a book. If also serving as an order form, the envelope or card may be in addition to the order form permitted by 2.3b.

b. One order form may be bound into the pages of a book. If also serving as an envelope or postcard, the order form may be in addition to the envelope or card permitted by 2.3a.

c. Announcements of books may appear as book pages. These announcements must be incidental and exclusively devoted to books, without extraneous advertising of book-related or other materials or services. Announcements may fully describe the conditions and methods of ordering books and may contain ordering instructions for use with a separate order form. Up to three of these announcements may contain as part of their format a single order form, which may also serve as a postcard. The order forms permitted with these announcements are in addition to, and not in place of, order forms that may be enclosed under 2.3a or 2.3b.

[Redesignate E630.4.0 as E713.3.0 and change the subclass name to read as follows:]

3.0 PRESORTED MEDIA MAIL

[Redesignate E630.4.1 as E713.3.1 and change the subclass name and change the cross reference to M730 from M630; no other changes to text.]

[Redesignate E630.4.2 as E713.3.2 and change the subclass name; no other changes to text.]

[Redesignate E630.4.3 as E713.3.3 and change the subclass name; no other changes to text.]

[Redesignate E630.4.4 as E713.3.4 and eliminate 1,000 cubic inches as a minimum quantity to read as follows:]

3.4 Definitions

For this standard:

a. Full sack means a sack containing at least eight pieces or a quantity of pieces weighing from 20 to 70 pounds.

b. Substantially full sack means either at least four pieces or a quantity of pieces weighing from 20 to 70 pounds.

[Redesignate E630.4.5 as E713.3.5, change the subclass name, change “bundles” to “packages, and remove “1,000 cubic inches,”” to read as follows:]

3.5 5-Digit Rate

To qualify for the Media Mail 5-digit presort rate, a piece must be in a mailing of at least 500 Media Mail pieces receiving identical service and prepared and sorted either under M730 to full 5-digit sacks or under M045 to 5-digit pallets. These conditions also apply:

a. Mailings of at least 500 nonmachinable outside parcels may qualify for the Media Mail 5-digit presort rate if prepared to preserve sortation by 5-digit ZIP Code as prescribed by the postmaster of the mailing office. The postmaster may require a 24-hour notice before the mailing is presented.

b. Mailings prepared as palletized packages must consist of 5-digit packages, each containing at least eight pieces or weighing 20 pounds, whichever occurs first. No package may exceed 40 pounds. If there are more than 20 pounds of mail to a 5-digit destination, the mailer must prepare the minimum number of packages that weigh from 20 to 40 pounds each.

[Redesignate E630.4.6 as E713.3.6, change the subclass name, change “bundles” to “packages,” and remove “1,000 cubic inches” to read as follows:]

3.6 BMC Rate

To qualify for the Media Mail BMC presort rate, a piece must be in a mailing of at least 500 pieces of Media Mail receiving identical service and prepared and sorted either under M730 to full or substantially full BMC sacks or to BMC pallets under M045. These conditions also apply:

a. Mailings of at least 500 nonmachinable outside parcels may qualify for the Media Mail BMC presort rate if prepared to preserve sortation by BMC as prescribed by the mailing office postmaster. The postmaster may require a 24-hour notice before the mailing is presented.

b. Mailings prepared as palletized packages must consist of BMC packages, each containing at least eight pieces or weighing 20 pounds. No package may exceed 40 pounds. If there are more than 20 pounds of mail to a BMC destination, the mailer must prepare the minimum number of packages that weigh from 20 to 40 pounds each.

[Add new E714 as follows:]

E714 Library Mail

[Redesignate E630.5.1 as E714.1.0 and amend by changing the class name to read as follows:]

1.0 RATE ELIGIBILITY

Library Mail is Package Services matter meeting the standards in E710 and those below. Library Mail rates are based on the weight of the piece without regard to zone. The rate categories and barcoded discount are as follows:

a. Single-Piece Rate. The single-piece rate applies to Library Mail not mailed at a 5-digit or BMC rate.

b. 5-Digit Presort Rate. The 5-digit rate (Level A) applies to a presorted mailing of at least 500 pieces of Library Mail that meet the other requirements of 3.0 and are prepared and presorted to 5-digit destination ZIP Codes as specified in M700 or M041 and M045.

c. BMC Presort Rate. The BMC rate (Level B) applies to a presorted mailing of at least 500 pieces of Library Mail that meet the other requirements of 3.0 and are prepared and presorted to destination bulk mail centers as specified in M700 or M041 and M045.

d. Barcoded Discount. The barcoded discount applies to machinable parcels (C050) that are part of a mailing of at least 50 pieces of Library Mail, mailed at single-piece rates or BMC presort rates, and bear a correct, readable barcode for the ZIP Code shown in the delivery address in accordance with C850. The discount does not apply to pieces mailed at the Library Mail 5-digit presort rates.

[Add new E714.2.0 that follows:]

2.0 QUALIFICATION

[Redesignate E630.5.2 as E714.2.1 and amend the heading and references to read as follows:]

2.1 Sender, Recipient, and Contents

Each piece must show in the address or return address the name of a school, college, university, public library, museum, or herbarium or the name of a nonprofit religious, educational, scientific, philanthropic (charitable), agricultural, labor, veterans, or fraternal organization or association. For Library Mail standards, these nonprofit organizations are defined in E670. Only the articles described in 2.2 and 2.3 may be mailed at the Library Mail rate.

[Redesignate E630.5.3 as E714.2.2 and revise the heading to read as follows; no change to text:]

2.2 Qualified Mailings Between Entities

[Redesignate E630.5.4 as E714.2.3 and revise the heading to read as follows; no change to text.]

2.3 Qualified Mailings “To” or “From”

[Redesignate E630.5.5 as E714.2.4 and change the cross reference from E611 to E710; no other changes to text.]

[Redesignate E630.5.6 as E714.2.5 and change the cross reference from E611 to E710; no other changes to text.]

[Redesignate E630.6.0 as E714.3.0 and change the cross reference from M630 to M740; no other changes to text.:]

* * * * *

[Redesignate E630.7.0 as E715.]

E715 Bulk Parcel Post

[Reserved]

* * * * *

[Add new E750 as follows:]

E750 Destination Entry

[Add new heading E751 to read as follows:]

E751 Parcel Post

[Redesignate E652.1.0 as E751.1.0.]

1.1 Definitions

[Amend 1.1 to change cross reference M630 to M710; no other changes to text.]

* * * * *

1.3 DBMC Rates

[Amend 1.3 to replace M630 with M710; no other changes to text.]

1.4 DSCF and DDU Rates

[Amend 1.4a and b to replace M630 with M710; no other changes to text.]

1.5 Postage Payment

[Amend 1.5 to change class name from “Standard Mail (B)” to “Package Services” and change P750 to P950 as cross reference for plant-verified drop shipments; no other changes to text.]

* * * * *

[Redesignate E652.2.0 as E751.2.0.]

2.0 PREPARATION

* * * * *

2.2 Containers

[Amend 2.2a and b to replace the two references to M630 with M710 and M722, respectively; amend 2.2c to replace M630 with M710; no other changes to text.]

[Redesignate E652.3.0 as E751.3.0; no change to text.]

[Redesignate E652.4.0—4.13 as E751.4.0-4.13 and amend to read as follows:]

* * * * *

4.2 Mail Separation and Presentation

[Amend 4.2 to change the reference P750 to P950; in 4.2a and b change references from M630 to M710; and in 4.2b change the references from P710, P720, and P730 to P910, P920, and P930, respectively; no other changes to text.]

* * * * *

4.4 Appointments

[Amend 4.4a to clarify that an exception exists for shipments containing 100 percent Periodicals and shipments of perishables, and amend 4.4d by changing “Standard Mail (B)” to “Package Services mail” to read as follows:]

Appointments must be made for destination entry rate mail as follows:

a. Except for local mailers, shipments containing 100 percent Periodicals mail and mailings of perishable commodities (C022) under 4.5, appointments for deposit of destination entry rate mail at BMCs, ASFs, and SCFs must be scheduled through the appropriate appointment control center at least a day in advance.

* * * * *

d. When Periodicals are transported together with Standard Mail or Package Services mail as a mixed load (E250), an appointment must be obtained for deposit at a destination entry facility.

4.5 Exceptions to Scheduling Standard

[Restructure and amend 4.5 to clarify that scheduling exceptions are also made for shipments containing 100 percent of Periodicals and shipments of perishables to read as follows:]

* * * * *

b. Exceptions to the scheduling standard are made for shipments of products recognized by the Postal Service as perishables under C020. While an appointment is not required for shipments of perishables, the destination facility must be notified at least 24 hours in advance of deposit to facilitate timely handling of the load.

c. No appointment is required for shipments containing 100 percent Periodicals mail, nor is notification to the destination facility of their arrival required. An advance notice of 24 hours is recommended to facilitate the development of facility unloading schedules.

* * * * *

[Redesignate E652.5.0 as E751.5.0; no changes to text.]

[Redesignate E652.6.0 and Exhibit E652.6.0 as E751.6.0 and Exhibit E751.6.0; no changes to text.]

[Redesignate E652.7.0 and Exhibit E652.7.0 as E751.7.0 and Exhibit E751.7.0 and change the class name to Package Services; no other changes to text.]

[Redesignate E652.8.0 and Exhibit E652.8.0 as E751.8.0 and Exhibit E751.8.0; no other changes to text.]

[Add new E752 to read as follows:]

E752 Bound Printed Matter

1.0 BASIC STANDARDS

1.1 General

Destination entry discounts apply to Presorted and Carrier Route Bound Printed Matter (BPM) that is deposited at a destination bulk mail center (DBMC), destination sectional center facility (DSCF), or destination delivery unit (DDU) as specified below. Eligibility for a destination entry rate is determined by the sort level, processing category of the mail and the type of container the mail is in (i.e., sacked or palletized). Each piece can claim only one destination entry rate; an individual pallet may contain pieces claimed at different destination entry rates. There are no destination entry rates for single-piece BPM.

1.2 Volume

Each destination entry rate mailing must contain at least 300 pieces of Presorted BPM or 300 pieces of Carrier Route BPM. Each group of destination entry rate pieces prepared for deposit at different destination post offices must be presented as separate mailings meeting separate minimum volume requirements. Separate Presorted and Carrier Route BPM mailings may be co-palletized under M041 and M045. Pieces deposited at the same postal facility, but claimed at different destination entry rates, may be included in a single mailing and reported on the same postage statement (subject to one minimum volume requirement), if the destination entry post office is the proper facility for claiming each of the destination entry discounts. Alternatively, when Presorted Bound Printed Matter or Carrier Route Bound Printed Matter mailings are submitted under PVDS procedures, mailers may use the total of all line items for all destinations on a PVDS register or PVDS postage statement to meet the respective 300-piece minimum volume requirements for Presorted and Carrier Route mailings. This means a mailer may enter fewer than 300 pieces per Presorted or Carrier Route mailing at an individual destination, provided there is a total of at least 300 Presorted rate pieces and/or 300 Carrier Route rate pieces for all of the entry points for that single mailing job listed on the PVDS register or PVDS postage statement.

1.3 Postage

Postage payment for destination entry mailings is subject to the same standards that apply generally to BPM. Postage and fees are paid to the post office that verifies the mailings. The destination entry mailing fee must be paid for the current 12-month period at each postal facility where the mailing(s) are verified.

1.4 Documentation

Each mailing must be accompanied by the appropriate Form 3605 and Form 8125. No additional documentation is required for destination entry rates.

1.5 Plant Loads

Plant load mailings, including expedited plant load shipments, are not eligible for destination entry discounts.

2.0 DESTINATION BULK MAIL CENTER (DBMC) RATES

2.1 General Eligibility

Pieces in a mailing meeting the standards in 1.0, 2.0 and 5.0 through 7.0 are eligible for the DBMC rate when they meet all of the following conditions:

a. are eligible for and prepared to qualify for Presorted, or Carrier Route rates, subject to the corresponding standards for those rates.

b. are deposited at a BMC or ASF.

c. are addressed for delivery to one of the 3-digit ZIP Codes served by the BMC or ASF where deposited that are listed in Exhibit E751.5.0.

d. are placed in a sack or pallet (subject to the standards for the rate claimed) that is labeled to the BMC or ASF where deposited, or labeled to a postal facility within that BMC's or ASF's service area (see Exhibit E751.5.0).

2.2 Presorted Flats

Presorted flats in sacks or on pallets at all sort levels may claim DBMC rates. Separate mixed ADC sacks must be prepared for flats eligible for and claimed at the DBMC rate and for flats not claimed at the DBMC rate. All pieces in an ADC sack or in a palletized ADC package are eligible for the DBMC discount if the ADC facility ZIP Code (as shown in Line 1 of the corresponding sack label or the ADC facility that is the destination of the palletized ADC package as would be shown on an ADC sack label for that facility using DMM L004, Column B) is within the service area of the BMC or ASF at which the sack is deposited. Mail must entered at the appropriate facility under 2.1.

2.3 Presorted Machinable Parcels

Presorted machinable parcels in sacks or on pallets at all sort levels may claim DBMC rates. Machinable parcels palletized under M045 or sacked under M722 may be sorted to destination BMCs under L601 or to destination BMCs and ASFs under L601 and L602. Sortation of machinable parcels to ASFs is optional but is required for the ASF mail to be eligible for DBMC rates. Mailers may opt to sort some or all machinable parcels for ASF service area ZIP Codes to ASFs only when the mail will be deposited at the respective ASFs where the DBMC rate are claimed, under applicable volume standards, using L602. Mailers may also opt to sort machinable parcels only to destination BMCs under L601. When machinable parcels are sorted under L601, only mail for 3-digit ZIP Codes served by a BMC as listed in Exhibit E751.5.0 are eligible for DBMC rates (i.e., mail for 3-digit ZIP Codes served by an ASF in Exhibit E751.5.0 are not eligible for DBMC rates, nor are 3-digit ZIP Codes that do not appear on Exhibit E751.5.0). Machinable parcels prepared in mixed BMC sacks or on mixed BMC pallets that are sorted to the origin BMC under M045 or M722 are eligible for the DBMC rates if both of the following conditions are met: 1) the mixed BMC sack or pallet is entered at the origin BMC facility to which it is labeled, and 2) the pieces are for 3-digit ZIP Codes listed as eligible destination ZIP Codes for that BMC in Exhibit E751.5.0.

2.4 Presorted Irregular Parcels

Presorted irregular parcels in sacks or on pallets at all sort levels may claim DBMC rates. All pieces in an ADC sack or in a palletized ADC package are eligible for the DBMC discount if the ADC facility ZIP Code (as shown in Line 1 of the corresponding sack label or the ADC facility that is the destination of the palletized ADC package as would be shown on an ADC sack label for that facility using DMM L004, Column B) is within the service area of the BMC at which the sack is deposited under E751.5.6. Separate mixed ADC sacks must be prepared for pieces eligible for and claimed at the DBMC rate and for parcels not claimed at the DBMC rate. Mail must entered at the appropriate facility under 2.1.

2.5 Carrier Route Flats

Carrier route flats in sacks or on pallets at all sort levels may claim DBMC rates. Mail must entered at the appropriate facility under 2.1.

2.6 Carrier Route Machinable Parcels

Carrier route machinable parcels in individual carrier route sacks may claim DBMC rates. Mail must entered at the appropriate facility under 2.1.

2.7 Carrier Route Irregular Parcels

Carrier Route irregular parcels in sacks at both sort levels or on pallets at all sort levels may claim DBMC rates. Mail must entered at the appropriate facility under 2.1.

3.0 DESTINATION SECTIONAL CENTER FACILITY (DSCF) RATES

3.1 General

Pieces in a mailing meeting the standards in 1.0, 3.0 and 5.0 through 7.0 are eligible for the DSCF rate when they meet all of the following conditions:

a. are eligible for and prepared to qualify for Presorted, or Carrier Route rates, subject to the corresponding standards for those rates.

b. are deposited at an SCF listed in L005, except that machinable parcels prepared on pallets for the 5-digit ZIP Codes listed in Exhibit E751.6.0 must be entered at the corresponding BMC facility shown in that Exhibit (not at the SCF) unless an exception is requested and granted. An exception to Exhibit E751.6.0 must be requested at least 15 days in advance of the mailing in writing from the Area Manager, Operations Support, who has jurisdiction over the BMC and SCF. Exceptions, if granted, will be for a limited time.

c. are addressed for delivery to one of the 3-digit ZIP Codes served by the SCF where deposited under L005, and

d. are placed in a sack or pallet (subject to the standards for the rate claimed) that is labeled to the DSCF where deposited, or labeled to a postal facility within that SCF's service area (see L005).

3.2 Presorted Flats

Presorted flats in sacks for the 5-digit, 3-digit, and optional SCF sort levels or on pallets at the optional 5-digit scheme, 5-digit, optional 3-digit, SCF and ASF sort levels may claim DSCF rates. Mail must entered at the appropriate facility under 3.1.

3.3 Presorted Machinable Parcels

Presorted machinable parcels in sacks or on pallets at the 5-digit sort level may claim DSCF rates. For palletized mail, see 3.1b. Mail must entered at the appropriate facility under 3.1. Pallets must not be prepared if the 5-digit facility is unable to handle pallets. Refer to the Drop Ship Product maintained by the National Customer Support Center (NCSC) (see G043) to determine which 5-digit delivery facilities can handle pallets.

3.4 Presorted Irregular Parcels

Presorted irregular parcels in sacks at the 5-digit, 3-digit, and optional SCF sort levels, or on pallets at the 5-digit, optional 3-digit, SCF, and ASF sort levels may claim DSCF rates under 3.1.

3.5 Carrier Route Flats

Carrier route flats in sacks at all sort levels or on pallets at optional 5-digit scheme carrier routes, 5-digit carrier routes, optional 3-digit, SCF, and ASF sort levels may claim DSCF rates under 3.1.

3.6 Carrier Route Machinable Parcels

Carrier route machinable parcels in individual carrier route sacks may claim DSCF rates. Mail must entered at the appropriate facility under 3.1.

3.7 Carrier Route Irregular Parcels

Carrier Route irregular parcels in sacks at both sort levels or on pallets at the 5-digit, optional 3-digit, SCF and ASF sort levels may claim DSCF rates. Mail must entered at the appropriate facility under 3.1.

4.0 DESTINATION DELIVERY UNIT (DDU) RATES

4.1 General

Pieces in a mailing meeting the standards in 1.0, and 4.0 through 7.0 are eligible for the DDU rate when they meet all of the following conditions:

a. are eligible for and prepared to qualify for Presorted, or Carrier Route rates, subject to the corresponding standards for those rates.

b. Be addressed for delivery within the ZIP Code(s) served by the destination delivery unit.

c. Be deposited:

1. For flats, at the DDU designated by the USPS district drop shipment coordinator where the carrier cases the mail.

2. For irregular parcels and machinable parcels, refer to the Drop Ship Product for the 5-digit destination. When the Drop Ship Product shows that mail for a single 5-digit ZIP Code area is delivered out of more than one postal facility, use the facility from which the majority of city carrier routes are delivered as the facility at which the DDU parcels must be entered and to determine whether that facility can handle pallets, unless the 5-digit ZIP Code is listed in Exhibit E751.7.0 or Exhibit E751.8.0. For ZIP Codes in Exhibit E751.7.0 and Exhibit E751.8.0 use the name of the facility associated with the 5-digit ZIP Code on the respective exhibit as the facility at which DDU mail must be entered for that 5-digit ZIP Code. This facility name should be used along with the Drop Ship Product to determine if that facility can handle pallets. If a DDU facility cannot handle pallets, and a mailer transports mail to the DDU facility on pallets, the driver will have to unload the pallets into a container specified by the delivery unit.

4.2 Presorted Flats

Presorted flats are not eligible for DDU rates.

4.3 Presorted Machinable Parcels

Presorted machinable parcels in 5-digit sacks or on 5-digit pallets may claim DDU rates under 4.1.

4.4 Presorted Irregular Parcels

Presorted irregular parcels in 5-digit sacks, on 5-digit pallets, or prepared as bedloaded 5-digit packages, may claim DDU rates when entered at the appropriate facility under 4.1.

4.5 Carrier Route Flats

Carrier Route flats in sacks, on optional 5-digit carrier routes scheme and 5-digit carrier routes pallets, or prepared as bedloaded carrier route packages, may claim DDU rates under 4.1.

4.6 Carrier Route Machinable Parcels

Carrier route machinable parcels sorted to carrier route sacks may claim DDU rates when entered at the appropriate facility under 4.1.

4.7 Carrier Route Irregular Parcels

Carrier Route irregular parcels in sacks, on 5-digit pallets, or prepared as bedloaded packages, may claim DDU rates when entered at the appropriate facility under 4.1.

5.0 VERIFICATION

5.1 Place

As directed by the postmaster, the mailer must present destination entry mailings to USPS employees for verification either:

a. At the origin mailer's plant or the origin post office serving the mailer's plant under an authorized plant-verified drop shipment system.

b. At the destination post office or business mail entry unit.

5.2 Mail Separation and Presentation

Destination entry rate mail must be verified under a PVDS system (P750) or be presented for verification and acceptance at a BMEU located at a destination BMC, destination SCF, or other designated destination postal facility. Only plant-verified drop shipments may be deposited at a destination delivery unit not co-located with a post office or other postal facility having a business mail entry unit. When presented to the USPS, destination entry mailings must meet the following requirements:

a. Each mailing must be separated from other mailings for verification. For PVDS, destination entry rate mailings for deposit at one destination postal facility must be separated from mailings for deposit at other facilities to allow for reconciliation with each accompanying Form 8125, 8125-C, or 8125-CD.

b. Mail must be separated from freight transported on the same vehicle.

c. If Periodicals mail is on the same vehicle as BPM, then the Periodicals mail should be loaded toward the tail of the vehicle so that, for each destination entry, Periodicals mail can be offloaded first.

d. Form 8125, 8125-C, or 8125-CD must accompany all PVDS mailings.

5.3 Form 8125

When mailings are verified and paid for at a postal facility different from the one at which they are accepted as mail and deposited into the mailstream, the mailer must ensure that they are accompanied by a Form 8125 completed by the mailer and the verifying post office.

5.4 At BMC

For a mailing to be verified at a BMC, the post office where the mailer's account or license is held must be within the service area of that BMC. The post office must authorize the BMC to act as its agent by sending Form 4410 to the BMC.

5.5 PVDS Seal

The mailer may ask that a PVDS band seal secure the vehicle containing verified mailings before dispatch to the destination facility.

5.6 Mailer Transport

The mailer must transport the PVDS mailing from the place where it was verified to the destination postal facility.

5.7 Volume Standards

Except as permitted for a local mailer under 7.0, destination entry mailings are subject to these volume standards:

a. Regardless of total volume, the pieces for which a destination rate is claimed must represent more than 50% of the mail (by weight or pieces, whichever is greater) presented by the same mailer within any 24-hour period. For this standard, mailer is the party presenting the material to the USPS (or for whom a transportation company has presented the material to the USPS).

b. The same mailer may not in a 24-hour period present for verification and acceptance more than four destination rate mailings at the same destination postal facility (or at another acting as its agent). The mailer may ask for a waiver of this limit when scheduling the deposit of the mailings. There is no maximum for plant-verified drop shipments.

6.0 DEPOSIT

6.1 When, Where

Each mailing claimed at a destination rate must be deposited at the time and location specified by the USPS.

6.2 Vehicles

Mailings must be presented in vehicles that are compatible with dock, yard, and DDU operations, as applicable.

6.3 Appointments

Appointments must be made for destination entry rate mail as follows:

a. Except for a local mailer under 7.0 and mailings of perishable commodities, appointments for deposit of destination entry rate mail at BMCs, ASFs, and SCFs must be scheduled through the appropriate appointment control center at least one business day in advance. Same-day appointments may be granted by a control center only through a telephone request. All appointments for BMC loads must be scheduled by the appropriate BMC control center. Appointments for SCFs and ASFs must be scheduled through the appropriate district control center. Appointments may be made up to 30 calendar days before a desired appointment date. The mailer must adhere to the scheduled mail deposit time and location. The mailer must cancel any appointment by notifying the appropriate control center at least 24 hours in advance of a scheduled appointment.

b. Electronic appointments may be made through the Dropship Appointment System (DSAS) by a mailer or agent using a USPS-issued computer logon ID. Electronic appointments or cancellations must be made at least 12 hours before the desired time and date. All information required by the USPS appointment system regarding a mailing must be provided.

c. For deposit of DDU mailings, an appointment must be made by contacting the DDU at least 24 hours in advance. If the appointment must be canceled, the mailer must notify the DDU at least one business day in advance of a scheduled appointment. Recurring appointments are allowed if shipment frequency is once a week or more often.

d. When Periodicals are transported together with BPM as a mixed load (E250), an appointment must be obtained for deposit at a destination entry facility.

6.4 Advance Scheduling

Except under 7.0, a mailer must schedule deposit of destination entry rate mailings at least 24 hours in advance by contacting the proper district or BMC control center or destination delivery unit. Appointments at delivery units must be made by calling the delivery unit at least 24 hours in advance. Appointments for ASFs, SCFs, or for any multistop loads must be made through the USPS district control center or DSAS in 6.3. Appointments for BMC loads must be scheduled by the proper BMC control center. When making an appointment, or as soon as available, the mailer must provide the control center or DDU with the following information:

a. Mailer's name and address and, when applicable, the name and telephone number of the mailer's agent or local contact.

b. Description of what is being mailed, product name, number of mailings, volume of mail, how prepared and whether containerized (e.g., pallets). For DDU entries, the mailer also must provide the 5-digit ZIP Code(s) of the mail being deposited.

c. Where the mailing was verified.

d. Postage payment method.

e. Requested date and destination facility for mailing.

f. Vehicle identification number, size, and type.

6.5 Adherence to Schedule

The mailer must follow the scheduled deposit time or cancel the appointment by notifying the designated control center. Destination facilities may refuse acceptance or deposit of unscheduled mailings or shipments that arrive more than 2 hours after the scheduled appointment at ASFs, BMCs, or SCFs or more than 20 minutes at delivery units.

6.6 Redirection by USPS

A mailer may be directed to transport destination entry rate mailings to a facility other than the designated DDU, SCF, or BMC due to facility restrictions, building expansions, peak season mail volumes, or emergency constraints.

6.7 Redirection at Mailer's Request

For service reasons, a mailer may ask to transport destination SCF rate mail to a facility other than the designated SCF. This exception may be approved only by the district control center serving the destination facility. To qualify for the SCF rate in this situation, mail deposited at a facility other than the SCF must destinate for processing within that facility and must not require backhauling to the SCF.

6.8 Recurring Appointments

Recurring appointments refers to a drop shipment that is delivered to a destination office with a frequency of at least once a week on the same time and day(s). Mailings must be of a comparable product in terms of mail class, size, volume, and containerization (pallets, pallet boxes, etc.). A request to establish recurring appointments must be written on company letterhead to the postal facility manager/postmaster. The drop shipment appointment control office/postmaster will respond to all requests within 10 days. Recurring appointments may be made for a period not to exceed 6 months. Thereafter, a new application must be submitted to ensure that up-to-date mailer information is on file. Written request for an additional 6 months may be made within 60 days prior to the expiration of a current arrangement. Failure to adhere to scheduled appointments or other abuse of the procedures will result in revocation of recurring appointment privileges. Requests for recurring appointments must include the following:

a. Name, address, and telephone number of the mailer.

b. Transportation agent's name (contact person) and telephone number(s).

c. Mail volume and preparation (trays/sacks/parcels).

d. Containerization.

e. Size and type of trailer(s) transporting mail.

f. Frequency/schedule.

6.9 Vehicle Unloading

Unloading of destination entry mailings is subject to these conditions:

a. Properly prepared containerized loads (e.g., pallets) are unloaded by the USPS at BMCs, ASFs, and SCFs. The USPS does not unload or permit the mailer (or mailer's agent) to unload palletized loads that are unstable or severely leaning or that have otherwise not maintained their integrity in transit.

b. At BMCs, and ASFs, the driver must unload bedloaded shipments within 8 hours of arrival. Combination containerized and bedloaded mailings are classified as bedloaded shipments for unload times. The USPS may assist in unloading.

c. At delivery units, the driver must unload all mail within 1 hour of arrival. If pallets (including pallet boxes on pallets) are stacked, the driver is required to unload, unstack, and unstrap them. If a mailer transports palletized mail (including sacks on pallets) to a DDU facility that cannot handle pallets, then the driver must unload the pallets into a container specified by the delivery unit.

d. When driver unloading is required, the driver or assistant must stay with and continue to unload the vehicle once at the dock.

e. The driver must remove the vehicle from USPS property after unloading. The driver and assistant are not permitted in USPS facilities except for the dock and designated driver rest area.

6.10 Demurrage

The USPS is not responsible for demurrage or detention charges incurred by a mailer who presents destination entry rate mailings.

6.11 Appeals

Mailers who believe they are denied equitable treatment may appeal to the manager, Customer Service (district), responsible for the destination postal facility.

7.0 EXCEPTION FOR LOCAL MAILER

The restrictions in 5.7 and 6.3 do not apply when a mailer deposits mailings for verification and acceptance at the local post office serving the facility where the mail was prepared, if the mailings are not verified under a plant load authorization or plant-verified drop shipment postage payment authorization. Under this exception, the mailer may claim the destination entry rates for mailings or portions of mailings deposited at the local post office that meet the standards in 2.0, 3.0, or 4.0.

* * * * *

E753 Combining Package Services Parcels for Destination Entry

1.0 COMBINING PARCELS

Package Services mail-Parcel Post, Media Mail, Library Mail, and Bound Printed Matter-parcels may be combined, at the mailer's option and when authorized by USPS, in common 5-digit sacks or pallets for entry either at a destination sectional center facility (DSCF) or a destination delivery unit (DDU), only. Combined parcel mailings must meet the standards of E751, E752, and this section.

1.1 Basic Standards

Only Package Services mail that qualifies as a machinable, nonmachinable, or irregular parcel under C050 and meets the following conditions may be combined under this standard:

a. Parcels may be combined either in 5-digit sacks or on 5-digit pallets (including pallet boxes on pallets) for deposit at a DSCF or DDU. Combining other Package Services parcels with Bound Printed Matter parcels claimed at a carrier route rate is not permitted. All parcels must be prepared in sacks as required by M700 or on pallets as required by M045 unless stated otherwise in this section. Parcels may not be prepared on pallets (including pallet boxes on pallets) for the DSCF rate if the 5-digit delivery facility is unable to handle pallets. Refer to the Drop Ship Product maintained by the National Customer Support Center (NCSC) (see G043) to determine which 5-digit delivery facilities can handle pallets (or pallet boxes on pallets).

b. Parcels may be combined if the following minimum quantity requirements are met: sacks-at least 10 combined pieces; pallets-at least 50 combined pieces and a combined weight of 250 pounds of mail, or 36 inches of mail.

c. Machinable and irregular parcels may be combined in the same 5-digit container.

d. Separate postage statements must be prepared, as appropriate, for each subclass and postage payment method. Pieces may be claimed at single piece rates, presorted rates, and destination entry rates, if applicable.

e. Parcels of a subclass for which no destination entry discount is offered remain ineligible for a destination entry discount but may be combined with pieces that are eligible for a DSCF or DDU entry discount. There are no destination entry rates for single-piece Parcel Post (less than 50 Parcel Post pieces in a mailing) and single-piece Bound Printed Matter, nor for single-piece or presorted Library Mail and Media Mail.

f. Minimum mailing requirements for Parcel Select destination entry rates (50 pieces), Presorted Bound Printed Matter (300 pieces), Presorted Library Mail (500 pieces each level) and Presorted Media Mail (500 pieces each level), must be met separately and are unchanged by combining.

g. All parcels must have correct postage affixed or must be prepared under an approved manifesting procedure as provided in P900 and 5.0.

h. All parcels entered at a DSCF or DDU are ineligible for the barcoded discount.

i. The deposit of combined mail at a destination facility must be in accordance with applicable drop shipment standards.

1.2 Authorization

The requirements for authorization to combine parcels are as follows:

a. A mailer who wants to present combined Package Services mailings must submit a written request to the RCSC serving the post office where the mailer is located. The request must show names of mail owner and mailer (if different); address of the mailer's plant and mailing office (if different); the parcel subclasses in a combined mailing; evidence of authorization to mail under P710, expected date of first mailing; and sample of required computer-generated listings. The expected frequency of mailings under this section must be listed as part of the request.

b. An authorization is valid only for a specified combination of mail subclasses and rate categories and for a specified period of time. It need not be limited to a single mailing or a specific number of mailings.

c. An authorization expires at the same time as the applicable manifest postage payment system authorization and may not be written for a period of more than 2 years. A mailer may terminate an authorization at any time by written notice to the postmaster of the office serving the mailer's location. The USPS may terminate an authorization by written notice if it finds that the mailer does not meet the applicable standards.

2.0 COMBINED PARCELS PREPARED IN SACKS

2.1 Rate Eligibility

In addition to the applicable standards in E750 for destination entry Package Services mail, the following standards apply for combined Package Services mail prepared in sacks for destination entry rates where applicable:

(a) Parcel Post and Parcel Select rates are applied as follows:

(1) Parcel Select parcels that are contained in 5-digit sacks, each holding at least 10 pieces of any combination of Bound Printed Matter, Parcel Select, Parcel Post (pieces ineligible for destination entry rates) Media Mail, and/or Library Mail parcels, qualify for Parcel Select DSCF rates, provided all other requirements for the DSCF rate in E751 are met.

(2) Parcel Select pieces that are contained in 5-digit sacks, each holding at least 10 pieces of any combination of Bound Printed Matter, Parcel Select, Parcel Post (pieces ineligible for destination entry rates), Media Mail, and/or Library Mail parcels, qualify for Parcel Select DDU rates, provided all other requirements for the DDU rate in E751 are met.

(3) Parcel Post parcels for which the 50-piece minimum mailing requirement for Parcel Select rates is not met that are contained in 5-digit sacks, each holding at least 10 pieces of any combination of Bound Printed Matter, Parcel Select, Media Mail, and/or Library Mail parcels, qualify for Parcel Post rates.

b. Bound Printed Matter rates are applied as follows:

(1) Presorted Bound Printed Matter parcels that are contained in 5-digit sacks, each holding at least 10 pieces of any combination of Bound Printed Matter, Parcel Select, Parcel Post (pieces ineligible for destination entry rates), Media Mail, and/or Library Mail parcels, qualify for Bound Printed Matter DSCF rates, provided all other requirements for the DSCF rate in E752 are met.

(2) Presorted Bound Printed Matter parcels that are contained in 5-digit sacks, each holding at least 10 pieces of any combination of Bound Printed Matter, Parcel Select, Parcel Post (pieces ineligible for destination entry rates), Media Mail, and/or Library Mail parcels, qualify for Bound Printed Matter DDU rates, provided all other requirements for the DDU rate in E752 are met.

(3) Bound Printed Matter parcels for which the 300-piece minimum mailing requirement for Presorted rates is not met and that are contained in 5-digit sacks, each holding at least 10 pieces of any combination of Bound Printed Matter, Parcel Select, Parcel Post (pieces ineligible for destination entry rates), Media Mail, and/or Library Mail parcels, qualify for Bound Printed Matter single-piece rates.

c. Library Mail rates are applied as follows:

(1) Presorted Library Mail parcels that are contained in 5-digit sacks, each holding at least 10 pieces of any combination Bound Printed Matter, Parcel Select, Parcel Post (pieces ineligible for destination entry rates), Media Mail, and/or Library Mail parcels, qualify for 5-digit Library Mail rates.

(2) Library Mail parcels for which the 500-piece minimum mailing requirement for 5-digit Presorted rates is not met that are contained in 5-digit sacks, each holding at least 10 pieces of any combination of Bound Printed Matter, Parcel Select, Parcel Post (pieces ineligible for destination entry rates), Media Mail, and/or Library Mail parcels, qualify for single-piece Library Mail rates.

d. Media Mail rates are applied as follows:

(1) Presorted Media Mail parcels that are contained in 5-digit sacks, each holding at least 10 pieces of any combination Bound Printed Matter, Parcel Select, Parcel Post (pieces ineligible for destination entry rates), Media Mail, and/or Library Mail parcels, qualify for 5-digit Media Mail rates.

(2) Media Mail parcels for which the 500-piece minimum mailing requirement for 5-digit Presorted rates is not met, that are contained in 5-digit sacks, each holding at least 10 pieces of any combination of Bound Printed Matter, Parcel Select, Parcel Post (pieces ineligible for destination entry rates), Media Mail, and/or Library Mail parcels, qualify for single-piece Media Mail rates.

2.2 Sack Preparation

Only 5-digit sacks may be prepared. Each sack must contain a minimum of 10 pieces of any combination of Package Services parcels. Sack labels must be prepared as follows: 5-digit: For line 1, use 5-digit ZIP Code on mail. For line 2, use “PSVC PARCELS 5D.”

3.0 COMBINED PARCELS PREPARED ON PALLETS

3.1 Rate Eligibility

In addition to the applicable standards in E750 for destination entry Package Services mail, the following standards apply for combined Package Services mail prepared on pallets for destination entry rates where applicable:

a. Parcel Post: Under these standards, Parcel Post pieces may be combined with other Package Services mail to meet the pallet minimums. Parcel Select-DSCF rates may be claimed for pieces that are part of a mailing of at least 50 pieces of Parcel Post, prepared on 5-digit pallets of at least 50 pieces and 250 pounds of Package Services mail or 36 inches of mail, and deposited at a designated sectional center facility under E750. Parcel Select-DDU rates may be claimed for any pieces that are part of a mailing of at least 50 pieces of Parcel Post, prepared on 5-digit pallets of combined Package Services mail, and deposited at a designated DDU under E750.

b. Bound Printed Matter: The DSCF and DDU rates apply to Presorted (excluding carrier route) Bound Printed Matter mailings that meet the standards for volume and presort under E752, are prepared on 5-digit pallets of at least 50 pieces and 250 pounds or 36 inches of mail, and are deposited at a designated sectional center facility or designated DDU. Under these standards, the Bound Printed Matter pieces may be combined with other Package Services mail to meet the pallet minimums. Single piece Bound Printed Matter rate mail may be combined with other Package Services mail when placed on a qualifying 5-digit pallet and deposited at a designated sectional center facility or designated DDU.

c. Library Mail: 5-Digit presort and BMC presort rates apply to mailings meeting the standards for volume and presort under E714 and may be combined with other Package Services mail when prepared and presorted on 5-digit pallets of at least 50 pieces and 250 pounds or 36 inches of mail and deposited at a designated sectional center facility or designated DDU. Single piece rate Library Mail may be combined with other Package Services mail when prepared on qualifying 5-digit pallets of at least 50 pieces and 250 pounds or 36 inches of mail that are deposited at a designated sectional center facility or DDU. Single piece Library Mail may be combined with other Package Services mail when placed on a qualifying 5-digit pallet and deposited at a designated sectional center facility or designated DDU. There is no Library Mail BMC rate under E753.

d. Media Mail: The 5-digit presort rate applies to mailings meeting the standards for volume and presort under E713 when combined with other Package Services mail, prepared and presorted on 5-digit pallets of at least 50 pieces or 250 pounds or 36 inches of mail, and deposited at a designated sectional center facility or designated DDU. Single piece rate Media Mail may be combined with other Package Services mail when placed on qualifying 5-digit pallets that are deposited at a designated DSCF or designated DDU. There is no Media Mail BMC rate under E753.

3.2 Packages

Packages prepared on pallets must meet the applicable standards in M010, M020, M030, and M045.

3.3 Pallet Preparation

5-digit pallets may be prepared whenever there are at least 50 parcels or 250 pounds or 36 inches of combined Parcel Services mail.

3.4 Pallet Presort and Labeling

Only 5-digit pallets are permitted under E753. For line 1, City, State, and 5-digit ZIP Code on mail. For line 2, “PSVC PARCELS 5D.”

4.0 DOCUMENTATION

Separate postage statements must be prepared for each Package Services mailing. All postage statements must be provided at the time of mailing and must be accompanied by a computer-generated manifest prepared in accordance with P900 and this section. The manifest must be a computer-generated listing in ZIP Code sequence and numbered to correspond to the sacks or pallets that describes the content of each sack or pallet. The mailer must keep this information for 90 days after the mailing is dispatched. If a manifest as described in M045.12.3 is already used to qualify for Parcel Select-DSCF rates, the information required by this section for combined pieces must be added. A pallet identification number must be printed below Line 3 on the pallet label. The manifest must show the following information for each sack or pallet: the number of pieces, combined weight, and total postage amount for each rate category (e.g., Parcel Select-DDU, Bound Printed Matter DDU) and a total sack or pallet combined summary of pieces, weight, and postage. It must also indicate by subclass and rate category, cumulative totals of the number of pieces, weight, and postage of all preceding sacks or pallets added to the totals of the current sack or pallet and a summary showing the total number of pieces and the total postage amount.

F FORWARDING AND RELATED SERVICES

F000 Basic Services

F010 Basic Information

* * * * *

3.0 DIRECTORY SERVICE

[Amend 3.0d by replacing “Standard Mail (B)” with “Package Services”; no other changes to text.]

4.0 BASIC TREATMENT

* * * * *

4.5 Special Services

[Amend 4.5 by revising 4.5b to add instructions for treatment of insured Standard Mail; revise 4.5c by deleting the last sentence to read as follows:]

Mail with special services is treated according to the charts for each class of mail in 5.0, except that:

* * * * *

b. All insured First-Class Mail is forwarded and returned free of charge. All insured Standard Mail and Package Services mail is forwarded and returned.

c. Parcels undeliverable as originally addressed and forwarded to the addressee at a new address receive special handling service without an additional special handling fee.

* * * * *

[Add new 4.6 to read as follows:]

4.6 Metered Pieces

Mail paid by postage meter that does not have a delivery address and a return address is returned to the post office of mailing. The reason for nondelivery is attached but the address correction fee is not charged. The piece is returned to the meter licensee upon payment of the applicable return postage.

5.0 CLASS TREATMENT FOR ANCILLARY SERVICES

[Amend 5.1 by changing “E620” to “E620 and E630.”]

* * * * *

[Amend heading of 5.3 by removing “(A)” to read as follows:]

5.3 Standard Mail

[Amend 5.3 by removing “(A)” from “Standard Mail (A)”; amend 5.3a by replacing “Standard Mail (B)” with “Package Services” and “Special Standard Mail” with “Media Mail.” Redesignate current items g and h, as h and i, respectively; amend redesignated i by removing “(A)” from “Standard Mail (A)” add new g to read as follows:]

Undeliverable Standard Mail is treated as described in the chart below and under these conditions:

* * * * *

g. Standard Mail with insurance, return receipt for merchandise, or Delivery Confirmation must be endorsed “Address Service Requested,” “Forwarding Service Requested,” or “Return Service Requested.”

* * * * *

[Amend the chart in 5.3 by adding the following under “Change Service Requested” to read as follows:]

Mailer endorsement | USPS action on UAA pieces
Change Service Requested ¹ | * * * * *
| This endorsement is not available for mail with special services (e.g., insured or Delivery Confirmation).

[Revise heading of 5.4 to read as follows:]

5.4 Package Services

[Amend 5.4 by replacing “Standard Mail (B)” with “Package Services mail.” Remove item 5.4c. Add new item 5.4c to read as follows:]

Undeliverable Package Services mail is treated as described in the chart below and under these conditions:

* * * * *

c. Bound Printed Matter with no ancillary service endorsement and no special service is disposed of by USPS. It is not forwarded or returned to sender. Bound Printed Matter with no ancillary service endorsement with a special service is treated as if it is endorsed “Forwarding Service Requested.”

* * * * *

[Amend chart in 5.4 by adding an exception for Bound Printed Matter under “No endorsement” to read as follows:]

Mailer endorsement | USPS action on UAA pieces
No endorsement | Same as USPS action for “Forwarding Service Requested.” Exception: Bound Printed Matter with no special service added is disposed of by USPS.

* * * * *

6.0 ENCLOSURES AND ATTACHMENTS

* * * * *

[Amend heading and text of 6.2 by removing the “(A)” in Standard Mail; no other changes to text.]

[Revise title of 6.3 to read as follows:]

6.3 Package Services

[Amend 6.3 by replacing references to “Standard Mail (B)” with “Package Services”; no other changes to text.]

7.0 MIXED CLASSES

[Amend introductory paragraph of 7.1, 7.1a, and 7.2 by replacing “Standard Mail” with “Standard Mail or Package Services mail”; no other changes to text.]

* * * * *

7.4 Parcel

[Amend 7.4 to specify that combination parcels are returned at the Parcel Post Inter-BMC rate and by replacing “Special Standard Mail” with “Media Mail” to read as follows:]

A combination parcel containing Media Mail and Bound Printed Matter is charged postage at the Parcel Post Inter-BMC zoned rate when forwarded or returned.

8.0 DEAD MAIL

[Amend 8.1b by replacing “Standard Mail (A)” with “Standard Mail.” Amend 8.1e by replacing “Standard Mail (A)” with “Standard Mail “ and “Standard Mail” with “Standard Mail and Package Services”; no other changes to text.]

* * * * *

F020 Forwarding

* * * * *

2.0 FORWARDABLE MAIL

* * * * *

[Amend 2.3, 2.4, and 2.6, by replacing “Standard Mail (B)” with “Package Services mail”; no other changes to text.]

* * * * *

3.0 POSTAGE FOR FORWARDING

* * * * *

[Amend the title and contents of 3.5 by replacing “Standard Mail (A)” with “Standard Mail”; no other changes to text.]

[Revise title of 3.6 to read as follows:]

3.6 Package Services

[Amend 3.6 by replacing “Standard Mail (B)” with “Package Services”; no other changes to text.]

* * * * *

F030 Address Correction, Address Change, FASTforward, and Return Services

1.0 ADDRESS CORRECTION SERVICE

* * * * *

[Amend 1.4 by replacing “Standard Mail” with “Standard Mail and Package Services”; no other changes to text.]

* * * * *

2.0 ADDRESS CHANGE SERVICE (ACS)

[Amend 2.1 by replacing “Standard Mail” with “Standard Mail and Package Services”; no other changes to text.]

* * * * *

2.5 Shipper Paid Forwarding

[Amend 2.5 by adding a reference to the accounting fee for a postage due account:]

Shipper Paid Forwarding is an ACS fulfillment vehicle. It allows mailers of Standard Mail machinable parcels and most Package Services mail to pay forwarding charges via approved ACS participant code(s). For information about Shipper Paid Forwarding, contact the National Customer Support Center (see G043). Mailers have the option of paying forwarding charges through a postage due advance deposit account. If so, then mailers must pay an annual accounting fee.

* * * * *

4.0 SENDER INSTRUCTION

* * * * *

4.2 Special Services

A change-of-address order covers certified, collect on delivery (COD), insured, registered, and return receipt for merchandise mail unless the sender gives other instructions or the addressee moves outside the United States. This mail is treated as follows:

[Amend 4.2d to read as follows:]

* * * * *

d. Insured Standard Mail is forwarded and returned.

* * * * *

[Amend 4.2e by replacing “Standard Mail (B)” with “Package Services mail”; no other changes to text.]

* * * * *

G GENERAL INFORMATION

G000 The USPS and Mailing Standards

* * * * *

G090 Experimental Classifications and Rates

G094 Ride-Along Rate for Periodicals

1.0 BASIC ELIGIBILITY

[Amend 1.1, 1.2, and 1.3 by changing “Standard Mail (A)” to “Standard Mail,” no other changes to text.]

* * * * *

L LABELING LISTS

L000 General Use

[Amend the heading and introductory paragraph of L001 to provide for class of mail name changes and to allow use of L001 with Bound Printed Matter flats to read as follows:]

L001 5-Digit Scheme—Periodicals Flats and Irregular Parcels, Standard Mail Flats and Bound Printed Matter Flats

When 5-digit scheme sort is used for Periodicals flats and irregular parcels, Standard Mail flats, and Bound Printed Matter flats, mail for the 5-digit ZIP Codes shown in Column A must be combined on pallets (packages on pallets only on merged 5-digit scheme, 5-digit scheme carrier routes, or 5-digit scheme pallets, as applicable) or in sacks (merged 5-digit scheme or 5-digit scheme carrier routes sacks, as applicable) labeled to the corresponding destination shown in Column B.

* * * * *

L002 3-Digit ZIP Code Prefix Matrix

This matrix provides information about 3-digit ZIP Code prefixes as follows:

[Amend the last sentence of L002d to read as follows:]

d. * * * Destination SCF Standard Mail rates, destination SCF Package Services rates, or SCF zone and per-piece Periodicals rates are available only to those ZIP Code areas for which an SCF is shown.

* * * * *

L004 3-Digit Code Prefix Groups—ADC Sortation

[Revise the next-to-last sentence of the L004 introduction to read as follows:]

* * * To order labels from the USPS Label Printing Center, use Form 1578-B and indicate set number 008 (First-Class Mail), set number 009 (Periodicals), or set number 010 (Standard Mail and Bound Printed Matter). * * *

[In L004, replace”[STD only]” with “[STD and BPM only],” replace “[PER and STD only]” with “[PER, STD, and BPM only],” and replace “[FCM and STD only]” with “[FCM, STD, and BPM only].”]

* * * * *

[Amend the heading of L600 to include Package Services to read as follows:]

L600 Standard Mail and Package Services

L601 BMCs

[Revise introductory paragraph to read as follows:]

Use this list for:

(1) Standard Mail machinable parcels except ASF mail prepared and claimed at DBMC rates.

(2) Standard Mail packages, letter trays, or sacks on pallets.

(3) Bound Printed Matter machinable parcels.

(4) Bound Printed Matter packages or sacks on pallets.

(5) Parcel Post except for ASF mail prepared and claimed at DBMC rates and non-machinable BMC Presort or OBMC Presort rate mail.

(6) Presorted Media Mail and Presorted Library Mail to BMC destinations. For labeling mixed BMC sacks and pallets, mailers must add “MXD” before the Column B information of the BMC serving the 3-digit ZIP Code prefix of the post office at which the mail is entered.

* * * * *

[Revise the heading of L602 to read as follows:]

L602 ASFs

[Revise the introductory paragraph to read as follows:]

Use this list for:

(1) Standard Mail machinable parcels if ASF mail is entered at the ASF and claimed at DBMC rates.

(2) Standard Mail packages, letter trays, or sacks on pallets.

(3) Bound Printed Matter machinable parcels if ASF mail is entered at the ASF and claimed at DBMC rates.

(4) Bound Printed Matter packages or sacks on pallets.

(5) Parcel Post machinable parcels if ASF mail is entered at the ASF and claimed at DBMC rates.

* * * * *

[Amend the title of L603 by adding “Standard Mail” to read as follows:]

L603 ADCs—Irregular Standard Mail Parcels

* * * * *

[Amend to title of L604 to indicate that the list is used only for Standard Mail irregular parcels to read as follows:]

L604 Originating ADCs—Standard Mail Irregular Parcels

* * * * *

L800 Automation Rate Mailings

* * * * *

[Amend the heading of L802 by changing “Standard Mail (A)” to “Standard Mail” to read as follows:]

L802 BMC/ASF Entry—Periodicals and Standard Mail

* * * * *

[Amend the heading of L803 by changing “Standard Mail (A)” to “Standard Mail” to read as follows:]

L803 Non-BMC/ASF Entry—Periodicals and Standard Mail

* * * * *

M MAIL PREPARATION AND SORTATION

M000 General Preparation Standards

M010 Mailpieces

M011 Basic Standards

1.0 TERMS AND CONDITIONS

1.1 Presort Process

[Amend the third sentence of 1.1 by replacing “Standard Mail (A)” with “Standard Mail”; no other changes to text.]

* * * * *

1.3 Preparation Instructions

For purposes of preparing mail:

* * * * *

[M013.13 was amended in the amended final rule published in 65 FR 50054 (August 16, 2000). The section numbers in this proposed rule reflect those amendments.]

[Redesignate 1.3f through 1.3z as 1.3h through 1.3ab respectively, add new 1.3f and 1.3g to read as follows:]

For purposes of preparing mail:

* * * * *

f. A less-than-full flat tray is one that contains First-Class Mail for the same destination regardless of quantity or whether a full tray was previously prepared for that destination. Less-than-full flat trays may be prepared only if permitted by the standards for the rate claimed.

g. An overflow flat tray is a less-than-full First-Class Mail tray that contains all pieces remaining after preparation of one or more full trays for the same destination. Overflow flat trays may be prepared only if permitted by the standards for the rate claimed.

* * * * *

[Amend redesignated 1.3j to provide for 5-digit/scheme carrier routes sortation for Carrier Route Bound Printed Matter, and to change “Standard Mail (A)” to “Standard Mail” to read as follows:]

j. A 5-digit/scheme carrier routes sort for carrier route rate Periodicals flats and irregular parcels, Enhanced Carrier Route rate Standard Mail flats, and Carrier Route Bound Printed Matter flats, prepared in sacks or as packages on pallets yields a 5-digit scheme carrier routes sack or pallet for those 5-digit ZIP Codes listed in L001 and 5-digit carrier routes sacks or pallets for other areas. The 5-digit ZIP Codes in each scheme are treated as a single presort destination subject to a single minimum sack or pallet volume, with no further separation by 5-digit ZIP Code required. Sacks or pallets prepared for a 5-digit scheme carrier routes destination that contain carrier route packages for only one of the schemed 5-digit areas are still considered 5-digit scheme carrier routes sorted and are labeled accordingly. The 5-digit/scheme sort is required for carrier route packages of flat-size and irregular parcel Periodicals, is optional for flat-size Enhanced Carrier Route rate Standard Mail, and is optional for Carrier Route Bound Printed Matter flats prepared in sacks or as packages on pallets. If preparation of 5-digit scheme carrier routes sacks or pallets is performed, it must be done for all 5-digit scheme destinations. A 5-digit/scheme carrier routes sort may be performed only for carrier route packages prepared in sacks or as packages on pallets.

[Amend redesignated 1.3k to provide for 5-digit/scheme sortation for Bound Printed Matter flats, and to change “Standard Mail (A)” to “Standard Mail” to read as follows:]

k. A 5-digit/scheme sort for Periodicals flats and irregular parcels, Standard Mail flats, and Bound Printed Matter flats prepared as packages on pallets yields 5-digit scheme pallets containing automation rate (not applicable to Bound Printed Matter) and Presorted rate 5-digit packages for those 5-digit ZIP Codes listed in L001 and yields 5-digit pallets containing automation rate (not applicable to Bound Printed Matter) and Presorted rate 5-digit packages for other areas. The 5-digit ZIP Codes in each scheme are treated as a single presort destination subject to a single minimum pallet volume, with no further separation by 5-digit ZIP Code required. Pallets prepared for a 5-digit scheme destination that contain 5-digit packages for only one of the schemed 5-digit areas are still considered 5-digit scheme sorted and are labeled accordingly. The 5-digit/scheme sort is required for flat-size and irregular parcel-size Periodicals, and is optional for flat-size Standard Mail and flat-size Bound Printed Matter that is prepared as packages on pallets and may not be used for other mail prepared on pallets, except for 5-digit packages of Standard Mail irregular parcels that are part of a mailing job that is prepared in part as palletized flats at automation rates. If preparation of 5-digit scheme pallets is performed, it must be done for all 5-digit scheme destinations.

* * * * *

[Amend the last sentence of 1.3p for clarity to read as follows:]

* * * The 3-digit/scheme sort is required for automation rate letter-size First-Class Mail, Periodicals, and Standard Mail and is not permitted to be used for mail entered at another rate.

* * * * *

[Amend 1.3z by replacing “Standard Mail (A)” with “Standard Mail”; no other changes to text.]

[Amend the first and last sentences of 1.3aa by replacing “Parcel Post DSCF” with “Parcel Select (Parcel Post) DSCF)”; and by changing “M630” to “M710”; no other changes to text.]

[Amend the first and second sentences of 1.3ab by replacing “Parcel Post DSCF” with “Parcel Select (Parcel Post) DSCF”; no other changes to text.]

1.4 Mailing

* * * * *

[Amend 1.4e by replacing “Standard Mail (A)” with “Standard Mail”; no other changes to text.]

[Amend 1.4f by replacing “Standard Mail (B)” with “Package Services” and “Special Standard” with “Media Mail”; no other changes in text.]

* * * * *

M012 Markings and Endorsements

1.0 MARKINGS—BASIC STANDARDS

1.1 Class and Rate

[Amend 1.1b by replacing “Standard Mail (A)” with “Standard Mail”; no other changes to text.]

[Amend 1.1c by replacing “Standard Mail (B)” with “Package Services”; no other changes to text.]

* * * * *

[Revise the heading of 2.0 by replacing “Standard Mail (A)” with “Standard Mail”; no other change.]

2.0 MARKINGS—FIRST-CLASS MAIL AND STANDARD MAIL

2.1 Placement

* * * * *

[Amend 2.1b and c by replacing “Standard Mail (A)” with “Standard Mail”; no other changes to text.]

* * * * *

2.2 Exceptions to Markings

[Amend 2.2a and 2.2b by replacing “Standard Mail (A)” with “Standard Mail”; no other changes to text.]

* * * * *

[Amend the heading of 3.0 by replacing “Standard Mail (B)” with “Package Services Mail” to read as follows:]

3.0 MARKINGS—PACKAGE SERVICES MAIL

3.1 Basic Markings

[Amend 3.1 by changing the subclass name from “Special Standard Mail” to “Media Mail” and eliminating the “Library Rate” marking to read as follows:]

The basic required Package Services subclass marking—“Parcel Post” or “PP,” “Bound Printed Matter” or “BPM,” “Media Mail,” or “Library Mail”—must be printed on each piece claimed at the respective rate. (The marking “Library Rate” may continue to be used on Library Mail until January 1, 2002. The marking “Special Standard Mail” (or “SPEC STD”) may continue to be used on Media Mail until January 1, 2002.) For Parcel Post destination entry rate mail, the marking “Parcel Select” may be used as the basic required marking instead of “Parcel Post.” The basic required marking must be placed in the postage area (i.e., printed or produced as part of, or directly below or to the left of, the permit imprint indicia or meter stamp or impression).

[Amend the heading of 3.2 for clarity to read as follows:]

3.2 Additional Parcel Select (Parcel Post) Markings

[Amend the first sentence of 3.2 to read as follows:]

Each piece in a Parcel Select (Parcel Post) mailing entered at a DBMC, DSCF, or DDU destination entry rate must bear a marking to indicate that it was mailed at a destination entry rate. * * *

[Amend the heading of 3.3 by changing “Other” to “Additional” and revise to read as follows:]

3.3 Additional Bound Printed Matter Markings

Each piece of Bound Printed Matter mailed at a Presorted rate must bear the marking “Presorted” (or “PRSRT”) in addition to the basic marking in 3.1. Until January 1, 2002, mailers may use the marking “Presorted Standard” (or “PRSRT STD”). Each piece of Bound Printed Matter mailed at a Carrier Route rate must bear the marking “Carrier Route Presort” (or “CAR-RT SORT”) in addition to the basic marking in 3.1. These additional markings may be placed in the postage area as specified in 3.1. Alternatively, these markings may be placed in the address area on the line directly above or two lines above the address if the marking appears alone, or if no other information appears on the line with the marking except postal optional endorsement line information under M013 or postal carrier route package information under M014.

[Amend the heading of 3.4 to reflect the new subclass name to read as follows:]

3.4 Additional Media Mail Markings

[Amend 3.4 to reflect the new subclass name to read as follows:]

The required marking “Presorted” or “PRSRT” for Media Mail may be placed in the location specified in 3.1. Alternatively, it may be placed in the address area on the line directly above or two lines above the address provided that only the Media Mail marking appears on that line.

[Amend the heading of 3.5 by changing “Other” to “Additional” to read as follows:]

3.5 Additional Library Mail Markings

* * * * *

4.0 ENDORSEMENTS—DELIVERY AND ANCILLARY SERVICES

* * * * *

4.5 OCR Read Area

[Amend 4.5 by replacing “Standard Mail (A)” with “Standard Mail”; no other changes to text.]

M013 Optional Endorsement Lines

1.0 USE

1.1 Basic Standards

[Amend the chart in 1.1 by adding the sortation level and OEL example lines for Carrier Route Bound Printed Matter to read as follows:]

Sortation level | OEL example
* * * * * * *
Carrier Route—Bound Printed Matter | * * * * * * * * * * * CAR-RT SORT**C-001
* * * * * * *

* * * * *

2.0 FORMAT

* * * * *

2.5 ZIP Code

[Amend 2.5 by removing the second sentence.]

[Amend the table in 2.5 by revising the entries for ADC and mixed ADC sortation levels to read as follows:

Sortation level | Mail class | Labeling list
* * * * * * *
ADC | First-Class Mail (except automation letters), Periodicals (except automation letters), Standard Mail (except Presorted rate irregular and machinable parcels), Presorted Bound Printed Matter (except machinable parcels) | L004
| Standard Mail irregular parcels | L603
Mixed ADC | First-Class Mail (except automation letters) | L002, Column C
| Periodicals (except automation letters), Standard Mail (except Presorted rate irregular and machinable parcels), Presorted Bound Printed Matter (except machinable parcels) | L004
| Standard Mail irregular parcels | L604
* * * * * * *

* * * * *

M014 Carrier Route Information Lines

* * * * *

2.0 FORMAT AND CONTENT

* * * * *

2.3 Route Code

* * * * *

[Amend 2.3b by replacing “Standard Mail (A)” with “Standard Mail”; no other changes to text.]

* * * * *

M020 Packages and Bundles

1.0 BASIC STANDARDS

* * * * *

1.4 Palletization

[Amend 1.4 by removing all references to bundles to read as follows:]

Packages on pallets must be able to withstand normal transit and handling without breakage or injury to USPS employees. Heavy-gauge shrinkwrap over plastic banding, only shrinkwrap, or only banding material is acceptable if the package can stay together during normal processing. Except for packages of individually polywrapped pieces, packages on BMC pallets must be shrinkwrapped and machinable on BMC parcel sorters. Packages of individually polywrapped pieces may be secured with banding material only. Machinability is determined by the USPS. If used, banding material must be applied at least once around the length and once around the girth; wire and metal strapping are prohibited.

[Redesignate 1.5 and 1.6 as 1.6 and 1.7 and add new 1.5 to read as follows:]

1.5 Package Size—Bound Printed Matter

Each physical package of Presorted Bound Printed Matter must meet the minimum package size prescribed in M045 or M722. For Carrier Route Bound Printed matter prepared in sacks, the “last physical package” to an individual carrier route destination may contain less than the minimum package size and could consist of a single addressed piece, provided that all other packages to that carrier route destination meet the minimum package size and contain at least two addressed pieces, and that the total group of pieces to that carrier route meets the Carrier Route rate eligibility minimum in E712. Packages prepared on pallets must meet the packaging requirements under M045

[Amend the heading and the introductory phrase of redesignated 1.6 to read as follows:]

1.6 Package Size—Other Mail Classes

For classes of mail other than Bound Printed Matter, an individual physical package may be prepared with fewer than the minimum number of pieces required by the standards for the rate claimed, without loss of rate eligibility under either of these conditions:

* * * * *

[Amend heading of 2.0 by replacing “Standard Mail (A)” with “Standard Mail” to read as follows:]

2.0 ADDITIONAL STANDARDS—FIRST-CLASS MAIL, PERIODICALS, STANDARD MAIL, AND BOUND PRINTED MATTER FLATS

2.1 Cards and Letter-Size Pieces

[Amend 2.1c and 2.1d by changing “Standard Mail (A)” to “Standard Mail.”]

* * * * *

[Amend 2.2 by revising the second sentence to read as follows:]

2.2 Flat-Size Pieces

* * * Flat-size pieces must be prepared in packages except under 1.7. First-Class Mail automation flats prepared under the tray-based preparation option in M820.2.3 are not prepared in packages.

* * * * *

[Amend the heading of 3.0 by adding “All,” and amend the opening text to read as follows:]

3.0 FACING SLIPS—ALL CARRIER ROUTE MAIL

Facing slips used on any carrier route packages must show this information:

* * * * *

M030 Containers

M031 Labels

* * * * *

2.0 ADDITIONAL STANDARDS—SACK LABELS

2.1 Specifications

[Amend 2.1a to reflect changes in mail class names to read as follows:]

A sack label must meet these specifications:

a. Color: white or manila for Priority Mail, First-Class Mail, Standard Mail and Package Services mail; pink for Periodicals.

* * * * *

3.0 ADDITIONAL STANDARDS—TRAY LABELS PLACEMENT

* * * * *

3.2 Specifications

[Amend 3.2a to change “Standard Mail (A)” to “Standard Mail” to read as follows:]

A tray label must meet these specifications:

a. Color: White or manila for First-Class Mail and Standard Mail; pink for Periodicals.

* * * * *

4.0 PALLET LABELS

* * * * *

4.2 Specifications

[Amend 4.2 to reflect changes in class names to read as follows:]

Pallet labels must be pink for Periodicals mail or white for Standard Mail and Package Services. The pallet labels must measure at least 8 inches by 11 inches in size.

* * * * *

[Amend the last sentence of 4.7 (as it appeared in the final rule published in 65 FR 50054 (August 16, 2000)) to add the word “irregular parcel” in front of “Bound Printed Matter,” and to change “processing category” to “”5D” pallet level” to read as follows:]

4.7 5-Digit, 5-Digit Carrier Routes, and 5-Digit Scheme Carrier Routes Pallets

All 5-digit carrier routes or 5-digit scheme carrier routes pallets must show the words “CARRIER ROUTES” (or “CR-RTS”) after the processing category description on the content line under M045, M920, M930, and M940. Five-digit pallets of irregular parcel Bound Printed Matter that contain only carrier route rate mail must also show the words “CARRIER ROUTES” (or “CR-RTS”) after the “5D” pallet level description on the contents line under M045.

[Amend 4.8 (as it appeared in the final rule published in 65 FR 50054 (August 16, 2000)) by changing “Standard Mail (A)” to “Standard Mail” to read as follows:]

4.8 Automation Status

All Periodicals and Standard Mail 5-digit, 5-digit scheme, 3-digit, SCF, ADC, ASF, and BMC pallets must show “BARCODED” or “BC” on the contents line if the pallet contains automation rate mail as provided in M045, M920, M930, and M940. Except for machinable parcels, all Periodicals and Standard Mail 5-digit, 5-digit scheme, 3-digit, SCF, ADC, ASF, and BMC pallets must show “NONBARCODED” or “NBC” on the contents line if the pallet contains Presorted rate mail under M045, M920, M930, and M940. If a pallet contains copalletized automation rate and Presorted rate mail, the separate “BARCODED” and “NONBARCODED” designations may be abbreviated “BC/NBC.”

[The following section was revised as M031.4.10 in the final rule published in 65 FR 50054 (August 16, 2000). Subsequent revisions to the DMM have redesignated this section as 4.9.]

4.9 Extraneous Information

* * * * *

[Amend 4.9c to reflect changes in class names to read as follows:]

c. It does not appear on or between the lines reserved for USPS required information (blank lines are permitted). Exception: For combined mailings of Standard Mail and Package Services machinable parcels, mailer codes and extraneous information may appear between the content line and the post office of mailing line.

* * * * *

[The following section was added as M031.4.13 in the final rule published in 65 FR 50054 (August 16, 2000). Subsequent revisions to the DMM have redesignated this section as 4.12. Amend the title of 4.12 to delete the phrase “or Bundle” to read as follows:]

4.12 Pallet Package Information

* * * * *

5.0 SECOND LINE CODES

[Amend the chart in 5.0 to change “Standard Mail (A)” to “Standard Mail,” add “First Class Mail” and code “FCM,” and add “Package Services” and code “PSVC” to read as follows:]

The codes shown below must be used as appropriate on Line 2 of sack, tray, and pallet labels.

Content type | Code
Barcoded | BC.
Barcoded and Nonbarcoded | BC/NBC.
Carrier Route | C (type of route).
Carrier Routes | CR-RTS (5-digit sack and pallet designation).
Digit | D.
First-Class Mail | FCM.
Flats | FLTS.
General Delivery Unit | G.
Highway Contract Route | H.
Irregular Parcels | IRREG. (Periodicals, Standard Mail, and Package Services only).
Letters | LTRS.
Machinable Parcels | MACH (Standard Mail and Package Services only).
Mixed | MXD.
Mixed Machinable and Irregular Parcels | MACH & IRREG (Standard Mail only).
Nonbarcoded | NON BC (sacks). NBC (pallets, and co-trayed or co-sacked mail under M910).
Package Services | PSVC.
Parcels | PARCELS. (First-Class Mail and Package Services only).
Periodicals | PER (see 1.7). NEWS (see 1.7).
Post Office Box Section | B.
Rural Route | R.
Scheme | SCH. (Periodicals, Standard Mail, and (flats only) Bound Printed Matter 5-digit scheme carrier routes sacks and 5-digit scheme pallets only).
Standard Mail | STD.
Working | WKG.

M032 Barcoded Labels

1.0 BASIC STANDARDS—TRAY AND SACK LABELS

1.1 Use

[Amend 1.1 by replacing “Standard Mail (A)” with “Standard Mail”; no other changes to text.]

* * * * *

[Amend Exhibit 1.3a, 3-Digit Content Identifier Numbers, by replacing headings “STANDARD MAIL (A)” with “STANDARD MAIL,” “STANDARD MAIL (B)” with “PACKAGE SERVICES,” “Special Standard Mail” with “Media Mail,” and making other changes in content line information to read as follows:]

Class and mailing | CIN | Human-readable content line
* * * * * * *
STANDARD MAIL
* * * * * * *
Enhanced Carrier Route Irregular Parcels—Nonautomation
car. rt. sacks—saturation | 599 | STD IRREG WSS ¹
car. rt. sacks—high density | 600 | STD IRREG WSH ¹
car. rt. sacks—basic | 601 | STD IRREG LOT ¹
5-digit carrier routes sacks | 598 | STD IRREG CR-RTS
STD Irregular Parcels—Presorted
5-digit sacks | 590 | STD IRREG 5D
3-digit sacks | 591 | STD IRREG 3D
ADC sacks | 592 | STD IRREG ADC
mixed ADC sacks | 594 | STD IRREG WKG
STD Machinable Parcels—Presorted
5-digit sacks | 670 | STD MACH 5D
ASF sacks | 672 | STD MACH ASF
BMC sacks | 673 | STD MACH BMC
mixed BMC sacks | 674 | STD MACH WKG
STD Machinable and Irregular Parcels—Presorted
5-digit sacks | 603 | STD MACH & IRREG 5D
PACKAGE SERVICES MAIL
Carrier Route Bound Printed Matter—Flats
carrier route sacks | 657 | PSVC FLTS CR ¹
5-digit scheme carrier routes sacks | 659 | PSVC FLTS CR-RTS SCH
5-digit carrier routes sacks | 658 | PSVC FLTS CR-RTS
Presorted Bound Printed Matter—Flats
5-digit sacks | 649 | PSVC FLTS 5D NON BC
3-digit sacks | 650 | PSVC FLTS 3D NON BC
SCF sacks | 654 | PSVC FLTS SCF NON BC
ADC sacks | 651 | PSVC FLTS ADC NON BC
mixed ADC sacks | 653 | PSVC FLTS NON BC WKG
Carrier Route Bound Printed Matter—Irregular Parcels
carrier route sacks | 697 | PSVC IRREG CR ¹
5-digit carrier routes sacks | 698 | PSVC IRREG CR-RTS
Presorted Bound Printed Matter—Irregular Parcels
5-digit sacks | 690 | PSVC IRREG 5D
3-digit sacks | 691 | PSVC IRREG 3D
SCF sacks | 696 | PSVC IRREG SCF
ADC sacks | 692 | PSVC IRREG ADC
mixed ADC sacks | 694 | PSVC IRREG WKG
Presorted Bound Printed Matter—Machinable Parcels
5-digit sacks | 680 | PSVC MACH 5D
ASF sacks | 682 | PSVC MACH ASF
BMC sacks | 683 | PSVC MACH BMC
mixed BMC sacks | 684 | PSVC MACH WKG
Carrier Route Bound Printed Matter—Machinable Parcels
carrier route sacks | 687 | PSVC MACH CR ¹
Presorted Media Mail and Presorted Library Mail Flats—5-Digit and BMC
5-digit sacks | 649 | PSVC FLTS 5D NON BC
BMC sacks | 652 | PSVC FLTS BMC NON BC
Presorted Media Mail and Presorted Library Mail Irregular Parcels—5-Digit and BMC
5-digit sacks | 690 | PSVC IRREG 5D
BMC sacks | 693 | PSVC IRREG BMC
Presorted Media Mail and Presorted Library Mail Machinable Parcels—5-Digit and BMC
5-digit sacks | 680 | PSVC MACH 5D
BMC sacks | 683 | PSVC MACH BMC
Parcel Post Machinable Parcels
5-digit sacks | 680 | PSVC MACH 5D
ASF sacks | 682 | PSVC MACH ASF
BMC sacks | 683 | PSVC MACH BMC
mixed BMC sacks | 684 | PSVC MACH WKG
Parcel Post DSCF and DDU Rates
5-digit sacks | 688 | PSVC PARCELS 5D
Combined PSVC Parcels
5-digit sacks | 688 | PSVC PARCELS 5D
Combined STD & PSVC Machinable Parcels
5-digit sacks | 660 | STD/PSVC MACH 5D
ASF sacks | 662 | STD/PSVC MACH ASF
BMC sacks | 663 | STD/PSVC MACH BMC
mixed BMC sacks | 664 | STD/PSVC MACH WKG

* * * * *

2.0 ADDITIONAL STANDARDS—BARCODED TRAY LABELS

2.1 Paper Stock, Size, and Color

[Amend 2.1a to replace the class name “Standard Mail (A)” with “Standard Mail”; no other changes to text.]

* * * * *

3.0 ADDITIONAL STANDARDS—BARCODED SACK LABELS

[Amend 3.1a by replacing “Standard Mail” with “Standard Mail and Package Services mail”; no other changes to text.

* * * * *

M033 Sacks and Trays

1.0 BASIC STANDARDS

* * * * *

1.2 Equipment

[Amend 1.2a and 1.2f by replacing “Standard Mail (A)” with “Standard Mail”; and by no other changes to text and amend 1.2a by adding a second sentence to read as follows:]

a. First-Class Mail flat-size pieces must be prepared in USPS flat trays with lids. The lids to these flat trays must be placed green side up.

[Amend the heading of 2.0 by replacing “Standard Mail (A)” with “Standard Mail” to read as follows:]

2.0 FIRST-CLASS MAIL, PERIODICALS, AND STANDARD MAIL

* * * * *

2.2 Flat Tray Preparation (First-Class Mail Only)

[Amend 2.2 by adding new f through h to read as follows:]

All flat tray preparation is subject to these standards:

* * * * *

f. For automation rate mailings prepared under the optional tray-based preparation rules in M820, one less-than-full overflow tray may be prepared for a presort destination when the total number of pieces for that destination meets the minimum for preparation of the tray level under M820, and one or more full trays (see M011) for that destination are also prepared.

g. For automation rate mailings prepared under the optional tray-based preparation rules in M820, when the total number of pieces for a presort destination meets or exceeds the minimum number of pieces required to prepare a tray for that destination, but the total volume does not physically fill a single tray, the mail for that presort destination may be prepared in a less-than-full tray.

h. Pieces prepared as automation flats under the tray-based preparation option in M820 do not have to be grouped by 3-digit ZIP Code prefix in ADC trays or by ADC in mixed ADC trays, if the mailing is prepared using an MLOCR/barcode sorter and standardized documentation is submitted.

* * * * *

M040 Pallets

M041 General Standards

* * * * *

[M041.5.0 and 6.0 were amended in the amended final rule published in 65 FR 48385 (August 8, 2000) and in the final rule published in 65 FR 50054 (August 16, 2000). The language in this proposed rule reflects those amendments.]

5.0 PREPARATION

5.1 Presort

[Amend 5.1 to change the class name from “Standard Mail (A)” to “Standard Mail.”]

5.2 Required Preparation

[Amend 5.2 to change the class name from “Standard Mail (A)” to “Standard Mail” to read as follows:]

These standards apply to:

a. Periodicals, Standard Mail and Package Services (other than Parcel Post BMC Presort, OBMC Presort, DSCF, and DDU rate mail). A pallet must be prepared to a required sortation level when there are 500 pounds of Periodicals, Standard Mail, or Package Services mail in packages or sacks, or 500 pounds of parcels, or six layers of Periodicals or Standard Mail letter trays. For packages of Periodicals flats and irregular parcels on pallets that are prepared under the standards for package reallocation to protect the SCF pallet (M045.5.0), not all mail for a required 5-digit scheme carrier routes, 5-digit scheme, 5-digit carrier routes, or 5-digit pallet or for an optional merged 5-digit scheme, optional merged 5-digit, or optional 3-digit pallet is required to be on that corresponding pallet level. For packages of Standard Mail flats on pallets that are prepared under the standards for package reallocation to protect the SCF pallet (M045.5.0), not all mail for a required 5-digit carrier routes or 5-digit pallet or for an optional 5-digit scheme carrier routes, merged 5-digit scheme, 5-digit scheme, merged 5-digit pallet, or 3-digit pallet is required to be on that corresponding pallet level. For packages of Standard Mail flats on pallets prepared under the standards for package reallocation to protect the BMC pallet (M045.6.0), not all mail for a required ASF pallet is required to be on an ASF pallet. Mixed ADC or mixed BMC pallets of sacks, trays, or machinable parcels, as appropriate, must be labeled to the BMC or ADC (as appropriate) serving the post office where mailings are entered into the mailstream. The processing and distribution manager of that facility may issue a written authorization to the mailer to label mixed BMC or mixed ADC pallets to the post office or processing and distribution center serving the post office where mailings are entered. These pallets contain all mail remaining after required and optional pallets are prepared to finer sortation levels under M045, as appropriate.

b. Parcel Post mailed at BMC Presort, OBMC Presort, DSCF, and DDU rates. Pallets must meet the requirements specifically prescribed for these rates in M045.

5.3 Minimum Load

[Amend 5.3a by replacing “Standard Mail (A)” with “Standard Mail” and by changing “M630” to “M710”; no other changes to text.]

* * * * *

5.6 Mail on Pallets

[Amend 5.6 (as it appears in the final rule published in 65 FR 50054 (August 16, 2000)) to provide for separation of flat-size Bound Printed Matter Carrier Route mail from Presorted mail on 5-digit level pallets, to change “Standard Mail (A)” to “Standard Mail,” to remove references to “bundles,” and to clarify and reorganize to read as follows:]

These standards apply to mail on pallets:

a. Pieces in trays, packages, and sacks must be prepared under the standards for the class of mail and rate claimed.

b. When two or more Periodicals mailings, two or more Standard Mail mailings, or two or more Bound Printed Matter mailings are placed together on pallets, the mailer must keep records for each mailing as required by the standards for the class of mail.

c. For Standard and Periodicals letter-size mail prepared in trays on pallets, carrier route rate mail (including automation carrier route) must be prepared on separate 5-digit pallets (5-digit carrier routes pallets) from non-carrier route automation rate or Presorted rate mail (5-digit pallets).

d. Heavier, fuller trays must be placed at the bottom of the load.

e. For Bound Printed Matter irregular parcels, Presorted and Carrier Route rate mail may be combined on all levels of pallet. For Bound Printed Matter flats, Presorted and Carrier Route rate mail may be combined on all levels of pallet except as provided in f and g.

f. For sacks of nonletter-size Periodicals mail on pallets (except for mail prepared with detached address labels), for sacks of nonletter-size Standard Mail on pallets (except for mail prepared with detached address labels and machinable parcels), and for sacks of flat-size Bound Printed Matter, carrier route rate mail must be prepared on separate 5-digit pallets (5-digit carrier routes pallets) from automation rate or Presorted rate mail (5-digit pallets).

g. For packages on pallets of nonletter-size Periodicals, nonletter-size Standard Mail, and flat-size Bound Printed matter, carrier route rate mail must be prepared on separate 5-digit pallets (5-digit carrier routes or 5-digit scheme carrier routes pallets) from automation rate or Presorted rate mail (that must be prepared on 5-digit pallets or 5-digit scheme pallets). Exception: When nonletter-size Periodicals and flat-size Standard Mail is prepared under 5.6h, carrier route rate mail, automation rate mail, and Presorted rate mail may be copalletized on the same merged 5-digit pallet or on the same merged 5-digit scheme pallet for applicable 5-digit ZIP Codes.

h. Mailers of nonletter-size Periodicals and flat-size Standard Mail that prepare packages on pallets may copalletize carrier route rate mail, automation rate mail, and Presorted rate mail on the same merged 5-digit pallet or on the same merged 5-digit scheme pallet under the conditions in M920, M930, or M940.

* * * * *

6.0 COPALLETIZED, COMBINED, OR MIXED-RATE LEVEL MAILINGS OF FLAT-SIZE MAILPIECES

* * * * *

[Amend the heading and contents of 6.4 to change the class name from “Standard Mail (A)” to “Standard Mail.”]

* * * * *

M045 Palletized Mailings

1.0 BASIC USES

[Amend 1.0f by replacing “Standard Mail (A) and (B)” with “Standard Mail and Package Services” and 1.0i by replacing “Standard Mail” with “Package Services mail” and by replacing “M630” with “M700”; no other changes to text.]

[Amend the heading of 2.0 to add “ON PALLETS” to read as follows:]

2.0 PACKAGES ON PALLETS

[Revise 2.1 to read as follows:]

2.1 Applicability

Only packages of flats and packages of irregular parcels of Periodicals, Standard Mail, and Bound Printed Matter may be prepared in packages placed directly on pallets under the provisions of 2.2 through 2.5 and 3.0.

[Redesignate current 2.2 through 2.4 as 2.3 through 2.5, respectively. Delete current 2.5 and 2.6. Insert new 2.2 to read as follows:]

2.2 Basic Packaging Standards

Package preparation for Periodicals, Standard Mail and Bound Printed Matter must meet the general standards in M010, M020, and the applicable packaging provisions of M200, M610, M620, M720, and M820, except as noted in 2.3 through 2.5. Packages must be sorted to pallets under 3.0. The palletized portion of a mailing may not include packages sorted to mixed ADCs or foreign destinations.

[Amend the heading of redesignated 2.3 by deleting “Size”; no other changes to text, to read as follows:]

2.3 Periodicals

* * * * *

[Amend the heading of redesignated 2.4 by deleting “Size” and replacing “Standard Mail (A)” with “Standard Mail” to read as follows:]

2.4 Standard Mail

* * * * *

[Revise the heading and contents of redesignated 2.5 to read as follows:]

2.5 Bound Printed Matter

a. Presorted Bound Printed Matter. Packages must be prepared to the package destinations in M722. Packages must be labeled using optional endorsement lines or pressure sensitive labels under M722. The Minimum package size is 10 addressed pieces or 10 pounds, whichever occurs first, except that the last package to a presort destination may weigh less than 10 pounds. Maximum package size is 20 pounds, except that 5-digit packages that will be placed on a 5-digit scheme or 5-digit pallet may weigh up to 40 pounds. The total number of physical packages for a single presort destination must not exceed the number of 10-pound increments to that destination.

Each physical package must contain at least 2 addressed pieces. Irregular parcels that individually weigh more than 10 pounds and therefore cannot meet the requirement for a minimum of 2 pieces in each physical package must be prepared and palletized as machinable parcels under 3.5 or prepared in sacks under M722.

b. Carrier Route Bound Printed Matter. Minimum package size is 10 addressed pieces or 10 pounds to a carrier route, whichever occurs first, except that the last package to a carrier route destination may weigh less than 10 pounds. Maximum package size is 20 pounds, except that carrier route packages of flats that will be placed on a 5-digit scheme carrier routes or 5-digit carrier routes pallet, and carrier packages of irregular parcels that will be placed on a 5-digit pallet, may weigh up to 40 pounds. The total number of physical packages for a single carrier route destination must not exceed the number of 10-pound increments to that destination. Each physical package must contain at least 2 addressed pieces. Irregular parcels that individually weigh more than 10 pounds and therefore cannot meet the requirement for a minimum of 2 pieces in each physical package must either: (1) be prepared and palletized as machinable parcels under 3.5 and pay the Presorted rates, or (2) be prepared in sacks to qualify for the Carrier Route rates under M723. Packages must be labeled to the carrier route with facing slips under M723, optional endorsement lines under M013, or carrier route information lines under M014.

[Remove 3.0; redesignate 4.0 through 15.0 as 3.0 through 14.0, respectively.]

3.0 PALLET PRESORT AND LABELING

[The following section, Pallet Presort and Labeling, was originally revised as M045.4.0 in the final rule published in 65 FR 50054 (August 16, 2000). The revisions below are revisions to the language in that final rule.]

* * * * *

[Delete redesignated 3.3 pertaining to Bound Printed Matter (revised in the final rule published in 65 FR 50054 (August 16, 2000)). Redesignate 3.4 and 3.5 as 3.5 through 3.6. Add new 3.3 and 3.4 to read as follows:]

3.3 Bound Printed Matter Flats—Packages and Sacks on Pallets

Mailers must prepare pallets in the sequence listed below. Mailers not opting to perform or not permitted to perform scheme sortation under 3.3a and 3.3b using L001 must begin preparing pallets under 3.3c. Pallets must be labeled according to the Line 1 and Line 2 information listed below and under M031.

a. 5-Digit Scheme Carrier Routes. Optional. Permitted only for flat-size packages on pallets. May contain only carrier route rate packages for the same 5-digit scheme under L001. If scheme sort is performed, it must be done for all 5-digit scheme destinations. For all 5-digit destinations that are not part of a scheme, prepare 5-digit carrier routes pallets under 3.3c.

(1) Line 1: Use L001, Column B.

(2) Line 2: “PSVC FLTS” followed by “CARRIER ROUTES “ or “CR-RTS” and “SCHEME” or “SCH.”

b. 5-Digit Scheme. Optional. Permitted only for flat-size packages on pallets. May contain only Presorted rate packages for the same 5-digit scheme under L001. If scheme sort is performed, it must be done for all 5-digit scheme destinations. For all 5-digit destinations that are not part of a scheme, prepare 5-digit pallets under 3.3d.

(1) Line 1: use L001, Column B.

(2) Line 2: “PSVC FLTS 5D,” followed by “SCHEME” or “SCH.”

c. 5-Digit Carrier Routes. Required for sacks and packages (except for packages prepared to 5-digit carrier route scheme pallets under 3.3a). May contain only Carrier Route rate mail for the same 5-digit ZIP Code.

(1) Line 1: use city, state abbreviation, and 5-digit ZIP Code destination (see M031 for military mail).

(2) Line 2: “PSVC FLTS,” followed by “CARRIER ROUTES” or “CR-RTS.”

d. 5-Digit. Required for sacks and packages (except for packages prepared to 5-digit scheme pallets under 3.3b). May contain only Presorted rate mail for the same 5-digit ZIP Code.

(1) Line 1: use city, state abbreviation, and 5-digit ZIP Code destination (see M031 for military mail).

(2) Line 2: “PSVC FLTS 5D.”

e. 3-digit: optional. May contain Carrier Route and/or Presorted rate mail.

(1) Line 1: use L002, Column A.

(2) Line 2: “PSVC FLTS 3D.”

f. SCF. Required. May contain Carrier Route and/or Presorted rate mail.

(1) Line 1: use L002, Column C.

(2) Line 2: “PSVC FLTS SCF.”

g. ASF. Required. May contain Carrier Route and/or Presorted rate mail. Sort ADC packages or sacks to ASF pallets based on the label to ZIP Code for the ADC destination of the package or sack in L004. See E752 for additional requirements for DBMC rate eligibility.

(1) Line 1: use L602.

(2) Line 2: “PSVC FLTS ASF.”

h. Destination BMC: Required. May contain Carrier Route and/or Presorted rate mail. Sort ADC packages or sacks to BMC pallets based on the label to ZIP Code for the ADC destination of the package or sack in L004. See E752 for additional requirements for DBMC rate eligibility.

(1) Line 1: use L601.

(2) Line 2: “PSVC FLTS BMC.”

i. For sacks on pallets only, mixed BMC. Optional. May contain Carrier Route and/or Presorted rate mail.

(1) Line 1: use “MXD” followed by the information in L601, Column B, for the BMC serving the 3-digit ZIP Code prefix of the entry post office (label to plant serving entry post office if authorized by the processing and distribution manager).

(2) Line 2: “PSVC FLTS” as applicable, followed by “WKG.”

3.4 Bound Printed Matter Irregular Parcels—Packages and Sacks on Pallets

Prepare pallets in the sequence listed below. Label pallets according to the Line 1 and Line 2 information listed below and under M031.

a. 5-digit. Required. May contain Carrier Route and/or Presorted rate mail.

(1) Line 1: use city, state abbreviation, and 5-digit ZIP Code destination (see M031 for military mail).

(2) Line 2: “PSVC IRREG 5D” and, if the pallet contains only carrier route mail, followed by “CARRIER ROUTES” (OR “CR-RTS”).

b. 3-digit. Optional. May contain Carrier Route and/or Presorted rate mail.

(1) Line 1: use L002, Column A.

(2) Line 2: “PSVC IRREG 3D.”

c. SCF. Required. May contain Carrier Route and/or Presorted rate mail.

(1) Line 1: use L002, Column C.

(2) Line 2: “PSVC IRREG SCF.”

d. Destination ASF. Required. May contain carrier route rate and/or Presorted rate mail. Sort ADC packages or sacks to ASF pallets based on the label to ZIP Code for the ADC destination of the package or sack in L004.

(1) Line 1: use L602.

(2) Line 2: “PSVC IRREG ASF.”

e. Destination BMC. Required. May contain Carrier Route and/or Presorted rate mail. Sort ADC packages or sacks to BMC pallets based on the label to ZIP Code for the ADC destination of the package or sack in L004.

(1) Line 1: use L601.

(2) Line 2: “PSVC IRREG BMC.”

f. For sacks on pallets only, mixed BMC. Optional. May contain Carrier Route and/or Presorted rate mail.

(1) Line 1: use “MXD” followed by the information in L601, Column B, for the BMC serving the 3-digit ZIP Code prefix of the entry post office (label to plant serving entry post office if authorized by the processing and distribution manager).

(2) Line 2: “PSVC IRREG” as applicable, followed by “WKG.”

3.5 Machinable Parcels—Standard Mail, Bound Printed Matter, and Parcel Post (Except BMC Presort, OBMC Presort, and Parcel Select DDU and DSCF)

Mailers must prepare pallets in the sequence listed below. Mailers may prepare Parcel Post other than BMC Presort, OBMC Presort, and Parcel Select DDU and DSCF on pallets under 3.5 as an option. If Parcel Post is optionally sorted under 3.5 it must meet all the requirements of 3.5. Pallets must be labeled according to the Line 1 and Line 2 information listed below and under M031.

a. 5-digit. Required, except optional for Standard Mail if 3/5 rates are not claimed.

(1) Line 1: use city, state abbreviation, and 5-digit ZIP Code destination (see M031 for military mail).

(2) Line 2: “STD MACH 5D” or “PSVC MACH 5D” as applicable.

b. If DBMC rates are not claimed: Destination BMC. Required.

(1) Line 1: use L601.

(2) Line 2: “STD MACH BMC” or “PSVC MACH BMC,” as applicable.

c. If DBMC rates are claimed: Destination ASF/BMC. Option 1: Mailers may opt to sort mail to ASFs using L602 only when the mail on the ASF pallet will be deposited at the ASF to claim the DBMC rate. After ASF pallets are prepared (mail need not be sorted to all ASFs) remaining mail must be sorted to BMCs using L601. Mail on BMC pallets deposited at the applicable BMC facility will be eligible for DBMC rates only if its 3-digit ZIP Code prefix is listed in Exhibit E650.5.1 (Standard Mail) or Exhibit E751.1.3 (Parcel Post and Bound Printed Matter) for that entry BMC. Option 2: Mailers may sort mail only to BMCs using L601. Under option 2, only mail for 3-digit ZIP Codes served by a BMC listed in Exhibit E650.5.1 or Exhibit E751.1.3 are eligible for DBMC rates (i.e., mail for 3-digit ZIP Codes served by an ASF in Exhibit E650.5.1 or Exhibit E751.1.3 are not eligible for DBMC rates, nor are 3-digit ZIP Codes that do not appear on Exhibit E650.5.1 or Exhibit E751.1.3).

(1) Line 1: Option 1: use L602 for ASF pallets; use L601 for BMC pallets. Option 2: use L601

(2) Line 2: “STD MACH” or “PSVC MACH” as applicable; followed by “ASF” or “BMC” as applicable.

d. Mixed BMC. Optional.

(1) Line 1: use “MXD” followed by the information in L601, Column B, for the BMC serving the 3-digit ZIP Code prefix of the entry post office (label to plant serving entry post office if authorized by the processing and distribution manager).

(2) Line 2: “STD MACH” or “PSVC MACH” as applicable, followed by “WKG.”

[Amend 3.6 by changing “Special Standard Mail” to “Media Mail”; no other changes to text.]

[Amend the heading of redesignated 4.0 by adding “To Protect SCF Pallet” and by replacing “Standard Mail (A)” with “Standard Mail” to read as follows:]

4.0 PACKAGE REALLOCATION TO PROTECT SCF PALLET FOR PERIODICALS FLATS AND IRREGULAR PARCELS AND STANDARD MAIL FLATS ON PALLETS

* * * * *

[The following section (M045.5.0) was originally added as M045.6.0 in the amended final rule published in 65 FR 48385 (August 8, 2000). The revisions below are revisions to the language in that final rule.]

[Amend the heading of redesignated 5.0 by replacing “Standard Mail (A)” with “Standard Mail” to read as follows:]

5.0 PACKAGE REALLOCATION TO PROTECT BMC PALLET FOR STANDARD MAIL FLATS ON PALLETS

* * * * *

6.0 PALLETS OF PACKAGES, BUNDLES, AND TRAYS OF LETTER-SIZE MAIL

* * * * *

[Amend the heading of 6.2 to read as follows:]

6.2 Standard Mail

[Amend 6.2 by replacing the class name “Standard Mail (A)” with “Standard Mail”; no other changes to text.]

* * * * *

6.4 Commingled Zones

[Amend 6.4 by replacing “Standard Mail (B)” with “Package Services mail,” and by changing “M630” to “M710 or M720” to read as follows:]

Pieces of Package Services mail for different zones may be commingled only under M710 or M720.

* * * * *

[Amend the heading of 8.0 by replacing “Standard Mail (A)” with “Standard Mail” to read as follows:]

8.0 PALLETS OF COPALLETIZED PERIODICALS OR STANDARD MAIL FLAT-SIZE PIECES

* * * * *

[Amend the heading of 8.3 by replacing “Standard Mail (A)” with “Standard Mail” to read as follows:]

8.3 Standard Mail

[Amend the first sentence of 8.3 to read as follows:]

Additional standards apply to Standard Mail:* * *

* * * * *

8.5 Postage Statement

[Amend 8.5b by replacing “Standard Mail (A)” with “Standard Mail”; no other changes to text.]

* * * * *

9.0 PALLETS OF MACHINABLE PARCELS

[Amend the heading of 9.1 to remove the “(A)” to read as follows:]

9.1 Standard Mail

* * * * *

[Revise the heading of 9.2 to read as follows:]

9.2 Package Services Mail

[Amend 9.2 by changing “M630” to “M710 and M720.”]

* * * * *

10.0 PARCEL POST—BULK MAIL CENTER (BMC) PRESORT DISCOUNT

10.1 Machinable Parcels

[Amend 10.1c by replacing the label class designation “STD B” with “PSVC” to read as follows:]

To qualify for the BMC Presort discount:

* * * * *

c. Pallet box Line 2 labeling: “PSVC MACH BMC.”

10.2 Nonmachinable Parcels

[Amend 10.2c by replacing the label class designation “STD B” with “PSVC” to read as follows:]

* * * * *

c. Pallet Line 2 labeling: “PSVC NON MACH BMC” or “PSVC NON MACH ASF,” as appropriate.

11.0 PARCEL POST—ORIGIN BULK MAIL CENTER (OBMC) PRESORT DISCOUNT

11.1 Machinable Parcels

[Amend 11.1c by replacing the label class designation “STD B” with “PSVC” to read as follows:]

To qualify for the OBMC Presort discount:

* * * * *

c. Pallet box Line 2 labeling: “PSVC MACH BMC.”

11.2 Nonmachinable Parcels

[Amend 11.2c by replacing the label class designation “STD B” with “PSVC” to read as follows:]

To qualify for the OBMC Presort discount:

* * * * *

c. Pallet Line 2 labeling: “PSVC NON MACH BMC” or “PSVC NON MACH ASF,” as appropriate.

12.0 PARCEL POST DSCF RATES—PARCELS ON PALLETS

12.1 Basic Preparation, Parcels on Pallets

[Amend the first sentence of 12.1 by changing “M630” to “M710.”]

* * * * *

[Amend 12.1d(2) by replacing the label class designation “STD B” with “PSVC” and adding “PARCELS” to read as follows:]

* * * * *

(2) For Line 2, use: “PSVC PARCELS 5D.”

* * * * *

[Amend 12.1e by changing “M630” to “M710.”]

12.2 Alternate Preparation, Parcels on Pallets

[Amend 12.2a by replacing “M630” with “M710.”]

* * * * *

[Amend 12.2c by replacing “M630” with M710.”]

[Amend 12.2d(2) by replacing the label class designation “STD B” with “PSVC” and adding “PARCELS” to read as follows:]

* * * * *

(2) For Line 2, use: “PSVC PARCELS 5D.”

* * * * *

12.3 5-Digit ZIP Codes For Which Pallets May Not Be Prepared

[Amend 12.3 by changing “Exhibits E652.7.0 and E652.8.0” to “Exhibits E751.7.0 and 751.8.0” and by changing “M630” to “M710.”]

12.4 5-Digit ZIP Codes Requiring BMC Entry

[Amend 12.4 by changing “E652.6.0” to “E751.6.0.”

13.0 PARCEL POST DSCF RATES—SACKS ON PALLETS

[Amend 13.0 by changing “M630” to “M710.”]

[Amend 13.0b by replacing the label class designation “STD B” with “PSVC” to read as follows:]

* * * * *

b. Line 2: PSVC PP 5D SACKS.

14.0 PARCEL POST DDU RATES

[Amend 14.0 by replacing “STD B” with “PSVC” and adding “PARCELS” in the fourth sentence to read as follows:]

* * * If pieces are sacked or palletized, they must be prepared to 5-digits and labeled as follows: Line 1 labeling, use city, state, and 5-digit ZIP Code destination; Line 2, use “PSVC PARCELS 5D.” * * *

* * * * *

M050 Delivery Sequence

* * * * *

4.0 DOCUMENTATION

4.1 General

[Amend 4.1 by changing the class name “Standard Mail (A)” to “Standard Mail” in the fifth sentence; no other changes to text.]

4.2 High Density

[Amend 4.2a by replacing “Standard Mail (A)” with “Standard Mail”; no other changes to text.]

* * * * *

M070 Mixed Classes

M071 Basic Information

1.0 MARKINGS

[Amend 1.1, and 1. 2 by replacing “Standard Mail (A)” with “Standard Mail”; no other changes to text.]

* * * * *

[Amend 1.3 by replacing “Standard Mail (A) Enclosed” with “Standard Mail Enclosed” and “Standard Mail parcel” with “Standard Mail and Package Services parcel”; no other changes to text.]

M072 Express Mail and Priority Mail Drop Shipment

* * * * *

2.0 ADDITIONAL STANDARDS FOR ENCLOSED MAIL

* * * * *

[Revise the heading and contents of 2.3 by changing “Standard Mail (A)” to “Standard Mail.”]

[Revise heading of 2.4 to “Package Services Mail” to read as follows:]

2.4 Package Services Mail

[Amend 2.4 by changing “P710, P720, or P730” to “P910, P920, or P930” and by changing “E652” to “E751.”]

* * * * *

[Amend the heading of M073 to reflect the new class of mail names to read as follows:]

M073 Combined Mailings of Standard Mail and Package Services Parcels

1.0 COMBINED MACHINABLE PARCELS—RATES OTHER THAN PARCEL POST OBMC PRESORT, BMC PRESORT, DSCF, AND DDU

[Amend 1.1 by replacing “Standard Mail (A)” with “Standard Mail” and by replacing “Standard Mail (B)” with “Package Services mail”; no other changes to text.]

[Amend 1.2 by replacing “Standard Mail (A)” with “Standard Mail,” by replacing “Standard Mail (B)” with “Package Services mail,” and by replacing “Standard Mail” with “Standard Mail and Package Services”; no other changes to text.]

* * * * *

[Amend 1.4 and 1.5c by replacing “Standard Mail (A)” with “Standard Mail” and by replacing “Standard Mail (B)” with “Package Services mail”; no other changes to text.]

[Amend 1.6a by replacing “Standard Mail (A)” with “Standard Mail.”]

[Amend 1.6b by replacing “STD A/B” with “STD/PSVC”; no other changes to text.]

2.0 COMBINED PARCELS—PARCEL POST OBMC PRESORT, BMC PRESORT, AND DSCF RATES

2.1 Qualification

[Amend 2.1a, b, and c by replacing “Standard Mail (A)” with “Standard Mail,” and by replacing “Standard Mail (B)” with “Package Services mail”; no other changes to text.]

2.2 Authorization

[Amend 2.2 by replacing “Standard Mail (A)” with “Standard Mail,” and by replacing “Standard Mail (B)” with “Package Services mail”; no other changes to text.]

2.3 Postage Payment

[Amend 2.3 by replacing “P710” with “P910.”]

2.4 Preparation and Rates

[Amend 2.4 by replacing “Standard Mail (A)” with “Standard Mail,” and by replacing “Standard Mail (B)” with “Package Services mail”; no other changes to text.]

2.5 Documentation

[Amend 2.5 by replacing “Standard Mail (A)” with “Standard Mail,” and by replacing “Standard Mail (B)” with “Package Services mail”; no other changes to text.]

* * * * *

M074 Plant Load Mailings

* * * * *

3.0 INTERSERVICE AREA PLANT-LOADED SHIPMENTS

* * * * *

[Revise heading of 3.4 to reflect the new mail class names to read as follows:]

3.4 Standard Mail and Package Services

[Amend 3.4 by replacing “Standard Mail” with “Standard Mail and Package Services mail”; no other changes to text.]

* * * * *

[Amend 3.7c by replacing “Standard Mail” with “Standard Mail and Package Services mail”; no other changes to text.]

* * * * *

M100 First-Class Mail (Nonautomation)

[Add new headings M110 and 1.0 to read as follows:]

M110 Single-Piece First-Class Mail

1.0 PREPARATION

[Redesignate E130.2.3 as M110.1.0; no changes in text.]

* * * * *

M600 Standard Mail

[Amend the heading of M610 by removing “(A)” to read as follows:]

M610 Presorted Standard Mail

1.0 BASIC STANDARDS

* * * * *

[Amend the heading and contents of 1.3 by replacing “Standard Mail (A)” with “Standard Mail”; no other changes to text.]

* * * * *

4.0 FLAT-SIZE PIECES AND IRREGULAR PARCELS

* * * * *

[Amend 4.6 by replacing “Standard Mail (A)” with “Standard Mail”; no other changes to text.]

* * * * *

[Delete 6.0 pertaining to preparation of bedloaded bundles of flats.]

M620 Enhanced Carrier Route Standard Mail

1.0 BASIC STANDARDS

1.1 All Mailings

[Amend 1.1a by replacing “E620” with “E630”.]

* * * * *

[Revise the heading of 1.4 to read as follows:]

1.4 Exception

[Amend 1.4 by replacing “Standard Mail (A)” with “Standard Mail”.]

* * * * *

5.0 RESIDUAL PIECES

[Amend 5.0 by replacing “Standard Mail (A)” with “Standard Mail”.] changes to text.]

[Delete 6.0 pertaining to preparation of bedloaded bundles of flats.]

[Add new section M700 to read as follows:]

M700 Package Services

[Redesignate M630.1.0 as M710 to read as follows:]

M710 Parcel Post

[Add new heading 1.0 to read as follows:]

1.0 BASIC REQUIREMENTS

[Add 1.1 to read as follows:]

1.1 General

All mailings at Parcel Post rates are subject to these general standards:

a. Each mailing must meet the applicable standards in E710, E711, E751, and M010 and M030.

b. All pieces that are palletized must be prepared under M045, and if sacked, prepared under M710.

c. There are no presort, sacking, or labeling standards for single-piece rate Parcel Post.

[Redesignate M630.1.1 as M710.1.2, no changes to text.]

[Redesignate M630.1.2 as M710.1.3, amend to show DSCF and DDU rate mail need not be separated by zone, and amend for numbering revisions to read as follows:]

1.3 Separation

Except for mail entered at DSCF or DDU rates (which are not zoned rates), Parcel Post pieces must be separated by zones when presented for acceptance unless either the correct postage is affixed to each piece or the mailing is prepared under 1.4, or presented under a special postage payment system under P910, P920, or P930. If DSCF sacks prepared under 2.2 are included in the same mailing as DSCF pallets prepared under M045.12.1e, at the time of acceptance the mailer must separate the sacks that are overflow from palletized mail from those sacks that were prepared under the provisions of 2.2.

[Redesignate M630.8.0 as E710.1.4; amend to delete references to Bound Printed Matter, to read as follows:]

1.4 Commingled Zones

Zoned Parcel Post pieces need not be separated by zones when presented other than as individual pieces or with full correct postage affixed to each piece, subject to this section. Nonidentical-weight pieces not bearing the full correct postage may not be commingled unless authorized by the RCSC manager serving the office of mailing. The mail must be prepared and documented:

a. Under P910 or P930; or

b. Under all these conditions:

(1) The mail must be sacked or palletized.

(2) A unique number is assigned to each sack/pallet in the mailing and printed on a separate line at the top of the sack/pallet label (above the Line 1 information).

(3) A detailed list accompanies each mailing or mailing segment, sequenced numerically by the numbers assigned to sacks/pallets in the mailing, that shows the post office where the mail is to be entered (entry post office), a unique identifier for the mailing or mailing segment that also appears on the corresponding postage statement(s), the name and address of the mailer, the permit number (if applicable), the date of mailing, individual line entries for each sack/pallet, and the total number of pieces to each zone and in the entire mailing or mailing segment. Line entries for sacks/pallets containing mail for only one zone must show the sack/pallet number, the sortation level, the zone for which the mail is destined, and the total number of pieces for the sack/pallet. Entries for sacks/pallets containing mail for more than one zone must also show (by zone) the number of pieces to each 3-digit ZIP Code area and the total number of pieces for that zone for the sack/pallet. Mailings are not accepted if there are discrepancies between the information in the detailed listing or on the postage statement and the results of USPS random verification of piece counts and postage.

* * * * *

[Redesignate M630.1.3 as M710.1.5, and amend by changing references from “P710, P720, or P730” to “P910, P920, or P930,” and clarifying to read as follows:]

1.5 Documentation

Parcel Post mailings must be documented as follows:

a. Postage Statement. A complete, signed postage statement, using the correct USPS form or an approved facsimile, must accompany each bulk mailing (a mailing that includes pieces qualifying for rates that require a 50-piece minimum volume requirement).

b. Other Documentation. When presented for acceptance, documentation of postage by entry office and presort level (e.g., by BMC for DBMC, OBMC Presort and BMC Presort mail and by 5-digit ZIP Code for DSCF and DDU rates) is required under P910, P920, or P930. Except for DSCF rate mail palletized under the alternate preparation option that requires separate documentation, documentation other than the postage statement is not required when the correct rate is affixed to each piece, or when each piece is of identical weight and the pieces are separated by zone and within each zone are grouped by pieces subject to the same combination of rates. DSCF rate mail palletized under the alternate preparation option in M045 must submit the detailed documentation required in M045.12.2.

[Add 2.0 to read as follows:]

2.0 DSCF RATE

2.1 General

[Redesignate contents of M630.1.4 as M710.2.1; amend by changing the reference “1.5” to “2.2,” by changing the reference “Exhibit E652.6.0” to “Exhibit E751.6.0,” and by changing the reference to “Exhibit E652.7.0 and Exhibit E652.8.0” to “Exhibit E751.7.0 and Exhibit E751.8.0”; no other changes to text.”]

2.2 DSCF Sack Preparation

[Redesignate M630.1.5 as M710.2.2; amend redesignated 2.2d by replacing “STD B 5D” with “PSVC PARCELS 5D”; no other change in text.]

3.0 DDU RATE

[Redesignate M630.1.6 as M710.3.0; amend redesignated 3.0b by changing “E652” to “E751”; amend redesignated 3.0d by changing “Exhibit E652.7.0 and Exhibit E652.8.0” to “Exhibit E751.7.0 and Exhibit E751.8.0”; amend redesignated 3.0e(2) by changing “STD B 5D” with “PSVC PARCELS 5D,” no other changes to text.

[Add 4.0 to read as follows:]

4.0 OPTIONAL MACHINABLE PARCEL PREPARATION

4.1 Basic Standards

Mailers may opt to prepare Parcel Post machinable parcels in sacks under 4.2 or palletized under M045. Pieces must be separated by zones when presented to the USPS unless either the correct postage is affixed to each piece or the mailing is prepared under 1.4. Pieces for more than one zone may not be placed in the same bundle or sack, and bundles and sacks must be separated by zone when presented to the USPS.

4.1 Sack Preparation

Sack size, preparation sequence, and Line 1 labeling:

a. 5-digit: required (minimum of 10 pieces/20 pounds, smaller volume not permitted); for Line 1, use 5-digit ZIP Code destination of pieces, preceded for military mail by the prefixes under M031.

b. Destination ASF: optional; allowed only for mail deposited at an ASF to claim the DBMC rate (minimum of 10 pieces/20 pounds, smaller volume not permitted); for Line 1, use L602. Exhibit E751.1.3d determines DBMC rate eligibility.

c. Destination BMC: required (minimum of 10 pieces/20 pounds, smaller volume not permitted); for Line 1, use L601. Exhibit E751.1.3d determines DBMC rate eligibility.

d. Mixed BMC: required (no minimum); for Line 1, use “MXD” followed by the Column B information in L601 for the BMC serving the 3-digit ZIP Code prefix of the entry post office.

4.3 Sack Line 2

Line 2:

a. 5-digit: “PSVC MACH 5D.”

b. ASF: “PSVC MACH ASF.”

c. Destination BMC: “PSVC MACH BMC.”

d. Mixed BMC: “PSVC MACH WKG.”

e. Any Line 2 processing code required by the labeling list must be right-justified.

* * * * *

[Add new M720 to read as follows:]

M720 Bound Printed Matter

M721 Single Piece Rates

1.0 BASIC STANDARDS

1.1 General

There are no presort, sacking or labeling standards for single-piece rate Bound Printed Matter (BPM).

1.2 Markings

Each piece mailed at single-piece BPM rates must be marked “Bound Printed Matter” (or “BPM”) subject to M012.

M722 Presorted Bound Printed Matter

1.0 BASIC STANDARDS

1.1 General

All mailings of Presorted Bound Printed Matter (BPM) are subject to the standards in 2.0 through 4.0 and to these general standards:

a. Each mailing must meet the applicable standards in E710, E712, E752, and in M010, M020, and M030.

b. All pieces in a mailing must be within the same processing category as described in C050. A BPM irregular parcel is a piece that is neither a machinable parcel as defined in C050.4.1, or a flat as defined in C050.3.1. Irregular parcels are also pieces that meet the size and weight standards for a machinable parcel but are not individually boxed or packaged to withstand processing on BMC parcel sorters under C010.

c. All pieces must be sorted to the finest extent possible under 2.0 through 4.0 or palletized under M045.

d. Subject to M012, pieces must be marked “Bound Printed Matter” (or “BPM”) and “Presorted” (or “PRSRT”).

1.2 Documentation

A complete, signed postage statement, using the correct USPS form or an approved facsimile, must accompany each mailing. Documentation of postage is not required if the correct rate is affixed to each piece or if each piece is of identical weight and the pieces are separated by rate (zone) when presented for acceptance.

1.3 Separation

Pieces for each zone must be sacked separately. When presented for verification, sacks must be separated by zone. Exception: Pieces for different zones may be sacked together and the sacks do not have to separated by zone for verification if any of the following apply:

a. Full (exact) postage is affixed to each piece in the mailing.

b. The mailing is prepared under P910, P930 or 1.4.

c. The pieces are claimed at DSCF or DDU rates.

1.4 Commingling Zones

Zone rated BPM need not be separated by zones when presented other than as individual pieces or with full correct postage affixed to each piece, subject to this section. Nonidentical-weight pieces not bearing the full correct postage may not be commingled unless authorized by the RCSC manager serving the office of mailing. The mail must be prepared and documented:

a. Under P910 or P930; or

b. Under all these conditions:

(1) A unique number is assigned to each pallet in the mailing and printed on a separate line at the top of the pallet label (above the Line 1 information).

(2) A detailed list accompanies each mailing or mailing segment, sequenced numerically by the numbers assigned to the pallets in the mailing, that shows the post office where the mail is to be entered (entry post office), a unique identifier for the mailing or mailing segment that also appears on the corresponding postage statement, the name and address of the mailer, the permit number, the date of mailing, individual line entries for each pallet, and the total number of pieces to each zone in the entire mailing or mailing segment. Line entries for pallets containing mail for only one zone must show the pallet number, the sortation level, the zone for which the mail is destined, and the total number of pieces for the pallet. Entries for pallets containing mail for more than one zone must also show (by zone) the number of pieces to each 3-digit ZIP Code area and the total number of pieces for that zone for the pallet. Mailings are not accepted if there are discrepancies between the information in the detailed listing or on the postage statement and the results of USPS random verification of piece counts and postage.

2.0 REQUIRED PREPARATION-FLATS

2.1 Package Preparation

A package must be prepared when the quantity of addressed pieces for a required presort level reaches a minimum of 10 pieces, or 10 pounds, whichever occurs first. Smaller volumes not permitted except for mixed ADC packages. The maximum weight of each physical package is 20 pounds, except that 5-digit packages placed in 5-digit sacks may weigh a maximum of 40 pounds each. Each package (except mixed ADC packages) must contain at least 2 addressed pieces. Packages must be prepared and labeled in the following required sequence:

a. 5-digit: required; red Label D or optional endorsement line (OEL).

b. 3-digit: required, green Label 3 or OEL.

c. ADC: required, pink Label A or OEL.

d. Mixed ADC: required; tan Label MXD or OEL.

2.2 Sack Preparation

A sack must be prepared when the quantity of mail for a required presort destination reaches either 20 addressed pieces, or 20 pounds, whichever occurs first. Smaller volumes not permitted (except mixed ADC sacks). Required preparation sequence and Line 1 sack labeling:

a. 5-digit: required; for Line 1, use 5-digit ZIP Code destination of packages (for military mail, the ZIP Code is preceded by the prefixes under M031).

b. 3-digit: required; for Line 1, use L002, Column A.

c. SCF: optional; for Line 1, use L005, Column B.

d. ADC: required; for Line 1, use L004, Column B.

e. Mixed ADC: required; for Line 1, use “MXD” followed by the city/state/ZIP Code of the ADC serving the 3-digit ZIP Code of the entry post office, as shown in L004, Column B.

2.3 Sack Label Line 2

Line 2 information:

a. 5-digit: “PSVC FLATS 5D NON BC.”

b. 3-digit: “PSVC FLATS 3D NON BC.”

c. SCF: “PSVC FLATS SCF NON BC.”

d. ADC: “PSVC FLATS ADC NON BC.”

e. Mixed ADC: “PSVC FLATS NON BC WKG.”

3.0 REQUIRED PREPARATION-IRREGULAR PARCELS WEIGHING 10 POUNDS OR LESS

3.1 Package Preparation

A package must be prepared when the quantity of addressed pieces for a required presort level reaches a minimum of 10 pieces, or 10 pounds, whichever occurs first. Smaller volumes not permitted except for mixed ADC packages. The maximum weight of each physical package is 20 pounds, except that 5-digit packages placed in 5-digit sacks or prepared for and entered at DDU rates may weigh a maximum of 40 pounds each. Each physical package must contain at least 2 addressed pieces (except mixed ADC). Packages must be prepared and labeled in the following required sequence:

(1) 5-digit: required; red Label D or optional endorsement line (OEL).

(2) 3-digit: required; green Label 3 or OEL.

(3) ADC: required; pink Label A or OEL.

(4) Mixed ADC: required; (no minimum): tan Label MXD or OEL.

3.2 Sack Preparation

A sack must be prepared when the quantity of mail for a required presort destination reaches either 10 addressed pieces, or 20 pounds, whichever occurs first. Smaller volumes not permitted (except mixed ADC sacks). Required preparation sequence, and Line 1 labeling:

a. 5-digit: required; for Line 1, use 5-digit ZIP Code destination of packages (for military mail, the ZIP Code is preceded by the prefixes under M031).

b. 3-digit: required; for Line 1, use L002, Column A.

c. SCF: optional; for Line 1, use L005, Column B.

d. ADC: required; for Line 1, use L004, Column B.

e. Mixed ADC: required (no minimum); for Line 1, use “MXD” followed by the city/state/ZIP Code of the ADC serving the 3-digit ZIP Code of the entry post office, as shown in L004, Column B.

3.3 Sack Label Line 2

Line 2 information:

a. 5-digit: “PSVC IRREG 5D.”

b. 3-digit: “PSVC IRREG 3D.”

c. SCF: “PSVC IRREG SCF.”

d. ADC: “PSVC IRREG ADC.”

e. Mixed ADC: “PSVC IRREG WKG.”

3.4 Exception to Sacking

Sacking is not required for 5-digit packages when prepared for and entered at DDU rates; such packages may be bedloaded and may weigh up to 40 pounds.

4.0 REQUIRED PREPARATION-IRREGULAR PARCELS WEIGHING OVER 10 POUNDS

4.1 Piece Preparation

Packaging is not permitted for pieces weighing over 10 pounds except under 4.4. Each piece must be enclosed in an envelope, full-length sleeve, full-length wrapper, or polybag.

4.2 Sack Preparation

A sack must be prepared when the quantity of mail for a required presort destination reaches either 10 addressed pieces, or 20 pounds, whichever occurs first. Smaller volumes not permitted (except mixed ADC sacks). Required preparation sequence, and Line 1 labeling:

a. 5-digit: required; for Line 1, use 5-digit ZIP Code destination of packages (for military mail, the ZIP Code is preceded by the prefixes under M031).

b. 3-digit: required; for Line 1, use L002, Column A.

c. SCF: optional; for Line 1, use L005, Column B.

d. ADC: required; for Line 1, use L004, Column B.

e. Mixed ADC: required (no minimum); for Line 1, use “MXD” followed by the city/state/ZIP Code of the ADC serving the 3-digit ZIP Code of the entry post office, as shown in L004, Column B.

4.3 Sack Label Line 2

Line 2 information:

a. 5-digit: “PSVC IRREG 5D.”

b. 3-digit: “PSVC IRREG 3D.”

c. SCF: “PSVC IRREG SCF.”

d. ADC: “PSVC IRREG ADC.”

e. Mixed ADC: “PSVC IRREG WKG.”

4.4 Exception to Sacking

Pieces may be prepared only in 5-digit packages when entered at DDU rates; such packages may be bedloaded and may weigh up to 40 pounds.

5.0 REQUIRED PREPARATION-MACHINABLE PARCELS

5.1 Sack Preparation DBMC Rates Not Claimed

A sack must be prepared when the quantity of parcels for a required presort destination reaches either 10 addressed pieces, or 20 pounds, whichever occurs first. Smaller volumes not permitted except in origin (mixed) BMC sacks. Required preparation sequence and Line 1 sack labeling:

a. 5-digit: required; for Line 1, use 5-digit ZIP Code destination of parcels (for military mail, the ZIP Code is preceded by the prefixes under M031).

b. BMC: required; for Line 1, use L601, Column B.

c. Origin (mixed) BMC: required (no minimum); for Line 1, “MXD” followed by the information in L601, Column B, for the BMC serving the 3-digit ZIP Code of the entry post office.

5.2 Sack Label Line 2 DBMC Rates Not Claimed

Line 2 information:

a. 5-digit: “PSVC MACH 5D.”

b. BMC: “PSVC MACH BMC.”

c. Mixed BMC: “PSVC MACH WKG.”

5.3 Sack Preparation for DBMC Rates

A sack must be prepared when the quantity of parcels for a required presort destination reaches either 10 addressed pieces, or 20 pounds, whichever occurs first. Smaller volumes not permitted except in origin (mixed) BMC sacks. See E752 for DBMC rate eligibility. Required preparation sequence and Line 1 sack labeling:

a. 5-digit: required; for Line 1, use 5-digit ZIP Code destination of parcels (for military mail, the ZIP Code is preceded by the prefixes under M031).

b. Destination ASF: optional; allowed only for mail deposited at an ASF to claim DBMC rate; for Line 1, use L602. DBMC rate eligibility is determined by E752 and Exhibit E751.5.0.

c. Destination BMC: required; for Line 1, use L601, Column B. DBMC rate eligibility is determined by E752 and Exhibit E751.5.0.

d. Origin (mixed) BMC: required (no minimum); for Line 1, “MXD” followed by the information in L601, Column B, for the BMC serving the 3-digit ZIP Code of the entry post office.

5.4 Sack Label Line 2 for DBMC Rates

Line 2 information:

a. 5-digit: “PSVC MACH 5D.”

b. ASF: “PSVC MACH ASF.”

c. BMC: “PSVC MACH BMC.”

d. Mixed BMC: “PSVC MACH WKG.”

M723 Carrier Route Bound Printed Matter

1.0 BASIC STANDARDS

1.1 General

All mailings of Carrier Route Bound Printed Matter (BPM) are subject to the standards in 2.0 through 4.0 and to these general standards:

a. Each mailing must meet the applicable standards in E710, E712, E752, and in M010, M020, and M030.

b. All pieces in a mailing must be within the same processing category as described in C050. A BPM irregular parcel is a piece that is neither a machinable parcel as defined in C050.4.1, or a flat as defined in C050.3.1. Irregular parcels are also pieces that meet the size and weight standards for a machinable parcel but are not individually boxed or packaged to withstand processing on BMC parcel sorters under C010.

c. All pieces must be sorted to the finest extent possible under 2.0 through 4.0 or palletized under M045.

d. Subject to M012, pieces must be marked “Bound Printed Matter” (or “BPM”), and “Carrier Route Presort” (or “CAR-RT SORT”).

1.2 Documentation

A complete, signed postage statement, using the correct USPS form or an approved facsimile, must accompany each mailing. Documentation of postage is not required if the correct rate is affixed to each piece or if each piece is of identical weight and the pieces are separated by rate (zone) when presented for acceptance.

1.3 Separation

Pieces for each zone must be sacked separately. When presented for verification, sacks must be separated by zone. Exception: Pieces for different zones may be sacked together and the sacks do not have to separated for verification if any of the following apply:

a. Full postage is affixed to each piece in the mailing.

b. The mailing is prepared under P910, P930 or 1.4.

c. The pieces are claimed at DSCF or DDU rates.

1.4 Commingling Zones

Zone rated BPM need not be separated by zones when presented other than as individual pieces or with full correct postage affixed to each piece, subject to this section. Nonidentical-weight pieces not bearing the full correct postage may not be commingled unless authorized by the RCSC manager serving the office of mailing. The mail must be prepared and documented:

a. Under P910 or P930; or

b. Under all these conditions:

(1) A unique number is assigned to each pallet in the mailing and printed on a separate line at the top of the pallet label (above the Line 1 information).

(2) A detailed list accompanies each mailing or mailing segment, sequenced numerically by the numbers assigned to the pallets in the mailing, that shows the post office where the mail is to be entered (entry post office), a unique identifier for the mailing or mailing segment that also appears on the corresponding postage statement, the name and address of the mailer, the permit number (if applicable), the date of mailing, individual line entries for each pallet, and the total number of pieces to each zone and in the entire mailing or mailing segment. Line entries for pallets containing mail for only one zone must show the pallet number, the sortation level, the zone for which the mail is destined, and the total number of pieces for the pallet. Entries for pallets containing mail for more than one zone must also show (by zone) the number of pieces to each 3-digit ZIP Code area and the total number of pieces for that zone for the pallet. Mailings are not accepted if there are discrepancies between the information in the detailed listing or on the postage statement and the results of USPS random verification of piece counts and postage.

1.5 Residual Pieces

Residual pieces not sorted under 2.0, 3.0, or 4.0, may be prepared as a Presorted Bound Printed Matter mailing under M722 provided that they are that are part of the same mailing job and reported on the same postage statement. Pieces at the Presorted rate do not need to meet a separate 300 piece minimum. These pieces must be separated from the qualifying carrier route portion when presented to the USPS for verification. Presorted flats are not eligible for DDU rates.

2.0 REQUIRED PREPARATION—FLATS

2.1 Package Preparation

A carrier route package (or packages) must be prepared when there are 10 or more addressed pieces or 10 or more pounds, whichever occurs first, for an individual carrier route. Smaller volumes are not permitted to be prepared in carrier route packages. The maximum weight of each physical package is 40 pounds. Each package must contain at least 2 addressed pieces except for the last package for each carrier route destination under M020. Packages must be labeled with a facing slip unless the package is labeled using a carrier route information line (M014) or an optional endorsement line (M013).

2.2 Sack Preparation

A carrier route sack must be prepared when the quantity of mail for an individual carrier route reaches a minimum of 20 addressed pieces, or 20 pounds, whichever occurs first. Smaller volumes must not be prepared in a direct carrier route sack. Mail that cannot be prepared in a direct carrier route sack may be placed in a 5-digit scheme carrier routes sack and/or a 5-digit carrier routes sack. Preparation sequence and Line 1 sack labeling:

a. Carrier route: required; for Line 1, use 5-digit ZIP Code destination of packages (for military mail, the ZIP Code is preceded by the prefixes under M031).

b. 5-digit scheme carrier routes: optional (no minimum); for Line 1, use L001, Column B.

c. 5-digit carrier routes: required (no minimum); for Line 1, use 5-digit ZIP Code destination of packages, (for military mail, the ZIP Code is preceded by the prefixes under M031).

2.3 Sack Label Line 2

Line 2 information:

a. Carrier route: “PSVC FLATS CR,” followed by the route type and number.

b. 5-digit scheme carrier routes: “PSVC FLATS CR-RTS SCH.”

c. 5-digit carrier routes: “PSVC FLATS CR-RTS.”

2.4 Exception to Sacking

Sacking is not required for packages when prepared for and entered at DDU rates; such packages may be bedloaded and may weigh up to 40 pounds.

3.0 REQUIRED PREPARATION—IRREGULAR PARCELS WEIGHING 10 POUNDS OR LESS

3.1 Package Preparation

No packaging is required in direct carrier route sacks. Otherwise, a carrier route package (or packages) must be prepared when the quantity of addressed pieces for a carrier route reaches a minimum of 10 pieces, or 20 pounds, whichever occurs first. Smaller volumes are not permitted to be prepared in carrier route packages except for the last package for each carrier route destination under M020. The maximum weight of each physical package is 40 pounds. Each package must contain at least 2 addressed pieces. Packages must be labeled with a facing slip unless the package is labeled using a carrier route information line (M014) or an optional endorsement line (M013).

3.2 Sack Preparation

A direct carrier route sack must be prepared when the quantity of mail for an individual carrier route reaches a minimum of 10 addressed pieces, or 20 pounds, whichever occurs first. Smaller volumes permitted in 5-digit carrier routes sacks. Required preparation sequence and Line 1 labeling:

a. Carrier route: required; for Line 1, use 5-digit ZIP Code destination of packages (for military mail, the ZIP Code is preceded by the prefixes under M031).

b. 5-digit carrier routes: required; for Line 1, use 5-digit ZIP Code destination of packages (for military mail, the ZIP Code is preceded by the prefixes under M031).

3.3 Sack Label Line 2

Line 2 information:

a. Carrier route: “PSVC IRREG CR,” followed by the route type and number.

b. 5-digit carrier routes: “PSVC IRREG CR-RTS.”

3.4 Exception to Sacking

Sacking is not required for packages when prepared for and entered at DDU rates; such packages may be bedloaded and may weigh up to 40 pounds.

4.0 REQUIRED PREPARATION—IRREGULAR PARCELS WEIGHING OVER 10 POUNDS

4.1 Carrier Route Sack Preparation

Irregular parcels must be prepared only in direct carrier route sacks. Each carrier route sack must contain a minimum of 20 pounds. Smaller volumes not permitted. Required preparation:

a. Line 1 labeling: Use 5-digit ZIP Code destination of the pieces.

b. Line 2 information: “PSVC IRREG CR,” followed by the route type and number.

5.0 REQUIRED PREPARATION—MACHINABLE PARCELS

5.1 Carrier Route Sack Preparation

Machinable parcels may be prepared only in direct carrier route sacks. Each carrier route sack must contain a minimum of 10 addressed pieces, or 20 pounds, whichever occurs first. Smaller volumes not permitted. Required preparation:

a. Line 1 labeling: Use 5-digit ZIP Code destination of the pieces.

b. Line 2 information: “PSVC MACH CR,” followed by the route type and number.

* * * * *

[Add new heading M730 to read as follows:]

M730 Media Mail

[Add heading 1.0 to read as follows:]

1.0 BASIC STANDARDS

[Redesignate M630.4.1 through M630.4.3 as M730.1.1 through M730.1.3 respectively.]

[Amend the heading of redesignated 1.1 to read as follows:]

1.1 General

[Revise redesignated 1.1 to read as follows:]

There are no preparation standards for single-piece Media Mail. Presorted Media Mail must be prepared under 2.0 unless prepared on pallets under M045, or as outside parcels under E713. Mailings of nonmachinable (outside) parcels eligible for presort rates must be prepared to preserve the required presort as instructed by the mailing office postmaster.

1.2 Marking

[Amend redesignated 1.2 by “Special Standard Mail” with “Media Mail” and “SPEC STD” with “Media Mail”; no other changes to text.]

* * * * *

[Add new heading 2.0 to read as follows:]

2.0 PREPARATION

[Redesignate M630.4.4 through M630.4.6 as M730.2.1 through M730.2.3, respectively.]

[Amend the heading of redesignated 2.1 to read as follows:]

2.1 Sack or Package on Pallet Preparation (5-Digit Rate)

[Amend 2.1 to read as follows:]

5-digit sack or package size (for packages on pallets) and labeling: 5-digit (only); required (minimum of eight pieces/20 pounds, smaller volume not permitted); 20-pound maximum for packages on pallets; no label required on packages; on sacks, use 5-digit ZIP Code destination of pieces for Line 1, preceded for military mail by the prefixes under M031.

2.2 Sack Preparation (BMC Rate)

[Amend redesignated M730.2.2 by removing “/1,000 cubic inches”.]

2.3 Sack Line 2

[Amend redesignated M730.2.3a and b by replacing “STD” and “STD B” with “PSVC”; no other changes to text.]

* * * * *

[Add new heading M740 to read as follows:]

M740 Library Mail

[Add heading 1.0 to read as follows:]

1.0 BASIC STANDARDS

[Redesignate M630.5.1 through M630.5.3 as M7401.1 through M74.1.3, respectively.

1.1 General

[Amend redesignated M740.1.1 by replacing “E630.5.0” with “E714”; no other changes to text.]

1.2 Marking

[Amend redesignated 1.2 to eliminate “Library Rate” as optional marking in the first sentence and delete the last sentence to read as follows:]

Each piece claimed at Library Mail rates must be marked “Library Mail” under M012. Each piece claimed at presorted Library Mail rates also must be marked “Presorted” or “PRSRT” under M012.

* * * * *

[Add new heading 2.0 to read as follows:]

2.0 PREPARATION

[Redesignate M630.5.4 through M630.5.6 as M740.2.1 through M740.2.3, respectively.]

2.1 Sack Preparation (5-Digit Rate)

[Amend redesignated 2.1 by removing “/1,000 cubic inches”.]

2.2 Sack Preparation (BMC Rate)

[Amend redesignated 2.2 by removing “/1,000 cubic inches”.]

2.3 Sack Line 2

[Amend redesignated M740.2.3 a and M740.2.3b by replacing “STD” and “STD B” with “PSVC”; no other changes to text.]

* * * * *

M800 All Automation Mail

* * * * *

M820 Flat-Size Mail

1.0 BASIC STANDARDS

* * * * *

1.2 Mailings

[Amend 1.2 by revising the second and third sentences to read as follows:]

* * * First-Class Mail and Periodical mailings may include pieces prepared at automation 5-digit, 3-digit and basic rates, as applicable. Standard Mail mailings may include pieces prepared at automation 3/5 and basic rates. * * *

* * * * *

1.5 Package Preparation

[Amend the first sentence of 1.5 by adding exception to read as follows; and amend the fourth sentence by replacing the “3.1 or 4.1” with “4.1 or 5.1”:]

Except for First-Class Mail prepared under 3.0, all pieces must be prepared in packages. * * *

* * * * *

[Add new 1.11 to read as follows:]

1.11 Tray-Based Preparation

For First-Class Mail prepared under the tray-based option in 3.0, mailers may not combine FSM 881 and FSM 1000 pieces in the same mailing.

* * * * *

[Revise 2.0 heading to read as follows:]

2.0 FIRST-CLASS MAIL—REQUIRED PACKAGE-BASED PREPARATION

[Amend 2.1a to make preparation of 5-digit packages optional to read as follows:]

2.1 Package Preparation

Package size, preparation sequence, and labeling:

a. 5-digit: optional, but required for 5-digit rate eligibility (10-piece minimum, fewer not permitted); red Label D or optional endorsement line (OEL).

* * * * *

[Amend 2.2a to make preparation of 5-digit trays optional and to change “M031” to “M032” to read as follows:]

2.2 Tray Preparation

Tray size, preparation sequence, and Line 1 labeling:

a. 5-digit: optional, but required for 5-digit rate eligibility, full trays, no overflow; for Line 1, use 5-digit ZIP Code destination of packages, preceded for military mail by the prefixes under M032.

* * * * *

[Redesignate current 3.0 and 4.0 as 4.0 and 5.0, respectively, and add new 3.0 to read as follows:]

3.0 FIRST-CLASS MAIL—OPTIONAL TRAY-BASED PREPARATION

Tray size, preparation sequence and Line 1 labeling:

a. 5-digit: optional, but 5-digit trays required for rate eligibility (90-piece minimum, fewer not permitted); one less-than-full or overflow tray allowed; for Line 1, for 5-digit trays, use 5-digit ZIP Code destination of pieces, preceded for military mail by the prefixes under M031. (Preparation to qualify for 5-digit rate is optional and need not be done for all 5-digit destinations.)

b. 3-digit: required (90-piece minimum, fewer not permitted); one less-than-full or overflow tray allowed; for Line 1 use L002, Column A for 3-digit destinations.

c. Origin 3-digit: required for each 3-digit ZIP Code served by the SCF of the origin (verification) office; no minimum; for Line 1 use L002, Column A for 3-digit destinations.

d. ADC: required: (90-piece minimum, fewer not permitted); one less-than-full or overflow tray allowed; group pieces by 3-digit ZIP Code prefix; for Line 1 use L004, (ZIP Code prefixes in Column A must be combined and labeled to the corresponding ADC destination shown in Column B) As an exception, pieces do not have to be grouped by 3-digit ZIP Code prefix in ADC trays, if the mailing is prepared using a MLOCR/barcode sorter and standardized documentation is submitted.

e. Mixed ADC: required (no minimum for rate eligibility); group pieces by ADC; for Line 1, use “MXD” followed by the city/state/ZIP of the facility serving the 3-digit ZIP Code of the entry post office, as shown in L002, Column C. As an exception, pieces do not have to be grouped by ADCs in mixed ADC trays, if the mailing is prepared using a MLOCR/barcode sorter and standardized documentation is submitted.

* * * * *

M900 Advanced Preparation Options

M910 Co-Traying and Co-Sacking of Automation Rate and Presorted Rate Mailings of Flat-Size Mail

1.0 FIRST-CLASS MAIL

* * * * *

1.2 Package Preparation

[Amend 1.2 by changing “M820” to “M820.2.1” to read as follows:]

The automation rate mailing must be packaged and labeled under M820 2.1. The Presorted rate mailing must be packaged and labeled under M130.

* * * * *

P000 Postage and Payment Methods

P010 General Standards

P011 Payment

1.0 PREPAYMENT AND POSTAGE DUE

1.1 Prepayment Conditions

[Amend 1.1 by redesignating 1.1b through 1.1e as 1.1c through 1.1f, respectively. Add new item 1.1b to read as follows:]

The mailer is responsible for proper payment of postage. Postage on all mail must be fully prepaid at the time of mailing, except as specifically provided by standard for:

* * * * *

b. Merchandise return service (S923).

* * * * *

3.0 COLLECTION OF POSTAGE DUE

* * * * *

[Add new 3.3 and 3.4 to clarify standards for advance deposit accounts and annual accounting fees to read as follows:]

3.3 Advance Deposit Account

Mailers may choose to establish an advance deposit account(s) from which postage, per-piece charges, and other fees are deducted. For certain special services, an advance deposit account is required. Except for business reply mail, which requires a separate account, mailers may use a single advance deposit account to pay postage due charges for more than one special service (e.g., merchandise return service and bulk parcel return service).

3.4 Annual Accounting Fee

Except for accounts used solely to pay postage due for shortpaid mail, address correction notices, and undeliverable-as-addressed pieces returned to sender (e.g., return service requested), mailers must pay a separate annual accounting fee for each special service paid through an advance deposit account. This fee covers the administrative cost of maintaining the account and provides the mailer with the accounting of all charges deducted from that account. The accounting fee is charged once each 12-month period on the anniversary date of the initial accounting fee payment. The fee may be paid in advance only for the next year and only during the last 30 days of the current service period. The fee charged is that which is in effect on the date of payment.

* * * * *

P012 Documentation

* * * * *

[Amend the heading of 2.0 by replacing “Standard Mail (A)” with “Standard Mail” to read as follows:]

2.0 STANDARDIZED DOCUMENTATION—FIRST-CLASS MAIL, PERIODICALS, AND STANDARD MAIL

2.1 Basic Standard

[Amend 2.1 by replacing “Standard Mail (A)” with “Standard Mail”; no other changes to text.]

2.2 Format and Content

[Amend 2.2 by replacing “Standard Mail (A)” with “Standard Mail”; and add new 2.2c(3)(c) and amend 2.2c(6) by adding second sentence to read as follows:]

* * * * *

c. For mail in trays or sacks, the body of the listing reporting these required elements:

* * * * *

(3) * * * ; or (c) group destination for automation flats prepared under the tray-based option for each 3-digit in ADC trays and for each ADC in mixed ADC trays.

* * * * *

(6) * * * The tray identification number is optional for tray-based automation flats.

* * * * *

2.3 Rate Level Column Headings

* * * * *

[Amend 2.3 by replacing all references to “Standard Mail (A)” with “Standard Mail” and by revising 2.3a to provide for separate 5-digit and 3-digit rates for automation First-Class flats to read as follows:]

The actual name of the rate level (or corresponding abbreviation) is used for column headings required by 2.2 and shown below:

a. Automation First-Class Mail, Periodicals, and Standard Mail:

Rate | Abbreviation
* * * * * * *
5-Digit [First-Class Mail letters/cards and flats, Periodicals letters and flats and Standard Mail letters] | 5B
3-Digit [First-Class Mail letters/cards and flats, Periodicals letters and flats and Standard Mail letters] | 3B
* * * * * * *
3/5 [Standard Mail flats] | 3/5 B
* * * * * * *

* * * * *

P013 Rate Application and Computation

1.0 BASIC STANDARDS

* * * * *

[Amend 1.3 by replacing “Special Standard Mail” with “Media Mail”; no other changes to text.]

1.4 Affixing Postage—Single-Piece Rate Mailings

[Amend 1.4 by replacing “Standard Mail (B)” with “Package Services and amend the first sentence to read as follows:]

In a postage-affixed Express Mail, Priority Mail, single-piece First-Class Mail, or Package Services mailing, the mailer must affix to each piece a value in adhesive stamps or meter stamps equal to at least the postage required. A mailer may also use precanceled stamps on single-piece First-Class Mail. Less than the correct amount of postage may be affixed only when permitted by standard or specific USPS authorization.

1.5 Affixing Postage—Other Than Single-Piece Rate Mailings

[Amend 1.5 by replacing “Standard Mail” with “Standard Mail and “Package Services, and amend the introductory paragraph to read as follows:]

In a First-Class Mail postage affixed mailing other than single-piece or a Standard Mail presorted mailing, the mailer must affix to each piece a value in precanceled stamps or meter impressions that equals at least the full amount of postage at the applicable rate. In a Package Services postage affixed mailing other than single-piece mailing, the mailer must affix to each piece a value in meter impressions that equals at least the full amount of postage at the applicable rate; or

a. For First-Class Mail, the applicable postage at the lowest rate claimed in the mailing (or a lesser amount if authorized under P760) if all additional postage is paid at the time of mailing.

b. For Standard Mail, the minimum per piece charge, with the pound rate charge paid with permit imprint under the applicable standards; or the applicable postage at the lowest rate claimed in the mailing (or a lesser amount if authorized under P760) if all additional postage is paid at the time of mailing.

* * * * *

2.0 RATE APPLICATION—EXPRESS MAIL, FIRST-CLASS MAIL, AND PRIORITY MAIL

* * * * *

2.4 Priority Mail

[Amend 2.4 by revising the third sentence to read as follows:]

* * * The minimum postage amount per addressed piece is that for a piece weighing 1 pound. * * *

* * * * *

[Amend 2.6 by revising the second sentence to read as follows:]

2.6 Keys and Identification Devices

• * * * Keys and identification devices weighing more than 13 ounces but not more than 1 pound are mailed at the 1-pound Priority Mail rate plus the fee in R100.9.0; keys and identification devices weighing over 1 pound but not more than 2 pounds are mailed at the 2-pound rate plus the fee in R100.9.0.

3.0 RATE APPLICATION—PERIODICALS

* * * * *

3.2 Applying Pound Rate

[Amend 3.2 by replacing “Regular and Preferred outside-county” with “Outside-County and Science-of-Agriculture Outside-County” in the second sentence to read as follows:]

* * * Outside-County and Science-of-Agriculture Outside-County pound rates are based on the weight of the advertising portion of the mail sent to each postal zone (as computed from the entry office) and the weight of the nonadvertising portion without regard to zone.* * *

[Amend 3.3 by replacing “Classroom rate” with “Classroom” in the fourth and last sentence.]

* * * * *

[Amend title of 5.0 by replacing “Standard Mail (B)” with “Package Services” to read as follows:]

5.0 RATE APPLICATION—PACKAGE SERVICES

* * * * *

[Revise heading of 5.4 to read as follows:]

5.4 Media Mail

[Amend 5.4 by replacing “Special Standard Mail” with “Media Mail”; no other changes to text.]

* * * * *

[Amend the heading of 8.0 by replacing “Standard Mail (A)” with “Standard Mail.”]

[Amend heading of 9.0 by replacing “Standard Mail (B) with “Package Services” to read as follows:]

9.0 COMPUTING POSTAGE—PACKAGE SERVICES

[Revise 9.0 in its entirety to clarify how to calculate postage for Package Services:]

9.1 Parcel Post (including Parcel Select), Media Mail, Library Mail, and Single-Piece Bound Printed Matter—Permit Imprint

To compute the total postage for a mailing, for each weight increment, multiply the number of pieces by the applicable rate per piece. Round each product off to four decimal places. Add the products and round up the total postage to the nearest whole cent.

9.2 Parcel Post (including Parcel Select), Media Mail, Library Mail, and Single-Piece Bound Printed Matter—Postage Affixed

For each piece, affix the postage for the weight increment and, if applicable, the zone to which the piece is addressed, as shown in R700. To calculate the total postage for the mailing, add all of the affixed postage amounts for each piece.

9.3 Presorted and Carrier Route Bound Printed Matter—Permit Imprint

Presorted and Carrier Route Bound Printed Matter mailings paid with permit imprint are charged a per pound rate and a per piece rate as follows:

a. Per pound rate:

(1) For pieces 1 pound or less, compute the per pound rate by multiplying the total number of addressed pieces by the 1-pound rate for the rate category and zone. Do not round this result.

(2) For pieces weighing more than 1 pound, compute the per pound rate by multiplying the unrounded total weight of the addressed pieces by the pound rate for the category and zone. Do not round this result.

b. Per-piece rate. Multiply the total number of addressed pieces by the applicable piece rate.

c. Total Postage. Calculate total postage by adding the total per piece calculation to the total per pound calculation. Round off the total postage to the nearest whole cent.

9.4 Presorted and Carrier Route Bound Printed Matter—Postage Affixed

Presorted and Carrier Route Bound Printed Matter mailings with postage affixed are charged a per pound rate and a per piece rate as follows:

a. For each addressed piece, calculate the per pound rate:

(1) If the piece weighs 1 pound or less, the per pound rate is the rate listed in R700.2.0 for the rate category and zone.

(2) If the piece weighs more than 1 pound, compute the per pound rate by multiplying the unrounded weight of the piece by the pound rate for the category and zone. Do not round this result.

b. Postage per piece. Compute the postage for each piece by adding the calculated per pound rate to the per piece rate for the category and zone. Round this number up to the next tenth of a cent. Affix this amount of postage to the piece.

c. Total Postage for Mailing. Add all of the affixed postage amounts for each piece in the mailing.

P014 Refunds and Exchanges

* * * * *

2.0 POSTAGE AND FEES REFUNDS

* * * * *

[Amend 2.3 by replacing “Standard Mail (B)” with “Package Services mail”; no other changes to text.]

2.4 Full Refund

[Amend 2.4 by revising 2.4i to read as follows:]

A full refund (100%) may be made when:

* * * * *

i. An annual presort mailing fee is paid for Presorted First-Class Mail, Standard Mail, Presorted Media Mail, or Presorted Library Mail and when a destination entry mailing fee is paid for destination entry Parcel Post and Bound Printed Matter and no mailings are made during the corresponding 12-month period.

* * * * *

4.0 REFUND REQUEST FOR EXCESS POSTAGE (VALUE ADDED REFUND)—AT TIME OF MAILING

[Amend 4.1, 4.13, 4.14c, 4.14d, 4.17a (5) and 4.17a (6) and by changing “Standard Mail (A)” to “Standard Mail.”]

* * * * *

2.0 PERSONALIZED STAMPED ENVELOPE

P021 Stamped Stationery

* * * * *

2.5 Optional information

[Amend 2.5b by changing “Standard Mail (A)” to “Standard Mail.”]

* * * * *

P022 Postage Stamps

1.0 PURCHASE AND USE

1.2 Postage Due

[Amend 1.2 by removing the second sentence to read as follows:]

Postage due must be paid in cash.

P023 Precanceled Stamps

1.0 BASIC INFORMATION

1.2 Use

[Amend 1.2 by replacing “Standard Mail (A)” with “Standard Mail”.]

3.5 Content of Postmark

[Amend 3.5a by replacing “Standard Mail (A) with “Standard Mail”.]

* * * * *

P030 Postage Meters and Meter Stamps

1.0 BASIC INFORMATION

* * * * *

[Amend 1.5 by replacing “Special Standard Mail” with “Media Mail”; no other changes to text.]

* * * * *

3.0 METER SETTING

* * * * *

[Amend the title of 3.5 by replacing “Setting” with “Service” to read as follows:]

3.5 On-Site Meter Service Program

[Amend the last sentence of 3.5 to show the new categories for on site meter setting and add a new sentence to exclude secured postage devices from the meter service fees.]

* * * The licensee must pay applicable on-site meter service fees in R900 and postage by check or advance deposit account at the time of the meter service. Secured postage meters are not subject to checking in/out fees.

* * * * *

4.0 METER STAMPS

* * * * *

[Amend 4.8 and 4.9 by replacing “Standard Mail” with “Standard Mail and Package Services mail”; no other changes to text.]

* * * * *

5.0 MAILINGS

[Amend 5.1 by replacing “Special Standard Mail” with “Media Mail” and by removing “(A)” from Standard Mail (A)”; no other changes to text.]

* * * * *

P040 Permit Imprints

1.0 BASIC INFORMATION

[Amend 1.1 by replacing “Standard Mail (A)” with “Standard Mail” and “Standard Mail (B)” with “Package Services mail”; no other changes to text.]

* * * * *

2.0 INDICIA PREPARATION

* * * * *

[Amend 2.5 by replacing “Standard Mail (A)” with “Standard Mail”; no other changes to text.]

3.0 INDICIA CONTENT

* * * * *

[Amend 3.2 by changing Standard Mail to Standard Mail and Package Services in the heading and content.]

* * * * *

[Amend 3.4a by replacing “Standard Mail” with “Standard Mail and Package Services.”]

[Amend 3.4b by replacing “Standard Mail (A) with “Standard Mail”; no other changes to text.]

4.0 INDICIA FORMAT

* * * * *

[Amend heading of Exhibit 4.1a by replacing “Standard Mail (A) Official Mail” with “Standard Mail Official Mail” and “Standard Mail (B) Official Mail” with “Package Services Official Mail”; and replace indicia example “SPECIAL STANDARD MAIL” with “MEDIA MAIL”; no other changes to text.]

* * * * *

[Amend the title of Exhibit 4.1b to read as follows:]

Exhibit 4.1b Indicia Formats for First-Class Mail, Standard Mail, and Package Services Mail

[Amend Exhibit 4.1b by replacing “Standard Mail (A)” with “Standard Mail,” “Special Standard Mail” with “Media Mail,” and “PP D/S” with “Parcel Select.”]

* * * * *

P070 Mixed Classes

1.0 ATTACHMENTS OF DIFFERENT CLASSES

[Amend 1.1 by replacing “Standard Mail” with “Standard Mail and Package Service Mail”; no other changes to text.]

[Amend 1.2 and 1.3 by replacing “Standard Mail (A)” with “Standard Mail”; no other changes to text.]

* * * * *

2.0 ENCLOSURE IN PERIODICALS PUBLICATION

[Amend 2.1 through 2.10 by replacing “Standard Mail (A)” with “Standard Mail; no other changes to text.”]

[Revise heading of 3.0 to read as follows:]

3.0 ENCLOSURE IN STANDARD MAIL AND PACKAGE SERVICES MAIL

[Amend 3.2 by replacing “Standard Mail (A)” with “Standard Mail”; no other changes to text.”]

* * * * *

[Amend heading of 5.0 by replacing “Special Standard Mail” with “Media Mail” to read as follows:]

5.0 COMBINED MAILINGS OF MEDIA MAIL AND BOUND PRINTED MATTER

* * * * *

5.4 Rating of Unmarked Parcel

[Amend 5.4 by replacing “Special Standard Mail” with “Media Mail” and Amend the introductory paragraph in 5.4 to include Inter-BMC/ASF rates to read as follows:]

A parcel containing Bound Printed Matter and Media Mail is charged postage at the Inter-BMC/ASF Parcel Post rates if it:

* * * * *

P200 Periodicals

1.0 BASIC INFORMATION

* * * * *

[Amend 1.4 by replacing “Standard Mail” with “Standard Mail and Package Services mail”; no other changes to text.]

* * * * *

[Amend 1.9 by replacing “Standard Mail” with “Standard Mail and Package Services”; no other changes to text.]

* * * * *

P600 Standard Mail

1.0 BASIC INFORMATION

[Amend 1.1 by redesignating 1.1b as P700.1.1, redesignating 1.1a as 1.1; and by replacing “Standard Mail (A)” with “Standard Mail”; no other changes to text.]

* * * * *

[Amend the heading of 2.0 to delete “Standard Mail (A)” to read as follows:]

2.0 PRESORTED AND ENHANCED CARRIER ROUTE RATES

* * * * *

[Amend the heading of 3.0 to delete “Standard Mail (A)” to read as follows:]

3.0 AUTOMATION RATES

* * * * *

[Add new 4.0 to read as follows:]

4.0 MACHINABLE PARCEL BARCODED DISCOUNT

4.1 All Pieces in Mailing Eligible

If all parcels in a mailing are eligible for the machinable parcel barcoded discount under E610 and E620, the mailing may be paid with meter stamps, permit imprints, or precanceled postage under the applicable standards.

4.2 Less than 100% Eligibility

If fewer than 100% of the parcels in the mailing are eligible for the machinable parcel barcoded discount, the following postage payment standards apply:

a. Payment with precanceled stamps is not permitted.

b. Metered postage may be used only if exact postage is affixed to each piece in the mailing.

c. Use of permit imprints is permitted only under a manifest mailing system (P910).

[Add new 5.0 to read as follows:]

5.0 MAIL WITH SPECIAL SERVICES

5.1 Bulk Insurance

Mailings for which bulk insurance is requested must pay postage and fees through a manifest mailing system (P910).

5.2 Electronic Option Delivery Confirmation

If electronic option Delivery Confirmation is requested for all the pieces in the mailing and the mailing consists of pieces of identical weight, postage may be paid with metered postage or permit imprints under the applicable standards in 2.0. If Delivery Confirmation is not requested for all of the pieces in the mailing, or if the pieces are not identical weight, either the exact metered postage must be affixed to each piece, or a manifest mailing system must be used for permit imprint mail under P910. Use of precanceled stamps is not permitted with Delivery Confirmation.

5.3 Return Receipt for Merchandise

If return receipt for merchandise is requested for all the pieces in the mailing and the mailing consists of pieces of identical weight, postage may be paid with metered postage or permit imprints under the applicable standards in 2.0. If return receipt for merchandise is not requested for all of the pieces in the mailing, or if the pieces are not identical weight, either the exact metered postage must be affixed to each piece, or a manifest mailing system must be used for permit imprint mail under P910. Use of precanceled stamps is not permitted with return receipt for merchandise.

[Redesignate the heading P700 as P900. Redesignate the heading and contents of P710, P720, P730, P750, and P760 as P910, P920, P930, P950, and P960, respectively.]

[Add new P700 to read as follows:]

P700 Package Services

1.0 BASIC INFORMATION

1.1 Payment Method

[Redesignate P600.1.1b as the contents of 1.1 and amend for clarity to read as follows:]

The mailer is responsible for proper postage payment. Subject to the corresponding standards, postage for Package Services mail may be paid by any method except precanceled stamps. Pieces with postage affixed must bear the correct postage unless excepted by standard. A permit imprint may be used for mailings that contain nonidentical-weight pieces only under P910, P920, or P930. Permit imprints may be used for identical weight pieces provided the mail can be separated at acceptance into groups that each contain pieces subject to the same zone and same combination of rates (e.g., all are zone 4, Inter-BMC, with a BMC presort discount and a barcoded discount). Identical weight permit imprint mail also may be mailed under P910, P920, or P930.

1.2 Postage Statement and Documentation

A complete, signed postage statement, using the correct USPS form or an approved facsimile, must accompany each presorted Package Services mailing. The postage statement must be supported by documentation as required by P012 and the rate claimed unless the correct rate is affixed to each piece or if each piece is of identical weight and the pieces are separated by rate when presented for acceptance.

P900 Special Postage Payment Systems

* * * * *

P920 Optional Procedure (OP) Mailing System

1.0 BASIC INFORMATION

[Amend 1.1 by replacing “Standard Mail” with “Standard Mail and Package Services mail”; no other changes to text.]

* * * * *

P950 Plant-Verified Drop Shipment (PVDS)

1.0 DESCRIPTION

* * * * *

[Amend 1.2c and 1.3b by replacing “Standard Mail” with “Standard Mail and Package Services”; no other changes to text.]

* * * * *

2.0 PROGRAM PARTICIPATION

* * * * *

[Amend 2.3e and 2.5 by replacing “Standard Mail” with “Standard Mail and Package Services”; no other changes to text.]

* * * * *

[Amend 2.7 by replacing “Standard Mail (A)” with “Standard Mail.”]

[Revise heading of 2.8 to read as follows:]

2.8 Postage Statement—Package Services Mail

[Amend 2.8 by replacing “Standard Mail (B)” with “Package Services mail”; no other changes to text.]

* * * * *

4.0 POSTAGE

* * * * *

[Amend 4.2 by replacing “Standard Mail (A)” with “Standard Mail.”]

[Revise heading of 4.3 to read as follows:]

4.3 Package Services Mail

[Amend 4.3 by replacing “Standard Mail (B) with “Package Services mail”; no other changes to text.]

* * * * *

[Amend the heading of 5.0 by replacing “Standard Mail (A)” with “Standard Mail.”]

* * * * *

[Revise heading of 6.0 to read as follows:]

6.0 PACKAGE SERVICES PVDS OPTION

* * * * *

[Amend 6.2 by replacing “Standard Mail (B) with “Package Services mail”; no other changes to text.]

* * * * *

[Amend heading of P960 by removing “(A)” to read as follows:]

P960 First-Class or Standard Mail Mailings With Different Payment Methods

* * * * *

[Amend entire R module to read as follows:]

BILLING CODE 7710-12-P

BILLING CODE 7710-12-C

S SPECIAL SERVICES

S000 Miscellaneous Services

S010 Indemnity Claims

* * * * *

2.0 GENERAL FILING INSTRUCTIONS

2.1 Who May File

[Amend 2.1 by revising 2.1a and 2.1c to read as follows:]

A claim may be filed by:

a. Only the sender, for the complete loss of a registered, insured, COD, or Express Mail item (including merchandise return service parcels where special services were added and paid for by the sender).

* * * * *

c. Only the merchandise return permit holder, for merchandise return service parcels that are registered or insured as indicated by the permit holder on the MRS label.

* * * * *

S070 Mixed Classes

1.0 BASIC INFORMATION

1.1 Priority Mail Drop Shipment

[Amend 1.1 by replacing “Standard Mail (B)” with “Package Services”; no other changes to text.]

1.2 Special Handling

[Amend 1.2 by replacing “Standard Mail (B)” with “Package Services”; no other changes to text.]

* * * * *

S500 Special Services for Express Mail

* * * * *

[Amend 3.0 by changing “Standard Mail” to “Package Services”; no other changes to text.]

S900 Special Postal Services

S910 Security and Accountability

S911 Registered Mail

1.0 BASIC INFORMATION

* * * * *

1.5 Additional Services

[Amend 1.5 by adding new item f to read as follows:]

The following services may be combined with registered mail if the applicable standards for the services are met and the additional service fees are paid:

* * * * *

f. Signature Confirmation.

* * * * *

S912 Certified Mail

1.0 BASIC INFORMATION

* * * * *

1.4 Additional Services

[Revise 1.4 to read as follows:]

The following services may be combined with certified mail if the applicable standards for the services are met and the additional service fees are paid:

a. Return receipt.

b. Restricted delivery.

[Add new 1.5 to specify that mailers may request a receipt after mailing to read as follows:]

1.5 Delivery Record

Mailers may request a verified delivery record after mailing under S915.

2.0 MAILING

* * * * *

2.5 Procedure

[Amend 2.5 by revising 2.5a to read as follows:]

A mailer of certified mail must:

a. Enter on Form 3800 the name and complete address of the person or firm to whom the mail is addressed.

* * * * *

S913 Insured Mail

1.0 BASIC INFORMATION

* * * * *

1.2 Eligible Matter

[Amend 1.2 by changing the class names, removing the “Standard Mail Enclosed” marking requirement, and adding bulk insurance to Standard Mail to read as follows:]

The following types of mail matter may be insured:

a. Package Services.

b. First-Class Mail, if it contains matter that may be mailed as Standard Mail or Package Services.

c. Standard Mail pieces subject to the residual shape surcharge (bulk insurance only).

d. Official government mail endorsed “Postage and Fees Paid.”

1.3 Ineligible Matter

[Amend 1.3 by revising 1.3f to read as follows:]

The following types of mail may not be insured:

* * * * *

f. Standard Mail cards, letters, and flats (i.e., pieces that are not subject to the residual shape surcharge).

* * * * *

1.5 Additional Services

[Revise 1.5 to read as follows:]

The following services may be combined with insurance if the applicable standards for the services are met and the additional service fees are paid:

a. Delivery Confirmation.

b. Parcel airlift (PAL) service.

c. Restricted delivery (for items insured for more than $50).

d. Return receipt for merchandise (for items insured for up to $50).

e. Return receipt service (for items insured for more than $50).

f. Signature Confirmation.

g. Special handling.

[Add new 1.6 to show that customers may request a delivery record after mailing to read as follows:]

1.6 Delivery Record

Mailers may request a verified delivery record after mailing under S915.

* * * * *

4.0 DELIVERY

[Amend 4.0 by changing “parcel” to “item” to read as follows:]

An item insured for $50 or less is delivered as ordinary mail. Delivery of insured mail is subject to D042.

S914 Certificate of Mailing

1.0 BASIC INFORMATION

1.1 Description

[Amend 1.1 to read as follows:]

Certificate of mailing service provides evidence that mail has been presented to the Postal Service for mailing. Certificate of mailing service does not provide a record of delivery.

[Revise heading of 1.2 to read as follows:]

1.2 Eligible Matter—Bulk Quantities

[Amend 1.2 by clarifying text to read as follows:]

Form 3606 is used for a bulk mailing as a certificate to specify the number of pieces mailed. This certificate is provided only for a mailing of identical pieces of First-Class Mail, Standard Mail, and Package Services. This certificate states only the total number of articles mailed and must not be used as an itemized list. A certificate of mailing cannot be issued for a bulk mailing paid with a permit imprint.

[Revise heading of 1.3 to read as follows:]

1.3 Eligible Matter—Single Pieces

[Amend 1.3 by clarifying text to read as follows:]

Form 3817 is used for an individual certificate for single pieces of First-Class Mail (including Priority Mail) and Package Services. Privately printed forms also may be used.

[Revise heading of 1.4 to read as follows:]

1.4 Eligible Matter—Three or More Single Pieces

[Amend 1.4 by clarifying the first sentence to read as follows:]

When requesting a certificate of mailing for three or more pieces of single-piece rate mail presented at one time, a mailer may use Form 3877 (firm mailing book) or a privately printed facsimile, subject to payment of the applicable fee for each item listed. * * *

* * * * *

[Add new 1.7 to read as follows:]

1.7 Additional Services

The following services may be combined with certificate of mailing if the applicable standards for the services are met and the additional service fees are paid:

a. Parcel airlift (PAL) service.

b. Special handling.

* * * * *

S915 Return Receipt

1.0 BASIC INFORMATION

1.1 Description

[Revise 1.1 to show that the return receipt is mailed back to sender:]

Return receipt service provides a mailer with evidence of delivery (to whom the mail was delivered and date of delivery). After delivery, the return receipt is mailed back to the sender. A return receipt requested before mailing also supplies the recipient's actual delivery address, if the delivery address is different from the address used by the sender. A return receipt may be requested before or after mailing.

[Revise 1.2 to read as follows:]

1.2 Eligible Matter

Return receipt service is available for Express Mail, First-Class Mail (including Priority Mail), and Package Services when purchased with one of the following services:

a. Certified Mail.

b. COD.

c. Delivery Confirmation.

d. Insurance (for more than $50).

e. Restricted delivery (for items insured for more than $50).

f. Return receipt for merchandise (for items insured for up to $50).

g. Signature Confirmation.

* * * * *

[Add new 1.7 to show additional services to read as follows:]

1.7 Additional Services

The following special services may be combined with return receipt service if the applicable standards for the services are met and the additional service fees are paid:

a. PAL.

b. Special handling.

2.0 OBTAINING SERVICE

* * * * *

2.2 After Mailing

[Revise 2.2 to clarify how to apply for a delivery record after mailing:]

The mailer may request a delivery record after mailing. When a delivery record is available, the USPS provides the mailer information from that record, including to whom the mail was delivered and the date of delivery. A return receipt after mailing is not available for return receipt for merchandise service. The mailer requests a delivery record by completing Form 3811-A, paying the appropriate fee in R900, and submitting the request to one of the following offices:

a. For items mailed to an APO/FPO, U.S. territory or possession, or freely associated state (with the exception of Puerto Rico and the Virgin Islands), send the form to the office of delivery.

b. For items delivered prior to the activation of the new signature capture process, send the form to the office of delivery.

c. For items delivered after signature capture activation, send the form to any post office.

[Add new 2.3 to show the time limits for requesting a delivery record after mailing:]

2.3 Time Limit

A request for a return receipt after mailing for Express Mail must be submitted within 90 days after the date of mailing. All other requests must be submitted within 2 years from the date of mailing.

* * * * *

S916 Restricted Delivery

1.0 BASIC INFORMATION

* * * * *

[Revise the heading and text of 1.2 to clarify that restricted delivery cannot be used with Standard Mail to read as follows:]

1.2 Eligible Matter

Restricted delivery service is available for First-Class Mail (including Priority Mail) and Package Services that is sent COD, insured for more than $50, registered, or certified.

* * * * *

[Add new 1.7 to read as follows:]

1.7 Additional Services

In addition to the prerequisites listed in 1.2, the following services may be combined with restricted delivery if the applicable standards for the services are met and the additional service fees are paid:

a. Delivery Confirmation.

b. Parcel airlift service (PAL).

c. Signature Confirmation.

d. Special handling.

* * * * *

S917 Return Receipt for Merchandise

1.0 BASIC INFORMATION

1.1 Description

[Add the following sentence after the first sentence:]

* * * After delivery, the return receipt is mailed back to the sender. * * *

* * * * *

[Revise heading of 1.2 to read as follows:]

1.2 Eligible Matter

[Amend 1.2 to add return receipt for merchandise service to Standard Mail:]

Return receipt for merchandise is available for merchandise sent as First-Class Mail (including Priority Mail), Standard Mail pieces subject to the residual shape surcharge, and Package Services.

1.3 Additional Services

[Amend 1.3 by clarifying text to read as follows:]

The following services may be combined with return receipt for merchandise if the applicable standards for the services are met and the additional service fees are paid:

a. Delivery Confirmation.

b. Insurance (for up to $50).

c. Special handling.

* * * * *

[Add new 2.7 to specify how a mailer applies for a delivery record:]

2.7 Receipt Not Received

A mailer who did not receive return receipt for merchandise service for which the mailer had paid may request information from the delivery record using Form 3811-A. Any request must be filed within 2 years after the date of mailing. Mailers cannot request a delivery record unless the item originally was sent with return receipt for merchandise.

3.0 DELIVERY

[Amend 3.0 to delete information about delivery records to read as follows:]

Delivery of return receipt for merchandise mail is subject to D042.

S918 Delivery Confirmation

1.0 BASIC INFORMATION

* * * * *

1.2 Eligible Matter

[Amend 1.2 by adding availability of electronic option to Standard Mail subject to residual shape surcharge to read as follows:]

Delivery Confirmation service is available for Priority Mail, Standard Mail pieces subject to the residual shape surcharge (electronic option only), and Package Services.

[Revise the heading and text of 1.3 to read as follows:]

1.3 Ineligible Matter

Delivery Confirmation is not available for the following:

a. Mail addressed to APO/FPO destinations or to United States territories, possessions, and freely-associated states listed in G011 (except for Puerto Rico and U.S. Virgin Islands, to which service is available).

b. Mail paid with precanceled stamps.

c. Standard Mail cards, letters, and flats (i.e., pieces that are not subject to the residual shape surcharge).

* * * * *

5.0 ACCEPTANCE

[Amend 5.0 by deleting the last sentence in 5.0a.]

* * * * *

[Add new S919 for Signature Confirmation to read as follows:]

S919 Signature Confirmation

1.0 Basic Information

1.1 Description

Signature Confirmation service provides the mailer with information about the date and time an article was delivered, including the recipient's signature, and, if delivery was attempted but not successful, the date and time of the delivery attempt. A delivery record is maintained by the USPS and is available, via fax or mail, upon request. No acceptance record is kept at the office of mailing. Signature Confirmation service is available only at the time of mailing. Signature Confirmation service does not include insurance.

1.2 Eligible Matter

Signature Confirmation is available for Priority Mail and Package Services.

1.3 Service Not Available

Signature Confirmation service is not available for the following:

a. Mail addressed to APO/FPO destinations or to United States territories, possessions, and freely-associated states listed in G011 (except for Puerto Rico and U.S. Virgin Islands, to which service is available).

b. Mail paid with precanceled stamps.

1.4 Service Options

The two Signature Confirmation service options are:

a. Retail option: Available at post offices at the time of mailing. A mailing receipt is provided. Mailers can access delivery information over the Internet at www.usps.com or by calling 1-800-222-1811 toll-free and providing the article number.

b. Electronic option: Available to mailers who apply identifying barcodes to each piece, establish an electronic link with the Postal Service to exchange acceptance and delivery data, provide an electronic file with Signature Confirmation that are entered for mailing, and retrieve delivery status information electronically. No mailing receipt is provided; the mailer's manifest serves as a receipt. Mailers can access delivery information over the Internet at www.usps.com or by calling 1-800-222-1811 toll-free and providing the article number.

1.5 Fees and Postage

The applicable Signature Confirmation fee in R900 must be paid in addition to the correct postage. The fee and postage may be paid with postage stamps, meter stamps, or permit imprint.

1.6 Additional Services

Signature Confirmation may be combined with:

a. Collect on delivery (COD).

b. Insured mail.

c. Registered mail.

d. Restricted delivery (if purchased with insurance for more than $50, COD, or registry service).

e. Special handling.

1.7 Where to Mail

A mailer may mail articles with retail option Signature Confirmation at a post office, branch, or station, or give articles to a rural carrier.

1.8 Firm Mailing Books

If three or more articles are presented for mailing at one time, the mailer may use Form 3877, Firm Mailing Book for Accountable Mail, provided by the Postal Service at no charge, or privately printed firm mailing bills. Privately printed or computer-generated firm mailing bills that contain the same information as Form 3877 may be used if approved by the local postmaster. The mailer may omit columns from Form 3877 that are not applicable to Signature Confirmation mail. Required elements are the package identification code (PIC), 5-digit destination ZIP Code, and applicable fees. If the mailer wants the firm mailing bills receipted by the Postal Service, the mailer must present the books with the articles to be mailed at a post office. The sheets of the books are the mailer's receipts. All entries made in firm mailing books must be made by typewriter or ink. Alterations must be initialed by the mailer and accepting postal employee. All unused portions of the addressee column must be obliterated with a diagonal line. A receipt is required for refund requests.

1.9 Signature Waiver

Customers may waive the recipient signature by indicating this in the prescribed location on the retail label or by placing the endorsement “WAIVER OF SIGNATURE REQUESTED” directly on the shipping label or package in accordance with M012. The endorsement must be printed consistent with the requirements for the carrier release endorsement. This option allows the delivery employee to sign for the article on the first delivery attempt to the listed address if the addressee or addressee's agent is not available to accept the shipment. Customers who waive the signature requirement must accept the delivery employee's signature and date of delivery as proof of delivery. For retail labels, detach both parts of the gummed label and attach to the mailpiece.

2.0 LABELS

2.1 Types of Labels

Mailers may use one of the three Signature Confirmation label options shown in Exhibit 2.1. Additional information may be found in a supplement to Publication 91, Delivery Confirmation Technical Guide:

a. Form 153 obtained from the post office at no charge. This form may be used only with the retail option (see Exhibit 2.1a).

[Exhibit 2.1a, PS Form 153, will be published at a later date.]

b. USPS Label 315, available at no charge to electronic option mailers (see Exhibit 2.1b).

[Exhibit 2.1b, Label 315, will be published at a later date.]

c. Privately printed barcoded labels that meet the requirements in 2.0 and 3.0 (see Exhibit 2.1c).

[Exhibit 2.1c, Privately Printed Label, will be published at a later date.]

2.2 Label Placement

The barcoded label section of Label 315 or Form 152 must be placed either above the delivery address and to the right of the return address or to the left of the delivery address. A privately printed Signature Confirmation label that is separate from a privately printed address label must be placed in close proximity to the address label. In all cases, the entire Signature Confirmation label must be placed on the address side of the mailpiece and not overlap any adjacent side.

3.0 BARCODES

3.1 Symbology

Labels printed by mailers must meet the following symbology requirements:

a. Mailers printing their own barcodes and using the retail option (1.4a) must print their barcodes using Automatic Identification Manufacturers' (AIM) Uniform Specifications for USS Code Interleaved 2 of 5.

b. Mailers printing their own barcodes and using the electronic option (1.4b) must use one of the following barcode symbologies: UCC/EAN 128, USS Code Interleaved 2 of 5, USS Code 39, or USS Code 128. Each barcode must contain a unique Package Identification Code (PIC) as specified in 3.2. The barcodes must meet the specifications in Publication 91.

3.2 Package Identification Code (PIC)

Each barcode symbology must contain a unique PIC:

a. For UCC/EAN 128, each barcode must contain a unique PIC and be made up of five fields totaling 22 characters. Additional information and specifications can be found in Publication 91. The five required data fields are:

(1) Application Identifier (AI): Two characters; identifies the article as a Signature Confirmation piece.

(2) Service Type Code (STC): two characters; identifies the type of product or service used for each item.

(3) Customer ID: nine characters; DUNS® number that uniquely identifies the customer.

(4) Package Sequence Number (PSN): eight characters; fixed sequential number.

(5) Modulus 10 Check digit: one character.

b. For USS Code Interleaved 2 of 5, USS Code 39, and USS Code 128, each barcode must contain a unique PIC and be made up of four fields totaling 20 characters. The four required data fields are fields 2 through 5 above. Additional information and specifications can be found in Publication 91. These symbologies do not use an Application Identifier (AI).

3.3 Printing

Labels printed by mailers must meet the following specifications:

a. Each barcoded label must bear a unique Signature Confirmation PIC barcode as specified in 3.2 and have “USPS SIGNATURE CONFIRMATION” printed between ⅛ inch and ½ inch above the barcode in minimum 12-point bold sans serif type. Human-readable characters that represent the barcode ID must be printed between ⅛ inch and ½ inch under the barcode in minimum 10-point bold sans serif type. These characters must be parsed in accordance with Publication 91. There must be a minimum of 184-inch clearance between the barcode and any printing. The preferred range of widths of narrow bars and spaces is 0.015 inch to 0.017 inch. The width of the narrow bars or spaces must be at least 0.013 inch but no more than 0.021 inch. All bars must be at least ¾ inch high. Bold (1/16 inch minimum) bars must appear between ⅛ inch and ½ inch above and below the human-readable endorsements to segregate the Signature Confirmation barcode from other areas of the shipping label. The line length must be equal to the length of the barcode (see Exhibit 2.1b).

b. Each barcode must meet the requirements in 3.1 for the type of service requested.

c. Mailers must obtain Postal Service certification for each printer used to print barcoded Signature Confirmation labels. For certification, a mailer must forward for evaluation and approval 20 barcoded labels/forms generated by each printer to the National Customer Support Center (NCSC), Attention Barcode Certification (see G043 for address). The Postal Service will issue the mailer a PS Form 3152, Delivery Confirmation Certification, for each printer certified. All barcodes must be in accordance with 2.0 and 3.0. Further certification instructions are included in Publication 91.

d. Barcodes that do not meet specifications will not be accepted by the USPS. The USPS will contact the mailer if problems with the barcodes are found and will try to resolve the problem. The USPS may suspend a mailer's certification if electronic file quality does not meet specifications.

e. Mailers who have previously received certification for label printing under the Delivery Confirmation program must submit five Signature Confirmation labels to the NCSC (see G043).

4.0 ELECTRONIC FILE TRANSMISSION

Mailers must meet the following standards for electronic file transmission:

a. Publication 91 contains specifications for electronic file transmission. A test file transmission must be uploaded and approved before mailings begin. Upon certification, USPS will issue to the mailer a Form 3152 for the mailer's electronic file format.

b. Mailers using the electronic option will be required to transmit a file with a unique record for each article mailed. The USPS will contact the mailer if problems with the file are found and will try to resolve those problems. The USPS may suspend a mailer's certification if the electronic file quality does not meet specifications. In addition, USPS acceptance units will be notified to charge the customer the retail option Signature Confirmation fee.

c. Mailers who have previously received certification for electronic file transmission under the Delivery Confirmation program are not required to do any additional certification for Signature Confirmation service use.

5.0 ACCEPTANCE

Customers must meet the following requirements when presenting electronic option Signature Confirmation mail for acceptance:

a. Presorted or permit imprint mailings containing pieces for which fees are paid for Signature Confirmation service must be presented to a post office business mail entry unit (BMEU), detached mail unit (DMU) at the mailer's plant, bulk mail center or auxiliary service facility business mail entry unit, or other postal facility capable of properly verifying the mailing and at which the mailer has obtained the necessary permits or license and paid any applicable mailing fee.

b. Mailers who use the electronic option or print their own labels must submit a completed PS Form 3152 with each mailing. Each PS Form 3152 must contain the Signature Confirmation electronic file number or barcode equivalent, date of mailing, and, if available, the total number of Signature Confirmation pieces by class of mail. The barcode format must comply with standards in Publication 91.

S920 Convenience

S921 Collect on Delivery (COD) Mail

1.0 BASIC INFORMATION

1.1 Description

[Amend 1.1 to show the new $1,000 limit for COD to read as follows:]

Any mailer may use collect on delivery (COD) service to mail an article for which the mailer has not been paid and have its price and the cost of the postage collected from the recipient. If the recipient pays the amount due by check payable to the mailer, the USPS forwards the check to the mailer. If the recipient pays the amount due in cash, the USPS collects the money order fee(s) from the recipient and sends a postal money order(s) to the mailer. The amount collected from the recipient may not exceed $1,000. COD service provides the mailer with a mailing receipt, and a delivery record is maintained by the Postal Service.

[Amend 1.2 by replacing “Standard Mail (B)” with “Package Services” and “Special Standard Mail” with “Media Mail”; no other changes to text.]

* * * * *

[Amend title of 1.4 by replacing “Other” with “Additional” to read as follows:]

1.4 Additional Services

[Amend 1.4 by clarifying the text to read as follows:]

The following services may be combined with COD if the applicable standards for the services are met and the additional service fees are paid:

a. Delivery Confirmation (not available with Express Mail COD).

b. Restricted delivery (not available with Express Mail COD).

c. Return receipt.

d. Signature Confirmation.

* * * * *

S922 Business Reply Mail (BRM)

* * * * *

3.0 POSTAGE AND FEES

* * * * *

[Redesignate current 3.4 through 3.11 as 3.6 through 3.13, respectively. Add new 3.4 and 3.5 to read as follows:]

3.4 Quarterly Fee for High-Volume QBRM

Mailers may choose to pay a quarterly fee in addition to the annual accounting fee; payment of the quarterly fee entitles mailers to a lower per-piece charge. The quarterly fee (and annual accounting fee) must be paid at each post office where mail is returned and for each separate billing desired. Mailers are committed to the “quarterly fee system” only for the time they pay the quarterly fee (i.e., mailers can opt out of the quarterly fee and high-volume QBRM per-piece charges by simply not paying the fee for the next quarter). The quarterly fee cannot be paid or renewed retroactively to receive a lower per-piece charge on pieces already paid for and delivered. The quarterly fee can be paid for any three consecutive calendar months.

3.5 Payment Period for Quarterly Fee

The quarterly fee must be paid in advance for at least one but no more than four quarterly periods. A quarterly period begins on either the first day of the month (if a mailer pays on or before the 15th of the month) or the first day of the following month (if a mailer pays after the 15th of the month) and continues for three consecutive calendar months. A mailer who pays the quarterly fee is entitled to the reduced per-piece charge from the date of payment through the end of the quarterly period.

[Amend the heading of redesignated 3.6 by adding “Weight-Averaging” to read as follows:]

3.6 Nonletter-Size BRM Weight-Averaging Fees

[Amend redesignated 3.6 by clarifying text to read as follows:]

A mailer must pay the annual BRM permit fee and the annual accounting fee when the bulk weight-averaging method for nonletter-size BRM in 7.0 is used. In addition, a maintenance fee must be paid monthly for each account to which postage and fees are charged on the basis of this method. * * *

* * * * *

S923 Merchandise Return Service

1.0 BASIC INFORMATION

1.1 Description

[Amend 1.1 by replacing “Standard Mail (B)” with “Package Services” and “Special Standard Mail” with “Media Mail” and by deleting references to the per-piece fee to read as follows:]

Merchandise return service allows an authorized permit holder to pay the postage and special service fees on single-piece rate First-Class Mail, Priority Mail, and Package Services parcels that are returned by the permit holder's customers via a special label produced by the permit holder.

* * * * *

1.3 Payment Guarantee

[Revise 1.3 read as follows:]

The permit holder guarantees payment of the proper postage and special service fees (except for insurance purchased by the sender) on all parcels returned via a special label produced by the permit holder.

* * * * *

1.8 Priority Mail Reshipment

[Amend 1.8 by replacing “Standard Mail” with “Package Services”; no other changes to text.]

* * * * *

1.11 Mailer Markings and Endorsements

[Amend 1.11 to show that unmarked pieces will be treated as Parcel Post to read as follows:]

It is recommended but not required that permit holders preprint a rate marking on the merchandise return service labels they distribute. Preprinting a rate marking guarantees that returned parcels will be given service and charged postage according to the wishes of the permit holder. Regardless of weight, all unmarked parcels will be treated as Parcel Post and charged Parcel Post rates.

[Remove item 1.12.]

2.0 PERMITS

* * * * *

2.3 Multiple Accounts

[Amend 2.3 to clarify the reference to the annual accounting fee:]

When an advance deposit account is kept at each entry location, a separate permit is needed and the annual merchandise return service permit and annual accounting fees must be paid at each office.

* * * * *

2.7 Permit Cancellation

[Amend 2.7 to remove references to the per-piece fee and to delete the last sentence to read as follows:]

The USPS may cancel a permit if the permit holder refuses to accept and pay postage and fees on merchandise return service parcels, fails to keep sufficient funds in the advance deposit account to cover postage and fees, or distributes merchandise return labels or tags that do not meet USPS standards.

* * * * *

[Revise 3.0 to read as follows:]

3.0 POSTAGE AND FEES

3.1 Postage

Merchandise return service parcels are charged single-piece rate postage and special service fees based on the class or subclass marking on the label. If a parcel is unmarked, then it is charged Parcel Post rates. If the postage for the returned parcel is zoned and there is no way to determine where it was sent from (i.e., no postmark or return address), then postage is calculated at zone 4 (for Priority Mail) or zone 4 Inter-BMC/ASF rates (for Parcel Post). Postage is deducted from an advance deposit account.

3.2 Per Piece Charge

There is no per piece charge for returned parcels.

3.3 Permit Fee

A permit fee is charged once each 12-month period on the anniversary date of the permit. The fee may be paid in advance only for the next year and only during the last 30 days of the current service period. The fee charged is that which is in effect on the date of payment.

3.4 Advance Deposit Account and Annual Accounting Fee

The permit holder must pay postage and special service fees through an advance deposit account and must pay an annual accounting fee (see R900). The accounting fee is charged once each 12-month period on the anniversary date of the initial accounting fee payment. The fee may be paid in advance only for the next year and only during the last 30 days of the current service period. The fee charged is that which is in effect on the date of payment. A separate advance deposit account for MRS is not required; the annual accounting fee is charged if MRS postage and fees are paid from an existing account.

4.0 ADDITIONAL FEATURES

[Amend heading of 4.1 by adding “Indicated by Permit Holder” to read as follows:]

4.1 Insurance Indicated by Permit Holder

[Amend 4.1 by clarifying text to read as follows:]

The permit holder may obtain insured mail service with MRS. Only Package Services matter (i.e., matter not required to be mailed at First-Class Mail rates under E110) may be insured. Insured mail may be combined with Delivery Confirmation and special handling, or both. To request insured mail service, the permit holder must preprint or rubber-stamp “Insurance Desired by Permit Holder for $__ (value)” to the left of and above the “Merchandise Return Label” legend and below the “Total Postage and Fees Due” statement on the merchandise return label. The value part of the endorsement, showing the dollar amount of insurance for the article, may be handwritten by the permit holder. If insurance is paid for by the MRS permit holder, then only the MRS permit holder may file a claim (S010).

[Remove current 4.2. Add new 4.2 to read as follows:]

4.2 Insurance Added by Sender

If the permit holder has not indicated insured mail service on the MRS label, then the sender has the option of adding insurance and paying the applicable insured fee. If insurance is paid by the sender, then only the sender may file a claim (S010). The permit holder pays postage upon receipt, but does not pay the insured fee when insurance is added by the sender.

[Revise the title of 4.3 to read “Insured Markings”; no other changes to text.]

* * * * *

5.0 FORMAT

* * * * *

5.6 Format Elements

[Amend 5.6 by revising 5.6c to clarify that rate markings are optional on MRS labels.]

Format standards required for the merchandise return label are shown in Exhibit 5.6a, Exhibit 5.6b, Exhibit 5.6c, and Exhibit 5.6d, and described as follows:

* * * * *

c. Rate Marking. If the rate marking recommended in 1.11 is used, it must be placed in the space to the right and above the “Merchandise Return Label” legend. The marking must be at least 3/16 inch high and printed or rubber-stamped. Only the permit holder may apply this marking.

* * * * *

[Amend the postage and fee markings shown in 5.6d(2) to remove the entry for the merchandise return service fee.]

[Amend the postage and fee markings shown in 5.6e(2) to remove the entry for the merchandise return service fee.]

[Amend Exhibits 5.6a, 5.6b, 5.6d, and 5.6d to remove the entry for the merchandise return service fee.]

* * * * *

S924 Bulk Parcel Return Service

1.0 BASIC INFORMATION

1.1 Description

[Amend 1.1 to change “Standard Mail (A)” to “Standard Mail” and to add payment information:]

Bulk parcel return service (BPRS) allows mailers of large quantities of Standard Mail machinable parcels that are either undeliverable-as-addressed or opened and remailed by addressees to be returned to designated postal facilities. The mailer has the option of picking up all returned parcels from a designated postal facility at a predetermined frequency specified by the Postal Service or having them delivered by the Postal Service in a manner and frequency specified by the Postal Service. For this service a mailer pays an annual permit fee and a per piece charge for each parcel returned. Payment for the returned pieces is deducted from an advance deposit account.

1.2 Availability

[Amend 1.2 by replacing “Standard Mail (A)” with “Standard Mail” and “Standard Mail (B)” with “Package Services” in 1.2i; no other changes to text.]

* * * * *

[Add new 1.4 to indicate that bulk parcel return service cannot be used with special services to read as follows:]

1.4 Special Services

Special services cannot be added to pieces sent through bulk parcel return service.

* * * * *

[Amend 3.0 by replacing “Postage” with “Charges” to read as follows:]

3.0 CHARGES AND FEES

* * * * *

[Renumber current 3.2 as 3.5. Add new 3.2 through 3.4 to clarify the per-piece charges and to describe the new annual accounting fee to read as follows:]

3.2 Per-Piece Charge

Each piece returned through BPRS is charged only the per-piece charge in R900. Postage is not charged for pieces returned through BPRS.

3.3 Advance Deposit Account

The permit holder must pay BPRS fees through an advance deposit account and pay an annual accounting fee (see R900). This fee covers the administrative cost of maintaining the account and provides the mailer with a single accounting of all charges deducted from that account. The accounting fee is charged once each 12-month period on the anniversary date of the initial accounting fee payment. The fee may be paid in advance only for the next year and only during the last 30 days of the current service period. The fee charged is that which is in effect on the date of payment.

3.4 Existing Advance Deposit Account

A separate advance deposit account for MRS is not required; the annual accounting fee is charged if MRS postage and fees are paid from an existing account.

[Amend the title and content of renumbered 3.5 to clarify the payment guarantee to read as follows:]

3.5 Payment Guarantee

The permit holder guarantees payment of all applicable fees. The post office returns MRS items to the permit holder only when there are sufficient funds in the advance deposit account to pay the fees on returned pieces.

* * * * *

5.0 FORMAT

[Amend Exhibit 5.0 to change the class marking to “Standard Mail.”]

* * * * *

5.4 Class Endorsement

[Amend 5.4 to change “STANDARD MAIL A” to “STANDARD MAIL.” No other changes to text.]

* * * * *

S930 Handling

1.0 SPECIAL HANDLING

* * * * *

1.2 Availability

[Amend 1.2 by replacing “Standard Mail (B)” with “Package Services” and “Special Standard Mail” with “Media Mail”; no other changes to text.]

1.3 Additional Services

[Amend 1.3 to clarify the opening sentence, to change “Standard Mail (B)” to “Package Services,” and to add Signature Confirmation to read as follows:]

The following special services may be combined with special handling if the applicable standards for the services are met and the additional service fees are paid:

a. COD.

b. Delivery Confirmation.

c. Insurance.

d. PAL (for Package Services only).

e. Return receipt for merchandise.

f. Signature Confirmation.

* * * * *

[Add new 1.7 to clarify that the nonmachinable surcharge is not charged on pieces sent special handling:]

1.7 Nonmachinable Parcels

The Parcel Post nonmachinable surcharge is not charged on parcels sent special handling.

2.0 PARCEL AIRLIFT (PAL)

* * * * *

[Amend 2.2 by replacing “Standard Mail (B)” with “Package Services”; no other changes to text.]

2.3 Additional Services

[Amend 2.3 to clarify the opening sentence to read as follows:]

The following special services may be combined with PAL if the applicable standards for the services are met and the additional service fees are paid:

* * * * *

An appropriate amendment to 39 CFR to reflect these changes will be published if the proposal is adopted.

Stanley F. Mires,
Chief Counsel, Legislative.

[FR Doc. 00-21416 Filed 8-28-00; 8:45 am]

BILLING CODE 7710-12-P